DEPARTMENT OF COMMERCE

National Oceanic and Atmospheric Administration

15 CFR Part 922

[Docket No. 240213-0047]

RIN 0648-BL33

Papahānaumokuākea National Marine Sanctuary; Final Regulations

AGENCY: Office of National Marine Sanctuaries (ONMS), National Ocean Service (NOS), National Oceanic and Atmospheric Administration (NOAA), Department of Commerce (DOC).

ACTION: Final rule; notification of availability of final management plan and Record of Decision.

SUMMARY: NOAA is designating Papahānaumokuākea National Marine Sanctuary (sanctuary) to protect nationally significant biological, cultural, and historical resources and to manage this special place as part of the National Marine Sanctuary System. The sanctuary consists of an area of approximately 582,570 square statute miles (439,910 square nautical miles) of Pacific Ocean waters surrounding the Northwestern Hawaiian Islands and the submerged lands thereunder. NOAA is establishing the terms of designation for the sanctuary and the regulations to implement the national marine sanctuary designation. NOAA has also published a final environmental impact statement (final EIS) in coordination with the State of Hawai'i, final management plan, and Record of Decision.

DATES: Effective Date: Pursuant to section 304(b) of the National Marine Sanctuaries Act (NMSA) (16 U.S.C. 1434(b)), the designation and regulations shall take effect and become final after the close of a review period of forty-five days of continuous session of Congress, beginning on the date on which this Federal rulemaking is published, which is January 16, 2025. During that review period, the Governor of the State of Hawai'i may certify to the Secretary of Commerce that the designation or any of its terms is unacceptable, in which case the designation or any unacceptable term shall not take effect in State waters of the sanctuary. The public can track days of Congressional session at the following website: https://www.congress.gov/days-in-session. NOAA will publish an announcement of the effective date of the final regulations in the Federal Register.

ADDRESSES: Copies of the final environmental impact statement (EIS) and management plan described in this rule and the record of decision (ROD) are available at https://sanctuaries.noaa.gov/papahanaumokuakea/.

FOR FURTHER INFORMATION CONTACT: Eric Roberts, Papahānaumokuākea Marine National Monument Superintendent, at Eric.Roberts@noaa.gov or 808-294-7470.

SUPPLEMENTARY INFORMATION:

I. Introduction

A. Background

The NMSA (16 U.S.C. 1431 et seq.) authorizes the Secretary of Commerce to designate and protect as national marine sanctuaries areas of the marine environment that are of special national significance due to their conservation, recreational, ecological, historical, scientific, cultural, archaeological, educational, or esthetic qualities. Day-to-day management of national marine sanctuaries has been delegated by the Secretary of Commerce to NOAA. The primary objective of the NMSA is to protect the resources of the National Marine Sanctuary System. NOAA is designating marine portions of the Papahānaumokuākea Marine National Monument as a national marine sanctuary to provide comprehensive and coordinated management of the marine areas of Papahānaumokuākea to protect nationally significant biological, cultural, and historical resources. The original Papahānaumokuākea Marine National Monument (PMNM, 0-50 nm), and the Monument Expansion Area (MEA, 50-200 nm), (collectively “Monument”), located around the Northwestern Hawaiian Islands, were established under the Antiquities Act of 1906 (54 U.S.C. 320301 et seq.) through, respectively, Presidential Proclamation 8031 of June 15, 2006; as amended by Presidential Proclamation 8112 of February 28, 2007; and Presidential Proclamation 9478 of August 26, 2016. The Monument is administered jointly by four co-trustees—the Department of Commerce (DOC), the Department of the Interior (DOI), the State of Hawai'i, and the Office of Hawaiian Affairs (OHA).

The 2000 Amendments to the NMSA authorized designation of a Northwestern Hawaiian Islands Coral Reef Ecosystem Reserve (Reserve) to be managed by the Secretary of Commerce. In December 2000, President Clinton issued Executive Order 13178 that began the public process to establish the Reserve, and directed the Secretary of Commerce to initiate the process to designate the Reserve as a national marine sanctuary. In January 2001, President Clinton issued Executive Order 13196 finalizing the establishment of the Reserve.

In 2006, President Bush established PMNM through Proclamation 8031 to protect and preserve the marine area of the Northwestern Hawaiian Islands and certain lands as necessary for the care and management of the historic and scientific objects therein. The Federal land and interests in land reserved included approximately 139,793 square miles of emergent and submerged lands and waters of the Northwestern Hawaiian Islands. NOAA and the United States Fish and Wildlife Service (USFWS) promulgated implementing regulations at 50 CFR part 404 for PMNM.

In 2016, President Obama established the MEA through Proclamation 9478, which included the waters and submerged lands seaward of the PMNM to the extent of the seaward limit of the United States Exclusive Economic Zone (U.S. EEZ) west of 163° West Longitude. The MEA includes an additional 442,781 square miles. Presidential Proclamation 9478 also directed the Secretary of Commerce to consider initiating the process to designate the MEA and PMNM seaward of the Hawaiian Islands National Wildlife Refuge and Midway Atoll National Wildlife Refuge and Battle of Midway National Memorial as a national marine sanctuary to supplement and complement existing authorities. On December 27, 2020, the Joint Explanatory Statement accompanying the Consolidated Appropriations Act, 2021, further directed NOAA to initiate the process to designate the Monument as a national marine sanctuary.

The sanctuary consists of a total area of approximately 582,570 square miles (439,910 square nautical miles). The precise boundary coordinates are defined in Appendix A to the regulations at 15 CFR part 922, subpart W. The sanctuary boundary encompasses the submerged lands, seamounts, and Pacific Ocean waters from the shoreline seaward to approximately 200 nautical miles west of 163° West Longitude surrounding the Northwestern Hawaiian Islands, which consist of the islands, atolls, and emergent lands stretching from Nihoa in the southeast to Kure Atoll in the northwest. The adjoining marine waters east of 163° West Longitude surrounding Nihoa extend seaward from the shoreline to approximately 50 nautical miles.

The sanctuary is a place of unique environmental resources that provide large-scale ecosystem services for both the region and the world. The marine habitat includes several interconnected ecosystems, including coral islands surrounded by shallow reef, deeper reef habitat characterized by seamounts, banks, and shoals, mesophotic reefs with extensive algal beds, pelagic waters connected to the greater North Pacific Ocean, and deep-water habitats such as abyssal plains 5,000 meters below sea level. These ecosystems are connected as essential habitats for rare species such as the threatened green turtle and the endangered Hawaiian monk seal, as well as over 14 million seabirds that forage in the pelagic waters to nourish the chicks they are raising on the tiny islets. These waters are home to 20 cetacean species protected by the Marine Mammal Protection Act, with some listed as endangered under the Endangered Species Act. The importance of these waters to the Hawaiian humpback whale is only recently becoming understood. At least a quarter of the nearly 7,000 known marine species found in the region are found nowhere else on Earth.

The area of the sanctuary is also a sacred place to Native Hawaiians, who regard the islands and wildlife as kūpuna, or ancestors. The region holds deep cosmological and traditional significance for the people of Hawai'i and the Native Hawaiian culture. Papahānaumokuākea is as much a spiritual space as it is a physical geographical area, deeply rooted in Native Hawaiian creation and settlement stories. Since Native Hawaiian culture considers nature and culture to be one and the same, the protection of one of the last nearly pristine, natural, marine ecosystems in the archipelago is seen as being akin to preserving the living culture.

The area of the sanctuary also includes the location of the Battle of Midway, a turning point in World War II for the allies in the Pacific Theater. Research indicates that there are 60-80 sunken military vessels and hundreds of sunken military aircraft on the seafloor. In addition to Navy steamers and aircraft, there are whaling ships, ancient Japanese sailing ships known as junks, motorized East Asian style fishing vessels known as Hawaiian fishing sampans, Pacific colliers, and other vessels from the 19th and 20th centuries. Of these, the locations of more than 30 vessel wreck sites have been confirmed by diving or bathymetric surveys, with only a handful of those identified by vessel name or otherwise evaluated.

B. Purpose and Need for Action

The NMSA (16 U.S.C. 1431 et seq.) authorizes the Secretary of Commerce to designate national marine sanctuaries to meet the purposes and policies of the NMSA, including:

• to provide authority for comprehensive and coordinated conservation and management of these marine areas, and activities affecting them, in a manner which complements existing regulatory authorities;

• to maintain the natural biological communities in the national marine sanctuaries, and to protect, and, where appropriate, restore and enhance natural habitats, populations, and ecological processes;

• to enhance public awareness, understanding, appreciation, and wise and sustainable use of the marine environment, and the natural, historical, cultural, and archaeological resources of the National Marine Sanctuary System” (16 U.S.C. 1431(b)(4));

• “to support, promote, and coordinate scientific research on, and long-term monitoring of, the resources of these marine areas” (16 U.S.C. 1431(b)(5)); and

• “to facilitate to the extent compatible with the primary objective of resource protection, all public and private uses of the resources of these marine areas not prohibited pursuant to other authorities” (16 U.S.C. 1431(b)(6)).

NOAA is designating the marine areas of the Monument as a national marine sanctuary. The purpose of this action is to provide comprehensive and coordinated conservation and management of the marine areas of Papahānaumokuākea to protect nationally significant biological, cultural, and historical resources. Additionally, the purpose of the designation is to implement the provisions of Executive Order 13178, Presidential Proclamation 9478, and the Joint Explanatory Statement accompanying the Consolidated Appropriations Act, 2021.

Accordingly, NOAA is designating this area as a national marine sanctuary to:

• Develop objectives and actions that ensure lasting protection consistent with the existing Monument proclamations;

• Safeguard natural and cultural values of the marine environment;

• Apply additional regulatory and non-regulatory tools to augment and strengthen existing protections for Papahānaumokuākea ecosystems, wildlife, and cultural and maritime heritage resources;

• Authorize NOAA to exercise enforcement authorities, including the assessment of civil penalties for violations of provisions of the NMSA and regulations and permits issued pursuant to the NMSA (16 U.S.C. 1437);

• impose liability for destruction, loss of, or injury to sanctuary resources and provide natural resource damage assessment authorities for destruction, loss of, or injury to any sanctuary resource; and

• require interagency consultation for any Federal agency action that is likely to destroy, cause the loss of, or injure any sanctuary resource.

C. Designation Process

1. Notice of Intent To Designate a National Marine Sanctuary

On November 19, 2021, NOAA initiated the process to designate marine portions of the Monument as a national marine sanctuary by publishing a Notice of Intent to Conduct Scoping and to Prepare an Environmental Impact Statement for the Proposed Designation of a National Marine Sanctuary within Papahānaumokuākea Marine National Monument (86 FR 64904). The notice of intent stated that NOAA would prepare a draft EIS per the requirements of the National Environmental Policy Act (NEPA; 42 U.S.C. 4321 et seq.) and the NMSA. The notice of intent also announced NOAA's intent to fulfill its responsibilities under the National Historic Preservation Act (NHPA; 54 U.S.C. 300101 et seq.). The State of Hawai'i published its EIS preparation notice on December 8, 2021. Following publication of these notices, NOAA conducted four virtual public scoping meetings. During the 74-day public comment period from November 19, 2021 through January 31, 2022, 73 individuals and organizations provided written input. An estimated 165 people attended the four scoping meetings, with 9 people providing oral comments. The Summary of Scoping Input on the Notice of Intent and EIS Preparation Notice and State of Hawai'i Responses to Public Scoping Comments are included in the final EIS as Appendix F.

2. Public Comment on Draft Designation Materials

On March 1, 2024, NOAA published a notice of proposed rulemaking and a notice of availability of the draft EIS (89 FR 15272) to release a proposed rule, draft EIS, and draft sanctuary management plan; and to request public comments on the proposed sanctuary designation documents. On March 8, 2024, the State of Hawai'i also informed the public about the availability of the draft EIS through an announcement in its bulletin, The Environmental Notice, per the Hawai'i Environmental Policy Act (HEPA), Hawai'i Revised Statutes (HRS) Chapter 343-3(c). The USFWS, the State of Hawai'i, and the Department of the Navy served as cooperating agencies in reviewing and assisting with the development of the draft EIS.

The public comment period took place over the course of 68 days from March 1 to May 7, 2024. Public meetings were held to provide additional information and to receive public input in the form of oral and written comments. Comments were accepted in both English and 'ōlelo Hawai'i during 11 public meetings, held between April 6-18, 2024, including two virtual and nine in-person public meetings on O'ahu, Kaua'i, Hawai'i Island, Maui, and Moloka'i. Comments were also accepted through the Federal eRulemaking portal and by traditional mail through May 7, 2024, both in English and 'ōlelo Hawai'i. An estimated 237 people attended the 11 public meetings and 61 individuals provided oral comments. During the public comment period, 488 written comments and 13,385 form letters were received from individuals, organizations, and agencies. A total of 13,934 comments were received, with the overwhelming majority in support of sanctuary designation.

Major themes of comments included sanctuary access, permitting, prohibitions, enforcement, Native Hawaiian indigenous rights and cultural integration, fishing, co-management, resource protection, education and outreach, partnerships, and community participation. After the public comment period closed, the comments were carefully reviewed and cataloged by substantive issues contained in the comments. In preparing the final EIS, final sanctuary management plan, and final rule, NOAA and the State of Hawai'i considered comments received on the draft designation documents, identified substantive comments, and provided responses to these comments. A summary of these comments and the corresponding responses from NOAA are provided in the final EIS Appendix K and in Section V of this rulemaking. In response to these substantive comments, NOAA clarified information and made changes to this final rule, the final EIS, and the final sanctuary management plan, as described further below.

3. Development of Terms of Designation and Regulations

Section 304(a)(4) of the NMSA requires that the terms of designation include: (1) the geographic area that is included within the sanctuary; (2) the characteristics of the area that give it conservation, recreational, ecological, historical, research, educational, or esthetic value; and (3) the types of activities that would be subject to regulation by the Secretary to protect these characteristics. Section 304(a)(4) of the NMSA also specifies that the terms of designation may be modified only by the same procedures by which the original designation was made.

The purpose and need for the sanctuary provide the overarching basis for developing the regulations. The designation of the sanctuary will not replace the area's current status as a marine national monument. Existing authorities, including management authorities of all Monument co-trustees, will remain in effect. Sanctuary designation will supplement the existing provisions for management of the Monument and protect resources in the Northwestern Hawaiian Islands. To develop these regulations, NOAA reviewed the following, which currently guide Monument management:

• Executive Order 13178—Northwestern Hawaiian Islands Coral Reef Ecosystem Reserve, December 4, 2000;

• Presidential Proclamation 8031—Establishment of the Northwestern Hawaiian Islands Marine National Monument, June 15, 2006;

• Presidential Proclamation 8112—Amending Proclamation 8031 of June 15, 2006 to Read “Establishment of the Papahānaumokuākea Marine National Monument,” February 29, 2007;

• Regulations implementing Presidential Proclamations 8031 and 8112 at 50 CFR part 404; and

• Presidential Proclamation 9478—Papahānaumokuākea Marine National Monument Expansion, August 26, 2016.

These executive orders, presidential proclamations, and regulations served as benchmarks for drafting the rule for the sanctuary. Sanctuary designation will only add to, and will not diminish, Monument management measures and protections. NOAA has adopted the management measures from these benchmarks, and, in a few areas, added onto those measures to achieve consistency in regulation and management across the sanctuary. The final rule unifies management of the area by removing discrepancies and gaps in prohibitions, regulated activities, and permit criteria, providing clarity and comprehensive protection for the sanctuary.

In developing this final rule and the sanctuary terms of designation, NOAA also considered: (1) information received through public scoping and public review of the draft designation documents, cooperating agency review, and coordination with the Monument co-trustees through the seven-member Monument Management Board, which consists of NOAA ONMS, NOAA Fisheries, USFWS Ecological Services, USFWS Refuges, Hawai'i Department of Land and Natural Resources (DLNR) Division of Aquatic Resources, DLNR-Division of Forestry and Wildlife, and OHA; and (2) information from analysis of issues in the EIS, interagency coordination, and internal staff analysis and expertise. NOAA also consulted with the Western Pacific Regional Fishery Management Council as required under the NMSA.

Following publication of the proposed rule, in consideration of public comments and further review, NOAA made minor changes to the terms of designation and the regulations which are described in detail in Section III of this final rule. NOAA provides a detailed discussion of the final regulations in Section IV, subsection A through O, of this rule. The text of the final regulations is presented at the end of this rule.

4. Development of Final Management Plan

A final sanctuary management plan has been prepared in accordance with NMSA section 304(a)(2)(C). Management plans are site-specific documents that ONMS uses to manage individual sanctuaries. The final sanctuary management plan: (1) articulates the sanctuary's vision, mission, goals, and objectives; (2) describes the management activities and initiatives that NOAA will conduct; and (3) provides strategies and assessment measures to guide the sanctuary's short- and mid-range management. In response to public comments, NOAA made minor changes to the final sanctuary management plan, which is included as Appendix A to the final EIS.

5. Final Environmental Impact Statement

In accordance with NEPA (42 U.S.C. 4321 et seq.), the NMSA, and HEPA (HRS Chapter 343, HAR Chapter 11-200.1), NOAA and the State of Hawai'i released a final EIS for the national marine sanctuary designation in advance of the publication of this final rule. NOAA is the lead Federal agency in the preparation of the final EIS. The USFWS, State of Hawai'i, the Department of the Navy, and OHA were cooperating agencies for the final EIS. The final EIS describes the purpose and need for the proposed action of designating a national marine sanctuary, identifies a range of alternatives including the preferred alternative, provides an assessment of resources and uses in the area, and evaluates the potential environmental consequences of the designation including by comparing the beneficial and adverse impacts among alternatives. NOAA has provided a section in the final EIS (see Section 1.5) to outline the substantive changes made between the draft EIS and final EIS.

The final EIS analyzes four alternatives; including a “no action” alternative, in which the area would not be designated as a national marine sanctuary; and three boundary alternatives:

• Alternative 1 is coextensive with the marine portions of the Monument. The boundary includes the marine environment surrounding the Northwestern Hawaiian Islands from the shoreline of the islands and atolls seaward to 200 nautical miles, including all State waters and waters of the Northwestern Hawaiian Islands Coral Reef Ecosystem Reserve, Midway Atoll and Hawaiian Islands National Wildlife Refuges, the Battle of Midway National Memorial, and State of Hawai'i Northwestern Hawaiian Islands Marine Refuge. The area encompassed in Alternative 1 is approximately 582,570 square miles (439,910 square nautical miles).

• Alternative 2 includes the marine environment from the shoreline of the islands and atolls seaward to 50 nautical miles. This alternative includes all State waters and waters of the Northwestern Hawaiian Islands Coral Reef Ecosystem Reserve, Midway Atoll and Hawaiian Islands National Wildlife Refuges, the Battle of Midway National Memorial, and State of Hawai'i Northwestern Hawaiian Islands Marine Refuge. This alternative does not include the MEA. The area encompassed in Alternative 2 is approximately 139,782 square miles (105,552 square nautical miles).

• Alternative 3 has the same boundaries as Alternative 1, but excludes waters within the Midway Atoll and Hawaiian Islands National Wildlife Refuges and the Battle of Midway National Memorial. These excluded waters include portions of the State of Hawai'i Northwestern Hawaiian Islands Marine Refuge and the Northwestern Hawaiian Islands Coral Reef Ecosystem Reserve that overlap with national wildlife refuge waters. The area encompassed in Alternative 3 is approximately 581,263 square miles (438,923 square nautical miles).

5. Final Preferred Alternative

In accordance with NEPA (42 U.S.C. 4321 et seq.) and based on public comments on the draft designation materials and further review, NOAA has maintained Alternative 1 as the agency-preferred alternative (preferred alternative) based on its comparative merits; this alternative serves as the foundation of this final rule (Section 3.4 of the final EIS presents a map and details of this alternative). NOAA selected its final preferred alternative after considering input from the Monument Management Board, the State of Hawai'i, cooperating agencies, other agencies consulted, and public comments provided on the draft designation documents. Through the analysis in the final EIS, NOAA has determined that the final preferred alternative would provide numerous beneficial impacts, including increased protection and conservation of resources, and improved coordination of conservation and management. NOAA has also considered the potential adverse impacts of the final preferred alternative and anticipates that there would be no significant adverse impacts to biological and physical resources, cultural and historic resources, or socioeconomic resources.

NOAA's identification of Alternative 1 as the final preferred alternative is based on the need for additional resource protection, scientific research, and public education in areas that would be excluded by selecting the boundaries of Alternatives 2 or 3. Alternative 1 includes the MEA, an area which would benefit from the establishment of a NOAA permitting process, and the promulgation of sanctuary regulations to protect resources. Alternative 1 also includes the waters of Midway Atoll National Wildlife Refuge and Hawaiian Islands National Wildlife Refuge, which are the areas of the sanctuary subject to the highest level of human activity.

II. Terms of Designation for Papahānaumokuākea National Marine Sanctuary

Section 304(a)(4) of NMSA as amended, 16 U.S.C. 1434(a)(4), requires that the terms of designation be described at the time a new sanctuary is designated, including the geographic area to be included within the sanctuary, the characteristics of the area that give it conservation, recreational, ecological, historical, research, educational, or esthetic value, and the types of activities that will be subject to regulation to protect those characteristics.

The following represents the terms of designation:

Preamble

Under the authority of the National Marine Sanctuaries Act, as amended (the “Act” or “NMSA”), 16 U.S.C. 1431 et seq., approximately 582,570 square mi (439,910 square nmi) of the waters of the Pacific Ocean surrounding the Northwestern Hawaiian Islands are hereby designated as a national marine sanctuary for the purpose of providing long-term protection and management of the ecological, cultural, and historical resources and the conservation, recreational, scientific, educational, and esthetic qualities of the area.

Article I: Effect of Designation

The NMSA authorizes the issuance of such regulations as are necessary and reasonable to implement the designation, including managing and protecting the ecological, cultural, and historical resources and the conservation, recreational, scientific, educational, and esthetic qualities of Papahānaumokuākea National Marine Sanctuary (the “sanctuary”). Section 1 of Article IV of these terms of designation lists those activities that may be regulated on the effective date of designation, or at some later date, in order to protect sanctuary resources and qualities. Listing an activity does not necessarily mean that it will be regulated. However, if an activity is not listed it may not be regulated, except on an emergency basis, unless Section 1 of Article IV is amended by the same procedures by which the original sanctuary designation was made.

Article II: Description of the Area

The sanctuary encompasses the submerged lands, seamounts, and Pacific Ocean waters from the shoreline seaward to approximately 200 nautical miles west of 163° West Longitude surrounding the Northwestern Hawaiian Islands which consist of the islands, atolls, and emergent lands stretching from Nihoa in the southeast to Hōlanikū (Kure Atoll) in the northwest. The marine waters east of 163° West Longitude surrounding Nihoa extend seaward from the shoreline to approximately 50 nautical miles. The total area of the sanctuary comprises approximately 582,570 square miles (439,910 square nautical miles). The precise boundary coordinates are defined in Appendix A to the regulations at 15 CFR part 922, subpart W.

Article III: Special Characteristics of the Area

Papahānaumokuākea is a place of special national significance that provides large-scale ecosystem services for the region and the world. The marine habitat includes several interconnected ecosystems, including coral islands surrounded by shallow reef, deeper reef habitat characterized by seamounts, banks, and shoals scattered across the area of the sanctuary, mesophotic reefs with extensive algal beds, pelagic waters connected to the greater North Pacific Ocean, and deep-water habitats and abyssal plains 5,000 meters below sea level. These connected ecosystems provide essential habitats for rare species such as the threatened green sea turtle and the endangered Hawaiian monk seal, as well as habitat for more than 14 million seabirds that forage in the pelagic waters to nourish the chicks they are raising on the tiny islets. Papahānaumokuākea is home to 20 cetacean species, protected by the Marine Mammal Protection Act, with some listed as endangered under the Endangered Species Act. At least a quarter of the nearly 7,000 known marine species in the region are found nowhere else on Earth.

The area of the sanctuary is also a place of historical and cultural significance. The area of the sanctuary includes the location of the Battle of Midway, a turning point in World War II for the allies in the Pacific Theater. Research indicates that 60-80 sunken military vessels and hundreds of sunken military aircraft are scattered across the seafloor. In addition to Navy steamers and aircraft, there are whaling ships, ancient Japanese sailing ships known as junks, motorized East Asian style fishing vessels known as Hawaiian fishing sampans, Pacific colliers, and other vessels from the 19th and 20th centuries.

Papahānaumokuākea is also a sacred place to Native Hawaiians, who regard the islands and wildlife as kūpuna, or ancestors. The region holds deep cosmological and traditional significance to the people of Hawai'i and the Native Hawaiian culture, and contains a host of intact and significant archaeological sites found on the islands of Nihoa and Mokumanamana, both of which are on the National Register of Historic Places and Hawai'i Register of Historic Places. Papahānaumokuākea is as much a spiritual space as it is a physical geographical area, rooted deep in Native Hawaiian creation and settlement stories.

Article IV: Scope of Regulations

Section 1. Activities Subject to Regulation

The following activities are subject to regulation, including prohibition, as may be necessary to ensure the protection and effective management of the ecological, cultural, historical, conservation, recreational, scientific, educational, or esthetic resources or qualities of the area:

1. Access to the sanctuary;

2. Ship reporting, ship routeing, and other shipping activities;

3. Vessel monitoring;

4. Vessel discharge;

5. Exploring for, developing, or producing oil, gas, or minerals, or any energy development activities;

6. Using or attempting to use poisons, electrical charges, or explosives in the collection or harvest of a sanctuary resource;

7. Introducing or otherwise releasing an introduced species from within or into the sanctuary;

8. Deserting a vessel;

9. Commercial fishing;

10. Non-commercial fishing;

11. Possessing fishing gear;

12. Anchoring on or having a vessel anchored on any living or dead coral with an anchor, anchor chain, or anchor rope;

13. Drilling into, dredging, or otherwise altering the submerged lands; or constructing, placing, or abandoning any structure, material, or other matter on the submerged lands;

14. Removing, moving, taking, harvesting, possessing, injuring, disturbing, or damaging; or attempting to remove, move, take, harvest, possess, injure, disturb, or damage any living or nonliving sanctuary resource;

15. Attracting any living sanctuary resource;

16. Touching coral, living or dead;

17. Swimming, snorkeling, or closed or open circuit SCUBA diving;

18. Discharging or depositing any material or other matter, or discharging or depositing any material or other matter outside of the sanctuary that subsequently enters the sanctuary;

19. Anchoring a vessel;

20. Native Hawaiian practices;

21. Research and scientific exploration;

22. Scientific research and development by Federal agencies;

23. Activities that will further the educational value of the sanctuary or will assist in the conservation and management of the sanctuary;

24. Recreational activities; and

25. Interfering with, obstructing, delaying, or preventing an investigation, search, seizure, or disposition of seized property in connection with enforcement of the NMSA or any regulation or permit issued under the NMSA.

Listing an activity here means that the Secretary of Commerce can regulate the activity, after complying with all applicable laws, without going through the designation procedures required by paragraphs (a) and (b) of section 304 of the NMSA. No term of designation issued under the authority of the NMSA may take effect in Hawai'i state waters within the sanctuary if the Governor of Hawai'i certifies to the Secretary of Commerce that such term of designation is unacceptable within the review period specified in the NMSA.

Section 2. Emergencies

Where necessary to prevent or minimize the destruction of, loss of, or injury to a sanctuary resource or quality, or to minimize the imminent risk of such destruction, loss, or injury, any and all activities, including those not listed in Section 1, are subject to immediate temporary regulation, including prohibition.

Article V: Alteration of This Designation

The terms of designation, as defined under section 304(a)(4) of the NMSA, may be modified only by the same procedures by which the original designation is made, including public hearings, consultations with interested Federal, Tribal, State, regional, and local authorities and agencies, review by the appropriate Congressional committees, and approval by the Secretary of Commerce, or his or her designee.

III. Changes from Proposed to Final Regulations

Based on public comments received between March 1 and May 7, 2024, internal deliberations, consultations, engagement with cooperating agencies, and meetings with constituents, NOAA has made the following changes to the proposed rule and corresponding changes to the final EIS and sanctuary management plan.

A. Definitions

NOAA added the term “categories of hazardous cargoes” to 15 CFR 922.24, the site-specific definitions. “Categories of hazardous cargoes” is defined in PMNM regulations, 50 CFR 404.3, and is added to the final regulations for consistency with existing regulations for ship reporting. Defining “categories of hazardous cargoes” provides clarity to the public on what information must be reported when conducting passage without interruption to comply with the ship reporting requirements, as specified in the sanctuary regulations at 15 CFR 922.243.

NOAA has made a minor revision to the term “recreational activity,” by striking “within the Midway Atoll Special Management Area” from the definition, making it consistent with the definition provided in Presidential Proclamation 8031 establishing the Monument.

B. Cooperative Management

In response to public comments, NOAA has clarified how the sanctuary will be managed in partnership with other Federal and State agencies. In the proposed rule, NOAA proposed that the sanctuary would be co-managed with the State of Hawai'i. In the proposed regulations, NOAA identified the role that states may have in co-managing a sanctuary pursuant to the National Marine Sanctuaries Act, if all or part of the proposed sanctuary is within the territorial limits of any state. Recognition of the State of Hawai'i as a sanctuary co-manager was not meant to exclude the other Monument co-trustees, DOI and OHA. To the contrary, partnerships with other Federal and State agencies with overlapping jurisdiction are critical to the success of the National Marine Sanctuary System and the protection of marine areas of special national significance.

In the final regulations, NOAA has renamed 15 CFR 922.242 “Cooperative Management” and added new text regarding how NOAA will manage the sanctuary in partnership with USFWS and OHA in addition to the State of Hawai'i. In doing so, NOAA reaffirms that the existing co-management structure of the Monument is critical to the success of the sanctuary. NOAA will work in cooperation with Monument co-trustees to update the Memorandum of Agreement for Promoting Coordinated Management of Papahānaumokuākea Marine National Monument with the State of Hawai'i, DOI, and OHA that reflects the addition of the sanctuary, and specifically addresses how the addition of a sanctuary will supplement and complement, and not supplant, the existing Monument management framework.

In the final regulations, NOAA recognizes USFWS's management authority over Midway Atoll National Wildlife Refuge and Hawaiian Islands National Wildlife Refuge. NOAA also clarifies that nothing in the regulations or establishment of the national marine sanctuary shall diminish USFWS's authority to administer Midway Atoll National Wildlife Refuge and Hawaiian Islands National Wildlife Refuge under the National Wildlife Refuge System Administration Act, as amended, and other USFWS authorities. Where Papahānaumokuākea National Marine Sanctuary overlays Midway Atoll National Wildlife Refuge and Hawaiian Islands National Wildlife Refuge, NOAA will implement the NMSA to provide supplemental authority to protect resources. NOAA and USFWS are developing an agreement to provide details on the execution of sanctuary management where the national marine sanctuary overlaps with Midway Atoll National Wildlife Refuge and Hawaiian Islands National Wildlife Refuge.

C. Access

In the proposed regulations, NOAA stated that a vessel may pass without interruption through the sanctuary without requiring a permit as long as the vessel does not stop, anchor, or engage in any prohibited activities. In the final regulations, NOAA has made a minor revision to 15 CFR 922.243(a)(5)(b), removing the word “anchor” from this statement. The removal of “anchor” is a technical revision because anchoring a vessel is already listed as a prohibited or otherwise regulated activity. In 15 CFR 922.243(c)(7), NOAA has added clarification on the events that would trigger “further reports,” including “pollution incidents and goods lost overboard.” This addition will help address potential threats and impacts to sanctuary resources in a timely manner from vessels transiting within the reporting area.

In the proposed regulations, NOAA stated that access is prohibited except under certain circumstances. NOAA has clarified that the prohibition on access does not restrict scientific exploration or research activities by or for the Secretary of Commerce or the Secretary of the Interior when the activity occurs within the Outer Sanctuary Zone, consistent with the exception provided in 15 CFR 922.244(f).

Finally, in 15 CFR 922.243(c), NOAA has also made technical revisions, removing the list of vessels for which the ship reporting requirements do not apply. This information is redundant of the exceptions provided in 15 CFR 922.243(a)(1) through (a)(4).

D. Prohibited or Otherwise Regulated Activities

NOAA has added a prohibition on failing to comply with vessel monitoring systems requirements in violation of 15 CFR 922.246; and a prohibition on failing to comply with ship reporting requirements in violation of 15 CFR 922.243. NOAA made these technical revisions to clarify for the public the full scope of activities listed that are prohibited or otherwise regulated within the sanctuary.

NOAA has also made technical revisions and clarifications to the prohibition on discharging or depositing any material or other matter into the sanctuary, or discharging or depositing any material or other matter outside of the sanctuary that subsequently enters the sanctuary and injures or has the potential to injure any resources of the sanctuary. Specifically, NOAA has clarified the list of exceptions to this prohibition for consistency with Presidential Proclamation 8031, the implementing regulations at 50 CFR part 404, and other applicable law such as the Clean Water Act. For example, consistent with existing law in the Monument, NOAA has clarified that this prohibition does not apply to fish, fish parts, or chumming materials (bait) used in or resulting from lawful fishing activities, provided that such discharge or deposit is during the conduct of lawful fishing activities within the Sanctuary. In addition, NOAA has clarified that the exceptions for “discharge incidental to vessel operations,” and the discharges within Special Preservation Areas or the Midway Atoll Special Management Area may only be conducted in accordance with other applicable law, such as the Clean Water Act and its implementing regulations.

In the proposed rule, NOAA provided exceptions to vessel discharge when conducting passage without interruption under 15 CFR 922.243, but did not clarify that this exception also applies to the discharge prohibition under 15 CFR 922.244. NOAA has made these revisions in 15 CFR 922.244 to provide clarity to resource managers and the public, and consistency with existing Monument management. NOAA has made corresponding changes to the regulations at 15 CFR 922.243, removing the list of vessel discharge exceptions from this section. This revision is not substantive.

E. Exemption for Non-Commercial Fishing

In the proposed rule, NOAA proposed that eight prohibited or otherwise regulated activities in 15 CFR 922.244 would not apply to non-commercial fishing activities in the Outer Sanctuary Zone authorized by regulations promulgated pursuant to the Magnuson-Stevens Fishery Conservation and Management Act (MSA), provided that no sale of harvested fish occurs. In response to comments of concern for this exemption, NOAA has made changes to ensure that a non-commercial fishing permit authorized pursuant to the MSA is only exempt from a limited subset of prohibited or otherwise regulated activities in the Outer Sanctuary Zone, which may only be conducted as incidental to and necessary to conduct lawful non-commercial fishing activity.

First, NOAA has removed the exemption for “touching coral, living or dead,” as this activity is not expected to occur as incidental to a lawful non-commercial fishing activity.

Second, NOAA has removed the exemption for “discharging or depositing any material or other matter into the sanctuary, or discharging or depositing any material or other matter outside of the sanctuary that subsequently enters the sanctuary and injures or has the potential to injure any resources of the sanctuary, with exceptions.” NOAA has determined that non-commercial fishing activities authorized under the MSA do not require a broad exemption for discharge, and should be held to similar standards as other vessels. As described above, NOAA has also clarified the types of discharge that would not be regulated, including “fish, fish parts, or chumming materials (bait) used in or resulting from lawful fishing activity, provided that such discharge or deposit is during the conduct of lawful fishing activity within the Sanctuary.” This exception is consistent with Presidential Proclamation 8031, and the existing regulations for PMNM at 50 CFR 404.7.

Third, NOAA has removed the exemption for anchoring a vessel. NOAA has concluded that this activity should not occur as incidental to a lawful non-commercial fishing activity in the Outer Sanctuary Zone. Anchoring a vessel in the Outer Sanctuary Zone would not be practical given the average ocean depths within this area of the sanctuary.

NOAA has also clarified that this exemption from the sanctuary's permitting requirements is only applicable provided that the fish harvested, either in whole or in part, are neither intended to enter commerce nor enter commerce through sale, barter, or trade, and that the resource is managed sustainably, consistent with Presidential Proclamation 9478. Moreover, consistent with the outcome of the NMSA Section 304(a)(5) process, for the exemption to apply, the fish harvested, either in whole or in part, are not intended to be sold and shall not be sold for any purposes, including, but not limited to, cost-recovery. Finally, NOAA has clarified that the activities under paragraph (a)(9) through (12), and (a)(14) may only be conducted as incidental and necessary to conduct lawful non-commercial fishing activities.

F. Permit Procedures and Criteria

In the proposed regulations, NOAA proposed two new general permit categories specific to the sanctuary: (i) Native Hawaiian Practices; and (ii) Recreation. In the final regulations, NOAA maintains these two general permit categories in 15 CFR 922.30. For ease of reference, NOAA has moved the additional permit issuance criteria and requirements to the site-specific regulations for the proposed sanctuary at 15 CFR 922.245. This revision is not substantive. NOAA has also made a revision to the additional permit issuance criteria for Recreation permits. NOAA has amended the permitting criteria at 15 CFR 922.245 to clarify that a “recreational activity” may only be permitted within the Midway Atoll Special Management Area, consistent with existing regulations for the Monument.

Finally, as described below, NOAA moved the Vessel Monitoring System (VMS) requirements from 15 CFR 922.245 to a standalone section at 15 CFR 922.246. NOAA retained, with minor edits, the requirement to outfit a vessel with a NOAA Office of Law Enforcement (OLE) type-approved VMS unit, as a condition of a permit. This is consistent with the regulations implementing Presidential Proclamation 8031 at 50 CFR part 404, and specifically, the permitting findings that must be made under 50 CFR 404.11(d).

G. Vessel Monitoring System

In the proposed rule, NOAA proposed, as a part of the permit procedures and criteria under 15 CFR 922.245, that an owner or operator of a vessel that has been issued a sanctuary general permit or special use permit must ensure that such vessel has a NOAA OLE type-approved VMS on board when operating within the sanctuary. In the final regulations, NOAA has moved the VMS requirements to a standalone section at 15 CFR 922.246 for consistency with the regulations implementing Presidential Proclamation 8031 at 50 CFR part 404. NOAA also made non-substantive technical changes to the VMS requirements to more closely align with the Monument's implementing regulations, specifically 50 CFR 404.5.

H. Sunken Military Craft

NOAA has added new text regarding the Sunken Military Craft Act acknowledging that sunken military craft in the sanctuary will continue to be administered by the respective Secretary concerned pursuant to the Sunken Military Craft Act. NOAA will enter into a Memorandum of Agreement with the appropriate agencies regarding collaboration on implementing the Sunken Military Craft Act.

I. Emergency Regulations

NOAA has added information to Section IV of this final rule describing emergency regulations. This is a technical clarification of a regulatory provision that applies to all national marine sanctuaries, pursuant to the National Marine Sanctuary Program Regulations at 15 CFR 922 subpart A—Regulations of General Applicability. Adding this to the final rule provides clarity to the public on a supplemental authority that is provided through sanctuary designation.

J. Technical Edits

In addition to the changes discussed above, NOAA has made technical edits throughout this final rule. Many of these technical edits are necessary to conform with revisions to 15 CFR part 922 that became effective on October 16, 2024. These technical edits are not substantive. NOAA has also made two minor changes to the terms of designation that were included in the proposed rule. First, NOAA has added more detail to one sentence describing the special characteristics of the area. Second, NOAA has added “ship reporting, ship routeing, and other shipping activities” to the list of activities subject to regulation in Article IV of the terms of designation to reflect the full scope of activities that may be regulated. In the draft terms of designation, NOAA only included “ship reporting.”

IV. Summary of Final Regulations

A. Adding New Subpart W

NOAA is amending 15 CFR part 922 by adding a new subpart (subpart W) that contains site-specific regulations for the sanctuary. This subpart will include the boundary, contain definitions of common terms used in the new subpart, identify prohibited activities and exceptions, and establish procedures for permitting otherwise prohibited activities. The regulations will be applied in accordance with generally recognized principles of international law and in accordance with treaties, conventions, and other agreements to which the United States is a party, consistent with sections 305(a) and 307(k) of the NMSA and the NMSA's Regulations of General Applicability at 15 CFR 922.1(b). No regulation shall apply to or be enforced against a person who is not a citizen, national, or resident alien of the United States unless in accordance with generally recognized principles of international law, or applicable treaties, conventions, and other agreements.

B. Sanctuary Boundary

NOAA's designation of Papahānaumokuākea National Marine Sanctuary consists of the marine environment surrounding the Northwestern Hawaiian Islands from the shoreline of the islands and atolls seaward to 200 nautical miles, including all waters of the Monument. NOAA estimates the area encompassed in the designation is approximately 582,570 square miles (439,910 square nautical miles).

C. Definitions

This rule incorporates and adopts common terms defined in the national regulations at 15 CFR 922.11. In addition, NOAA is including 20 site-specific definitions. To the extent that a term appears at 15 CFR 922.11 and the definitions section of the final rule, the definition in the final rule would govern.

• The definitions for “Bottomfish Species” and “Pelagic Species” are adopted from regulations for Fisheries in the Western Pacific, 50 CFR 665.201 and 50 CFR 665.800.

• “Ecological integrity”, “Midway Atoll Special Management Area”, “Native Hawaiian practices”, “Pono”, “Recreational activity”, “Special Preservation Area (SPA)”, “Stowed and not available for immediate use”, “Sustenance fishing”, and “Vessel monitoring system or VMS”, are adopted from Presidential Proclamation 8031.

• “Commercial fishing” and “Non-commercial fishing” are adopted from the MSA and, in part, from regulations for Fisheries in the Western Pacific, 50 CFR 665.12.

• “Particularly Sensitive Sea Area (PSSA)” is adopted from International Maritime Organization (IMO) Resolution A.982(24), December 1, 2005.

• “Areas to be avoided (ATBA)”, “Categories of hazardous cargoes” and “Office of Law Enforcement” are adopted from Papahānaumokuākea Marine National Monument regulations, 50 CFR 404.3.

• “Outer Sanctuary Zone” refers to the area of the sanctuary that would extend from approximately 50 nautical miles from all the islands and emergent lands of the Northwestern Hawaiian Islands to the extent of the seaward limit of the United States Exclusive Economic Zone west of 163° West Longitude. This area of the sanctuary would correspond with the area designated as a marine national monument by Presidential Proclamation 9478, referred to as the “Papahānaumokuākea Marine National Monument Expansion” or MEA. NOAA provides this definition to provide clarity to the public where there is a regulation that only applies to this area of the sanctuary, and not the entire sanctuary. Note that the MEA and the Outer Sanctuary Zone are coextensive. In this final rule, when describing the sanctuary regulations, the term “Outer Sanctuary Zone” is used, and when describing the directives of Presidential Proclamation 9478, the term “MEA” is used.

• “Reporting Area” refers to the area of the sanctuary that extends outward ten nautical miles from the PSSA boundary, as designated by the IMO, and excludes the ATBAs that fall within the PSSA boundary. The reporting area is defined by the coordinates set forth in Appendix E to the final rule. NOAA defines the “reporting area” to clarify which areas of the sanctuary apply to ship reporting requirements.

• “Scientific instrument” is a term used in Presidential Proclamation 9478, but the term was not defined. Specifically, Presidential Proclamation 9478 prohibits “drilling into, dredging, or otherwise altering the submerged lands, or constructing, placing, or abandoning any structure, material, or other matter on the submerged lands, except for scientific instruments”. NOAA defines “scientific instrument” to clarify what activities may be conducted pursuant to a permit. NOAA defines “scientific instrument” to mean “a device, vehicle, or tool used for scientific purposes and is inclusive of structures, materials, or other matter incidental to proper use of such device, vehicle, or tool.” In defining “scientific instrument,” NOAA's definition provides for the inclusion of “structures, materials, or other matter incidental to proper use of such device, vehicle, or tool” because, based on the type of activities previously permitted in the Monument, proper deployment and use of most scientific instruments requires more than the instrument itself. For example, there may be incidental ballast discharge associated with the use of a scientific instrument like a remotely operated vehicle, or ROV. A narrower definition of “scientific instrument” could unduly restrict NOAA's ability to permit activities in the area of the sanctuary that overlaps with the MEA. NOAA believes a narrower definition would be inconsistent with the intent of Presidential Proclamation 9478, which states “Undisturbed seamount communities in the adjacent area are of significant scientific interest because they provide opportunities to examine the impacts of physical, biological, and geological processes on ecosystem diversity, including understanding the impacts of climate change on these deep-sea communities. These seamounts and ridges also provide the opportunity for identification and discovery of many species not yet known to humans, with possible implications for research, medicine, and other important uses. Recent scientific research, utilizing new technology, has shown that many species identified as objects in Proclamation 8031 inhabit previously unknown geographical ranges that span beyond the existing Monument, and in some cases the adjacent area also provides important foraging habitat for these species.” These statements clearly demonstrate the significant scientific value of the MEA and underscore the opportunities for research and discovery to occur in the sanctuary.

D. Cooperative Management of the Sanctuary

Pursuant to the NMSA, states may choose to have a role in co-managing a sanctuary if all or part of the sanctuary is within the territorial limits of any state. As the sanctuary includes state waters, NOAA will co-manage the sanctuary with the State of Hawai'i. NOAA establishes the framework for co-management in section 922.242 of the final regulations NOAA and the State of Hawai'i may update existing agreements or develop additional agreements as necessary to provide details on the execution of sanctuary management, such as activities, programs, and permitting that can be updated to adapt to changing conditions or threats to the sanctuary resources.

NOAA and the State of Hawai'i will manage the sanctuary in partnership with the USFWS and OHA consistent with the management of the Monument. The existing co-management structure of the Monument will be critical to the success of the sanctuary. NOAA will work in cooperation with the Monument co-trustees to update the Memorandum of Agreement for Promoting Coordinated Management of Papahānaumokuākea Marine National Monument with the State of Hawai'i, DOI, and OHA that reflects the addition of the sanctuary, and specifically addresses how the addition of a sanctuary will supplement and complement, and not supplant, existing Monument management. This is consistent with the existing Memorandum of Agreement, which includes a provision that states that “in the event of the designation of the Monument or any portion of the Monument as a National Marine Sanctuary under the National Marine Sanctuaries Act, nothing herein shall be construed as automatically terminating or otherwise amending this Agreement.” NOAA may enter into additional Memorandums of Agreement with the Monument co-trustees regarding this collaboration that may address, but not be limited to, sanctuary resource protection, educational programs, permitting, enforcement, research activities, development, and threats to resources. Any future proposed changes to sanctuary regulations or boundaries would be coordinated with the State and other Monument co-trustees and subject to public review as mandated by the NMSA and other Federal statutes.

The Secretary of the Interior, through the USFWS, has sole responsibility for management of the areas of the Monument that overlay the Midway Atoll National Wildlife Refuge, the Battle of Midway National Memorial, and the Hawaiian Islands National Wildlife Refuge, and exercises that responsibility in consultation with the Secretary of Commerce. Nothing in these regulations or establishment of the national marine sanctuary shall diminish USFWS's authority to administer Midway Atoll National Wildlife Refuge and Hawaiian Islands National Wildlife Refuge under the National Wildlife Refuge System Administration Act as amended, and other USFWS authorities. Where Papahānaumokuākea National Marine Sanctuary overlays Midway Atoll National Wildlife Refuge and Hawaiian Islands National Wildlife Refuge, NOAA will implement the NMSA to provide supplemental authority to protect resources.

NOAA, in exercising its management authority under National Marine Sanctuaries Act Section 304(d), recognizes USFWS' management authority over Midway Atoll National Wildlife Refuge and Hawaiian Islands National Wildlife Refuge under the National Wildlife Refuge System Administration Act.

The Director of the USFWS has agreed that Papahānaumokuākea National Marine Sanctuary will provide supplemental authorities where the sanctuary overlays the Midway Atoll National Wildlife Refuge and Hawaiian Islands National Wildlife Refuge. NOAA and USFWS are developing an agreement to memorialize this decision, and to provide details on the execution of sanctuary management where the national marine sanctuary overlaps with Midway Atoll National Wildlife Refuge and Hawaiian Islands National Wildlife Refuge, consistent with the spirit of cooperative management of the area and recognizing USFWS has sole authority in Midway Atoll National Wildlife Refuge and Hawaiian Islands National Wildlife Refuge pursuant to the National Wildlife Refuge System Administration Act.

Implementation of NOAA and USFWS authorities shall not enlarge or diminish the jurisdiction of the State of Hawai'i, including the State's responsibilities and requirements to manage Kure Atoll Wildlife Sanctuary and the State of Hawai'i Northwestern Hawaiian Islands Marine Refuge.

E. Access

In PMNM, pursuant to Presidential Proclamation 8031, access is prohibited except under the following circumstances: (1) for emergency response and law enforcement purposes; (2) for activities and exercises of the Armed Forces; (3) for persons who have been issued Monument permits; and (4) for passage without interruption. For consistency, and to protect sanctuary resources, NOAA extends the access restrictions which apply to the area of the sanctuary that overlaps the PMNM to the area of the sanctuary that overlaps with the MEA as follows:

Access to the sanctuary is prohibited and thus unlawful except under the following circumstances: (1) for emergency response actions, law enforcement activities, and activities and exercises of the Armed Forces; (2) pursuant to a sanctuary permit; (3) when conducting non-commercial fishing activities in the Outer Sanctuary Zone authorized under the MSA in accordance with 15 CFR 922.244 (d); (4) when conducting scientific exploration or research activities by or for the Secretary of Commerce or the Secretary of the Interior when the activity occurs within the Outer Sanctuary Zone); and (5) when passing through the sanctuary without interruption.

A vessel may pass without interruption through the sanctuary without requiring a permit as long as the vessel does not stop or engage in prohibited activities within the sanctuary. A vessel passing through the sanctuary without interruption may be subject to the ship reporting system, as described below.

The access restrictions will be applied in accordance with generally recognized principles of international law and in accordance with treaties, conventions, and other agreements to which the United States is a party, consistent with sections 305(a) and 307(k) of the NMSA and the NMSA's Regulations of General Applicability at 15 CFR 922.1(b). No regulation shall apply to or be enforced against a person who is not a citizen, national, or resident alien of the United States unless in accordance with generally recognized principles of international law, or applicable treaties, conventions, and other agreements.

F. Ship Reporting

The final rule includes regulations to implement the ship reporting system (CORAL SHIPREP) adopted by the IMO, which require entrance and exit notifications for vessels that pass without interruption through the sanctuary areas contained within a reporting area. Requiring vessels to notify NOAA immediately upon entering the reporting area will help make the vessel operators aware that they are traveling through a fragile area with potential navigational hazards, such as the extensive coral reefs found in many shallow areas of the sanctuary contained within the reporting area.

The ship reporting requirements apply to vessels that pass through the sanctuary without interruption. Conversely, the ship reporting requirements do not apply to vessels covered by an exemption at 15 CFR 922.243(a)(1) through (a)(4), or to sovereign immune vessels, which are specifically exempted from the reporting requirement in the ship reporting system adopted by the IMO. Furthermore, the ship reporting requirements will be applied in accordance with generally recognized principles of international law and in accordance with treaties, conventions, and other agreements to which the United States is a party, consistent with sections 305(a) and 307(k) of the NMSA and the NMSA's Regulations of General Applicability at 15 CFR 922.1(b). No regulation shall apply to or be enforced against a person who is not a citizen, national, or resident alien of the United States unless in accordance with generally recognized principles of international law, or applicable treaties, conventions, and other agreements.

NOAA defines the reporting area as “the area of the sanctuary that extends outward ten nautical miles from the PSSA [Particularly Sensitive Sea Area] boundary, as designated by the IMO, and excludes the ATBAs [Areas to be avoided] that fall within the PSSA boundary.” The reporting area is further defined by the coordinates set forth in Appendix E to the final rule. Appendix E includes a coordinates table for the “Reporting Area Outer Boundary,” which contains the reporting area's boundary surrounding the PSSA. Appendix E also includes coordinate tables for the “Inner Reporting Area Boundary” for each of the four ATBAs that fall within the PSSA, but which are not part of the reporting area.

The reporting area for the sanctuary will not include the four voluntary ATBAs adopted by the IMO that are also within the PSSA. An ATBA is an area within which either navigation is particularly hazardous or it is exceptionally important to avoid casualties. While ATBAs can be mandatory (i.e., vessels are required by applicable law to avoid and operate outside of the area) most are voluntary and vessels may travel through them. Because the four ATBAs in the PSSA are voluntary, as adopted by the IMO and implemented by these regulations, the ATBAs are outside of the reporting area. Nonetheless, by virtue of entering or exiting an ATBA, vessels would also be departing or entering the reporting area, and, therefore be subject to the reporting area's requirements four times: (1) once when it enters the reporting area; (2) once when it leaves the reporting area to enter the ATBA; (3) once when it exits the ATBA and enters the reporting area on the other side of the ATBA; and (4) once when it again leaves the reporting area. The potential burden of reporting four times is justified by the navigational hazards that exist within the ATBAs. The reporting area also includes three large areas within the PSSA that are not within the ATBAs. These breaks between the four ATBAs allow for north-south passages through the sanctuary areas contained within the reporting area that can be utilized for navigation to avoid ATBAs. Vessels passing through the sanctuary in these areas would only send email notification twice: once upon entering the reporting area, and again upon leaving the reporting area.

NOAA will implement CORAL SHIPREP's requirements under the NMSA in keeping with the United States' and IMO's long-standing interest in providing additional protection to the natural, cultural, and historic resources in PMNM through ship reporting requirements. In June 2006, Presidential Proclamation 8031 directed the Secretary of Commerce and Secretary of Interior to require notification from any person passing through PMNM without interruption at least 72 hours, but no longer than 1 month, prior to the entry date, and within 12 hours of departure. Presidential Proclamation 8031 further indicated the specific types of information that must be provided in the notification. These notification requirements were subsequently codified in 50 CFR 404.4. Presidential Proclamation 8031 also directed the Secretary of State, in consultation with the Secretary of Commerce and Secretary of Interior, to seek the cooperation of other governments and international organizations in furtherance of the purposes of the proclamation and consistent with applicable regional and multilateral arrangements for the protection and management of special marine areas.

Following Executive Order 13178 and Presidential Proclamation 8031, in April 2007 the United States proposed to the IMO that PMNM be designated as a PSSA to protect the attributes of the fragile and integrated coral reef ecosystem from potential hazards associated with international shipping activities. The U.S. noted in its proposal that the proposed PSSA and its associated protective measures would result in a minimal burden to international shipping, would significantly further increase maritime safety, would protect of the fragile environment, would preserve cultural resources and areas of cultural importance significant to Native Hawaiians, and would facilitate responses to developing maritime emergencies. On April 3, 2008, the IMO designated the PMNM as a PSSA. As part of the PSSA designation process, the IMO adopted U.S. proposals for associated protective measures. These measures included expanding and consolidating the six existing recommendatory ATBAs in the PMNM into four larger areas and enlarging the class of vessels to which they apply. In addition, the IMO adopted a ship reporting system for vessels transiting the PMNM, which is mandatory for ships 300 gross tons or greater that are entering or departing a U.S. port or place and recommended for other ships. The system requires that ships notify the U.S. shore-based authority (i.e., the U.S. Coast Guard; NOAA will be receiving all messages associated with this program on behalf of the Coast Guard) at the time they begin transiting the reporting area and again when they exit. In December 2008, NOAA and the USFWS published final regulations to establish a ship reporting system for PMNM, which implemented measures adopted by the IMO requiring notification by ships passing through PMNM without interruption (73 FR 73592). These regulations modified the previous notification requirements at 50 CFR 404.4.

NOAA will implement the ship reporting system as adopted by the IMO and establish the reporting area using the boundary coordinates in Appendix E to this final rule to provide additional protection to the natural, cultural, and historic resources in the sanctuary. Accordingly, NOAA's regulations build upon the requirements outlined in Presidential Proclamation 8031, and reflect additions made through the IMO's adoption of a ship reporting system and the implementation of that system in 50 CFR 404.4. NOAA provides minor language changes from the process adopted by IMO Resolution MEPC.171(57) and IMO Resolution MSC.279(85) to provide clarity to the public on which vessels are required to participate in ship reporting and the type of information that should be reported.

G. Activities That Are Prohibited or Otherwise Regulated

NOAA will supplement and complement existing management of this area through prohibited or otherwise regulated activities in section 922.244. Presidential Proclamations 8031, 8112, and 9478, and regulations implementing Presidential Proclamations 8031 and 8112 at 50 CFR part 404 provide the foundation for the prohibitions. However, minor changes are made to remove discrepancies and gaps in prohibitions and regulated activities between PMNM and the MEA in order to allow for consistency in management across the sanctuary.

Within PMNM, the prohibitions in section 922.244 are already effectively in place under 50 CFR part 404, except for prohibitions 1 and 4 (detailed below). Minor changes are made to prohibitions 1 and 4 to remove discrepancies across the two zones (PMNM and MEA). Regulations implementing Presidential Proclamation 9478 have not been promulgated for the MEA. Many of the prohibitions adopted in the rule are identified in Presidential Proclamation 9478, which established the MEA. Any prohibitions for the area of the sanctuary that overlaps with the MEA that are not adopted directly from Presidential Proclamation 9478 are identified below.

1. Prohibition on Exploring for, Developing, or Producing Oil, Gas, or Minerals, or Any Energy Development Activities

Consistent with the presidential proclamations establishing the Monument, NOAA prohibits exploring for, developing, or producing oil, gas, or minerals to protect sanctuary resources and create a seamless management area throughout the sanctuary. The addition of the prohibition on “any energy development activities” would be new for PMNM, and was added to further the underlying intent of the prohibition on oil, gas, and mineral development by accounting for technological advances in other forms of energy development.

In addition to creating consistency across the two zones, this prohibition will help advance the sanctuary's goals and objectives by protecting sensitive marine ecosystems such as fragile coral reefs and deep-sea corals, benthic habitat, and seamounts. Prohibiting oil, gas, and mineral development reduces the risk of offshore spills, such as the Deepwater Horizon oil spill, that could significantly harm sanctuary resources. Deep seabed mining, oil and gas drilling, and other energy development activities, such as renewable energy system installation, destroys fragile benthic habitat, releases sequestered carbon, and spreads sediment plumes that can suffocate both sensitive shallow and deep-sea coral reefs, which negatively impacts nursery and foraging habitat for fish, and reduces the ecosystem's overall resilience.

2. Prohibition on Using or Attempting To Use Poisons, Electrical Charges, or Explosives in the Collection or Harvest of a Sanctuary Resource

This prohibition is consistent with prohibitions identified in the presidential proclamations establishing the Monument.

3. Prohibition on Introducing or Otherwise Releasing an Introduced Species From Within or Into the Sanctuary

This prohibition is consistent with prohibitions identified in the presidential proclamations establishing the Monument.

4. Prohibition on Deserting a Vessel

Deserting a vessel is currently a regulated activity (allowed only with a permit) in PMNM pursuant to Presidential Proclamation 8031. Deserting a vessel is a prohibited activity in the MEA pursuant to Presidential Proclamation 9478. Based on NOAA's experience in managing national marine sanctuaries, NOAA does not see a need to permit this activity. Prohibiting this activity will create consistency in management across the sanctuary and help to prevent desertion of a vessel following a sinking, grounding, or other incident. Prevention is much less expensive than responding to a deserted vessel and can optimally prevent impacts and damage to sanctuary resources as well as to private property.

5. Prohibition on Anchoring on or Having a Vessel Anchored on Any Living or Dead Coral With an Anchor, Anchor Chain, or Anchor Rope

This prohibition is consistent with prohibitions identified in the presidential proclamations establishing the Monument.

6. Prohibition on Commercial Fishing or Possessing Commercial Fishing Gear Except When Stowed and Not Available for Immediate Use

Presidential Proclamation 8031 provided that commercial fishing for bottomfish and pelagic fish in PMNM that was permitted by NOAA prior to June 16, 2006 was allowed to continue for 5 years from the date of the proclamation, until June 15, 2011. After that date, Presidential Proclamation 8031 prohibited commercial fishing for bottomfish and associated pelagic species in PMNM. Presidential Proclamation 9478 also prohibits commercial fishing, as well as possessing commercial fishing gear except when stowed and not available for immediate use during passage without interruption in the MEA. With these sanctuary regulations, NOAA provides a sanctuary-wide prohibition on commercial fishing or possessing commercial fishing gear except when stowed and not available for immediate use to be consistent with the presidential proclamations establishing the Monument.

7. Prohibition on Failing To Comply With Vessel Monitoring Systems Requirements in Violation of § 922.246

This prohibition is consistent with requirements identified in Presidential Proclamation 8031. The VMS requirement for permittees operating within the areas of the sanctuary that overlap with the MEA would be a new requirement. Further discussion of the VMS requirements is included within Section IV. L. of this final rule.

8. Prohibition on Failing To Comply With Ship Reporting Requirements in Violation of § 922.243

This prohibition is consistent with the requirements of the ship reporting system (CORAL SHIPREP), as adopted by the IMO and implemented in PMNM under 50 CFR 404.4. Further discussion of the ship reporting system requirements is included within Section IV.F of this final rule.

9. Prohibition on Non-Commercial Fishing or Possessing Non-Commercial Fishing Gear Except When Stowed and Not Available for Immediate Use

The presidential proclamations establishing the Monument broadly restrict the harvest of fishery resources by prohibiting removing, moving, taking, harvesting, possessing, injuring, disturbing, or damaging any living or nonliving monument resource, as well as attempts to do the same, except as may be allowed with a permit. As noted above, Presidential Proclamations 8031 and 9478 further specify prohibitions on commercial fishing and the possession of commercial fishing gear. The presidential proclamations also identify certain types of non-commercial fishing that may be regulated (i.e., allowed pursuant to a permit or incidental to a permitted activity). Presidential Proclamation 8031, for example, authorizes sustenance fishing incidental to an activity permitted in PMNM. Presidential Proclamation 9478, for example, provides that non-commercial fishing is a regulated activity (i.e., allowed only with a permit) in the MEA. In the sanctuary, for consistency with the proclamations, NOAA will prohibit “non-commercial fishing” unless conducted pursuant to a sanctuary permit or, as discussed below, authorized under the MSA in the Outer Sanctuary Zone. The final rule adopts the definition of “non-commercial fishing” from the regulations for Fisheries in the Western Pacific, which is defined as “fishing that does not meet the definition of commercial fishing in the MSA, and includes, but is not limited to, sustenance, subsistence, traditional indigenous, and recreational fishing.” 50 CFR 665.12.

The final rule also provides that “possessing non-commercial fishing gear except when stowed and not available for immediate use” is prohibited unless conducted pursuant to a sanctuary permit or, as discussed below, authorized under the MSA in the Outer Sanctuary Zone. Presidential Proclamation 8031 includes “possessing fishing gear,” as a regulated activity (allowed only with a permit) in PMNM. Presidential Proclamation 9478 prohibits possessing commercial fishing gear. The final rule creates continuity between the two areas, and aims to prevent non-commercial gear from being utilized in an unauthorized manner that could lead to injury to sanctuary resources.

10. Prohibition on Drilling Into, Dredging, or Otherwise Altering the Submerged Lands; or Constructing, Placing, or Abandoning Any Structure, Material, or Other Matter on the Submerged Lands

This activity is a regulated activity (i.e., allowed only with a permit) in PMNM under Presidential Proclamation 8031. In the MEA, Presidential Proclamation 9478 prohibits this type of activity, except when conducted for the use of scientific instruments, which is allowed only with a permit, subject to such terms and conditions as the Secretaries deem appropriate. In the sanctuary, these activities are prohibited unless conducted pursuant to a sanctuary permit. In the Outer Sanctuary Zone, such a permit may only be issued for scientific instruments.

11. Prohibition on Removing, Moving, Taking, Harvesting, Possessing, Injuring, Disturbing, or Damaging; or Attempting To Remove, Move, Take, Harvest, Possess, Injure, Disturb, or Damage Any Living or Nonliving Sanctuary Resource

These activities are prohibited unless conducted pursuant to a sanctuary permit, consistent with the presidential proclamations establishing the Monument.

12. Prohibition on Attracting Any Living Sanctuary Resource

This activity is prohibited unless conducted pursuant to a sanctuary permit. This prohibition is consistent with a regulated activity identified in Presidential Proclamation 8031 for PMNM. This prohibition is new in the area of sanctuary that overlaps with the MEA. Prohibiting this activity is intended to address the potential for harassment and disturbance from human interactions with living sanctuary resources.

13. Prohibition on Touching Coral, Living or Dead

This activity is prohibited unless conducted pursuant to a sanctuary permit. This prohibition is consistent with a regulated activity (i.e., allowed only with a permit) identified in Presidential Proclamation 8031 for PMNM. This prohibition would be new for the area of sanctuary that overlaps with the MEA. However, prohibition 10 (above) effectively includes this activity, as touching coral is considered a disturbance which may cause injury or damage. Therefore, regulating this activity in the Outer Sanctuary Zone is primarily a technical addition which provides clarity to the public and resource managers.

14. Prohibition on Swimming, Snorkeling, or Closed or Open Circuit SCUBA Diving

These activities are prohibited unless conducted pursuant to a sanctuary permit. This prohibition is consistent with a regulated activity identified in Presidential Proclamation 8031 for any Special Preservation Area or the Midway Atoll Special Management Area. This prohibition would be new for areas of PMNM that fall outside of any Special Preservation Area or the Midway Atoll Special Management Area, and for the MEA. Expanding this regulated activity to the entire area of the proposed sanctuary allows NOAA to ensure that all in-water activities are done in compliance with the permit findings criteria and requirements, and are consistent with the care and management of sanctuary resources.

15. Prohibition on Discharging or Depositing Any Material or Other Matter Into the Sanctuary, or Discharging or Depositing Any Material or Other Matter Outside of the Sanctuary That Subsequently Enters the Sanctuary and Injures or Has the Potential To Injure Any Resources of the Sanctuary, With Exceptions

These activities are prohibited unless conducted pursuant to a sanctuary permit. This prohibition is consistent with regulated activities identified in Presidential Proclamation 8031 for PMNM. The sanctuary regulations provide an exception to this activity, for “discharge incidental to vessel operations such as approved marine sanitation device effluent, cooling water, and engine exhaust”. Within Special Preservation Areas or the Midway Atoll Special Management Area, discharge is limited to “vessel engine cooling water, weather deck runoff, and vessel engine exhaust”. The exceptions to this otherwise regulated activity must be conducted in accordance with other Federal statutes and regulations, such as section 312 of the Federal Water Pollution Control Act, as amended, (FWPCA), 33 U.S.C. 1321 et seq. In addition, and consistent with exceptions identified in Presidential Proclamation 8031 for PMNM, the sanctuary regulations provide an exception for “fish, fish parts, or chumming materials (bait) used in or resulting from lawful fishing activity, provided that such discharge or deposit is during the conduct of lawful fishing activity within the sanctuary”.

While this prohibition is technically new for the area of the sanctuary that overlaps with the MEA, Presidential Proclamation 9478 effectively includes this activity. Regulating this activity for the Outer Sanctuary Zone provides clarity to the public and resource managers. Further, the prohibition on discharges within or into the sanctuary is provided in recognition that various substances can be discharged from vessels or from infrastructure or individuals along the shoreline that can harm sanctuary resources or qualities. Establishing a cohesive regulatory framework across the sanctuary would benefit sanctuary resources and sanctuary users.

16. Prohibition on Anchoring a Vessel

This activity is prohibited unless conducted pursuant to a sanctuary permit. While this activity may be permitted via a sanctuary permit, anchoring on living or dead coral may never be permitted, as noted above under prohibition 5. NOAA is regulating anchoring a vessel for consistency with a regulated activity identified in Presidential Proclamation 8031 for PMNM and because there is the potential for sanctuary resources, other than corals, to be impacted by anchoring. This prohibition is new for the area of the sanctuary that overlaps with the MEA. NOAA is including this prohibition on anchoring a vessel throughout the sanctuary to provide clarity to the public, resource managers, and enforcement personnel that all users of the sanctuary are subject to the same prohibition on anchoring a vessel unless conducted pursuant to a sanctuary permit.

H. Exemptions for Emergencies

Consistent with existing management of this area, the prohibitions for the sanctuary would not apply to any activity necessary to respond to emergencies that threaten life, property, or the environment, or to activities necessary for law enforcement purposes.

I. U.S. Armed Forces Exemption

Consistent with existing management of this area, NOAA provides a broad exemption to allow activities and exercises of the U.S. Armed Forces, including those carried out by the U.S. Coast Guard. NOAA recognizes that this broad exemption is necessary to ensure military readiness for the Department of Defense to conduct existing training, operations, and military readiness activities in the area of the sanctuary. The United States military has been able to maintain readiness and conduct training and other operations in other national marine sanctuaries based on similar broad exemptions.

All activities and exercises of the Armed Forces shall be carried out in a manner that avoids, to the extent practicable and consistent with operational requirements, adverse impacts on sanctuary resources and qualities. For any actions of the Armed Forces that are likely to destroy, cause the loss of, or injure sanctuary resources, the Armed Forces must comply with the Interagency Cooperation requirements outlined in section 304(d) of the NMSA, regardless of whether those actions are exempted from the sanctuary's prohibitions.

J. Exemption for Non-Commercial Fishing

NOAA exempts non-commercial fishing authorized under the MSA in the Outer Sanctuary Zone from needing a sanctuary permit for certain regulated activities provided under paragraph (a)(9) through (12), and (a)(14) in the final rule, provided that certain requirements are satisfied. Those requirements are that the fish harvested, either in whole or in part: (1) are not intended to enter commerce and shall not enter commerce through sale, barter, or trade, and that the resource is managed sustainably; and (2) are not intended to be sold and shall not be sold for any purposes, including, but not limited to, cost-recovery.

In addition, the exempted activities under paragraph (a)(9) through (12), and (a)(14) must only be conducted as incidental to and necessary to conduct lawful non-commercial fishing activity. NOAA will prepare a separate proposed rule under the MSA, which shall serve as the primary mechanism for authorizing non-commercial fishing activities in the Outer Sanctuary Zone. NOAA will periodically evaluate the effect of non-commercial fishing activities on sanctuary resources. Such evaluations would take into consideration the best scientific information available and evaluate whether additional actions are necessary for the proper care and management of sanctuary resources, including fishery resources, consistent with goals and objectives of the sanctuary. This exemption only applies to the Outer Sanctuary Zone.

K. Sanctuary Permit Procedures and Criteria

1. Sanctuary General Permits

NOAA provides the authority to issue sanctuary general permits to allow certain activities that would otherwise violate prohibitions in paragraphs (a)(9) through (15). The sanctuary permitting system was developed to allow for integration with the Monument permitting system, to ensure a continued joint permitting system administered by Monument co-managers. NOAA may, in cooperation with the Monument co-trustees, modify the existing memorandum of agreement or develop a new memorandum of agreement to add further clarification on joint permitting.

National marine sanctuary program-wide regulations at 15 CFR 922.30 describe various purposes for which a sanctuary general permit can be issued. Three of these which would apply to this sanctuary are:

• Research—activities that constitute scientific research or scientific monitoring of a national marine sanctuary resource or quality;

• Education—activities that enhance public awareness, understanding, or appreciation of a national marine sanctuary or national marine sanctuary resource or quality; and

• Management—activities that assist in managing a national marine sanctuary.

NOAA adds two additional permit categories to 15 CFR 922.30 under which a sanctuary general permit could be issued in the sanctuary:

• Native Hawaiian Practices—activities that allow for Native Hawaiian practices within the sanctuary; and

• Recreation—recreational activities within the sanctuary, but limited to the Midway Atoll Special Management Area.

The Native Hawaiian Practices general permit category is consistent with the types of activities permitted for the PMNM. Presidential Proclamation 9478 provided Native Hawaiian practices as a regulated activity. For consistency in management across the proposed sanctuary, and to protect sanctuary resources while facilitating responsible user access, NOAA would apply this general permit category across the sanctuary.

The Recreation general permit category is consistent with the types of activities permitted for PMNM, specifically within the Midway Atoll Special Management Area. For consistency with existing Monument management, this general permit category would continue to be limited to recreational activities within the Midway Atoll Special Management Area.

The general regulations in 15 CFR part 922, subpart D relating to the permit application process, review procedures, amendments, and other permitting stipulations would apply. These national permitting regulations include a list of factors NOAA considers in deciding whether or not to issue the permit, such as whether the activity must be conducted within the sanctuary, and whether the activity will be compatible with the primary objective of protection of sanctuary resources and qualities. NOAA will be able to impose specific terms and conditions through a permit as appropriate. The general regulations' permitting review criteria is largely consistent with the permitting findings established by Presidential Proclamation 8031 for PMNM, and implemented through 50 CFR 404.11.

In addition to permit review procedures and evaluation criteria in 15 CFR 922.33, some additional permit review criteria apply in the sanctuary, including additional criteria specific to Native Hawaiian Practices permits and Recreation permits. NOAA is providing these additional permit criteria in 15 CFR 922.245 to be consistent with the permit criteria for PMNM.

2. Special Use Permits

NOAA has the authority to issue special use permits (SUPs) in national marine sanctuaries, as established by section 310 of the NMSA (16 U.S.C. 1441) and by 15 CFR 922 subpart D. SUPs can be used to authorize specific activities in a sanctuary if such authorization is necessary to establish conditions of access to, and use of, any sanctuary resource or to promote public use and understanding of a sanctuary resource. Section 310 of the NMSA establishes four requirements for SUPs: (1) activities must be compatible with the purposes for which the sanctuary is designated and with protection of sanctuary resources; (2) SUPs shall not authorize the conduct of any activity for a period of more than five years unless otherwise renewed; (3) activities carried out under the SUP must be conducted in a manner that does not destroy, cause the loss of, or injure sanctuary resources; and (4) permittees are required to purchase and maintain comprehensive general liability insurance, or post an equivalent bond, against claims arising out of activities conducted under the SUP and to agree to hold the United States harmless against such claims. The NMSA authorizes NOAA to assess and collect fees for the conduct of any activity under a SUP, including costs incurred, or expected to be incurred, in issuing the permit and the fair market value use of sanctuary resources. Implementing regulations at 15 CFR 922.35 provide additional detail on assessment of fees for SUPs. Like with sanctuary general permits, NOAA can place conditions on SUPs specific to the activity being permitted. NOAA shall provide appropriate public notice before identifying any category of activity subject to a special use permit.

NOAA is not adding any new SUP category as part of this designation. In evaluating applications for special use permits, NOAA will consider all applicable permitting requirements, including permitting procedures and criteria under the Monument's existing management framework. For example, certain activities may be subject to the requirements of special ocean use permits, as authorized by Presidential Proclamation 8031, and issued by Monument managers in the PMNM via 50 CFR 404.11. Special ocean use permit requirements were modeled after the NMSA's authority for SUPs, but also include a few additional requirements. For example, one of the requirements for special use permits outside Midway Atoll National Wildlife Refuge is that the activity does not involve the use of a commercial passenger vessel. For special use permits in Midway Atoll National Wildlife Refuge, an additional requirement is that the Director of the USFWS or their designee determines that the activity is compatible with the purposes for which the Midway Atoll National Wildlife Refuge was designated.

3. Sustenance Fishing

NOAA may authorize sustenance fishing outside of any Special Preservation Area as a term or condition of any sanctuary permit. Sustenance fishing in the Midway Atoll Special Management Area shall not be allowed unless the activity has been determined by the Director of the USFWS or their designee to be compatible with the purposes for which the Midway Atoll National Wildlife Refuge was established. Sustenance fishing is fishing for bottomfish or pelagic species in which all catch is consumed within the sanctuary. Sustenance Fishing is allowed incidental to an activity permitted in the PMNM under Presidential Proclamation 8031, and in regulations at 50 CFR part 404. Sustenance fishing was not specifically identified in Presidential Proclamation 9478 governing the MEA, but is allowable, consistent with proper care and management of monument objects. For consistency in management and permitting, NOAA is allowing for this activity as a term or condition of a general permit or special use permit.

L. Vessel Monitoring System

To complement existing management and provide consistency across the entirety of the sanctuary, an owner or operator of a vessel that has been issued a general permit or special use permit under 15 CFR part 922 subpart D must ensure that such vessel has a NOAA Office of Law Enforcement (OLE)—approved Vessel Monitoring System (VMS) on board when operating within the sanctuary. Presidential Proclamation 8031 requires an owner or operator of a vessel that has been issued a permit for accessing the PMNM to have an OLE—approved VMS on board. Such a requirement was not included in Presidential Proclamation 9478. For consistency in permitting, and for the reasons identified below, NOAA implements this requirement across the sanctuary.

This requirement supports monitoring and surveillance, enforcement, and other incidental uses, consistent with the long-standing history of using vessel monitoring systems in the remote and vast area of the sanctuary, beginning with Executive Order 13178 in 2000. In directing the Secretary of Commerce to manage the Northwestern Hawaiian Islands Coral Reef Ecosystem Reserve, section 5(b) of Executive Order 13178, indicated that priority management issues and actions must include enforcement and surveillance, including the use of new technologies, as well as the use of vessel monitoring systems, if warranted. The 2005 Final Reserve Operations Plan included an Enforcement Action Plan with strategies to investigate innovative technology that would be effective for enforcement and surveillance activities within this large, remote area, as well as to implement VMS.

In 2006, Presidential Proclamation 8031, as noted above, required an OLE-approved VMS on vessels with permits to access the PMNM. VMS is currently being used in the PMNM and is part of the Monument Management Plan's Enforcement Action Plan. The Monument Management Plan highlights, as an example, that when the 85-foot longliner Swordman I, carrying more than 6,000 gallons of diesel fuel and hydraulic oil, ran aground at Pearl and Hermes Reef in 2000, vessel monitoring system technology allowed agents to track the disaster and quickly send out equipment for an extensive cleanup. Further, the Monument Management Plan recognizes that the Monument's remote location presents unique surveillance and enforcement challenges, which a mandatory vessel monitoring system is critical to addressing.

In designating a sanctuary in the remote and vast area of the Monument and Northwestern Hawaiian Islands Coral Reef Ecosystem Reserve, NOAA recognizes the need to overcome these natural barriers to surveillance and enforcement through the use of VMS.

M. Scientific Exploration and Research by the Department of Commerce and the Department of the Interior

Presidential Proclamation 9478, which designated the MEA, stipulates that the prohibitions required by the proclamation “shall not restrict scientific exploration or research activities by or for the Secretaries and nothing in this proclamation shall be construed to require a permit or other authorization from the other Secretary for their respective scientific activities.” Presidential Proclamation 9478 further highlights the significant scientific value of the MEA and underscores the opportunities for research and discovery to occur in that area, including understanding the impacts of climate change on deep-sea communities and identifying new species. NOAA exempts the Department of Commerce's and Department of the Interior's scientific exploration or research activities from the sanctuary's prohibitions and permitting requirements within the Outer Sanctuary Zone to be consistent with Presidential Proclamation 9478. However, such activities must still comply with other Federal laws such as the NEPA, the Endangered Species Act, the National Marine Sanctuaries Act section 304(d), and the Marine Mammal Protection Act.

N. Sunken Military Craft

NOAA is also adding language regarding the Sunken Military Craft Act of 2004 (SMCA; Pub. L. 108-375, Title XIV, sections 1401 to 1408; 10 U.S.C. 113 note) that acknowledges that sunken military craft in the sanctuary will continue to be administered by the respective Secretary concerned pursuant to the SMCA. NOAA will enter into a Memorandum of Agreement with the appropriate agencies regarding collaboration on implementing the SMCA. See section VI.H for more information.

O. Emergency Regulations

NOAA is not including any sanctuary-specific regulation to allow for development of emergency regulations to address urgent threats to sanctuary resources. Rather, the emergency regulation provision included in the regulations of general applicability, which apply to all national marine sanctuaries (see 15 CFR 922.7), would also apply to Papahānaumokuākea National Marine Sanctuary. Emergency regulations are used when there is an imminent risk to sanctuary resources and a temporary regulation or prohibition is necessary to prevent or minimize the destruction or loss of those resources, or otherwise minimize the imminent risk of such destruction, loss, or injury.

P. Other Conforming Amendments

The regulations related to National Marine Sanctuary Permitting, 15 CFR part 922, subpart D, are amended so that the regulations are accurate and up-to-date. The modified sections to conform to adding a new sanctuary are as follows:

• Section 922.30 National Marine Sanctuary general permits;

• Section 922.33 Review procedures and evaluation; and

• Section 922.37 Appeals of permitting decisions.

Notably, NOAA amends 15 CFR 922.37 “Appeals of permitting decisions,” to reflect that the general appeals process for sanctuary permits will not apply to permit applications for the sanctuary. Consistent with the current interagency permitting system that has been in place for the Monument, there would be no appeals process for the sanctuary. Should a permit applicant want NOAA and the other agencies to reconsider a permitting decision, they would need to file a new permit application.

V. Response to Comments

All comments were considered by NOAA and the State and, where appropriate, modifications were made to the final EIS, sanctuary management plan, and sanctuary rule. NOAA and the State's responses to comments address significant issues and concerns raised by members of the public, government agencies, stakeholder groups, non-profit organizations, and Kānaka 'Ōiwi community groups. For a full scope of all of the comments received on the draft designation documents, including the draft EIS and the draft management plan, and their responses, please review the final EIS Appendix K. This final rule includes NOAA's responses to comments that address the significant issues raised in public comments within the scope of the proposed rule specifically, and offer additional information about why certain changes were made to the rule, the terms of designation, or the regulations. The final rule retains the numbering/naming of the comment from the final EIS Appendix K so readers can track the comments that have been included in this preamble and more efficiently find other related comments/responses in the Appendix K that have not been included in this preamble. As such, cross-references have been retained here for completeness.

1. A-1 Comment: The majority of comments NOAA received supported the proposed sanctuary designation, including Alternative 1 (NOAA's Preferred Alternative), and encouraged NOAA to proceed with the designation process. Commenters who support the designation cited reasons including:

• Additional regulations, protections, enforcement, and programmatic and legal benefits for Papahānaumokuākea under the National Marine Sanctuaries Act;

• Enhancing long-term protections for biological, cultural, and historical resources;

• Comprehensive and coordinated management of the marine areas of Papahānaumokuākea;

• Preserving Native Hawaiian culture, traditional practices, sacredness of waters, and connections to place for current and future generations;

• Safeguarding marine biodiversity; coral reefs, pelagic, and deep-ocean ecosystems; and endemic, threatened, and endangered species;

• Regulating, mitigating, or preventing threats such as invasive species, overfishing, illegal fishing, deep-sea mining, military activities, pollution, oil spills, marine debris, erosion, and climate change;

• Additional sources of funding to support operations, research, emergency response, citizen science, education, and outreach; and

• Opportunities for recreation and tourism;

Response: NOAA agrees that these are some of the main benefits of designating the marine areas of the Monument as a national marine sanctuary. NOAA notes that many of these comments specifically indicate a preference for Alternative 1, and NOAA has considered this in carrying Alternative 1 forward in the final EIS as the Final Agency-Preferred Alternative.

2. A-2 Comment: A minority of commenters expressed opposition to sanctuary designation, citing concerns that designating a sanctuary:

• Is an overreach by the Federal government;

• Is an act of colonialism and/or infringes on the rights of Indigenous peoples;

• Would come at a cost to Native Hawaiian, American Samoan, and/or Pacific Islander well-being, including loss of the ability to practice cultural traditions and connections to ocean resources;

• Would limit access to the ocean and resources for food, livelihood, and cultural sustenance, and limit Indigenous rights and their ability to freely fish in local waters;

• Would decrease the amount of fishing waters across the Pacific;

• Would lead to overfishing;

• Adds unnecessary layers of bureaucracy, as the existing Monument management and protections are extensive and sufficient for the area, and that if new protections/management is needed, these should be enacted through the Monument;

• Would relinquish the Monument title and co-management framework;

• Would weaken current protections, and allow the Department of Commerce to violate protections, opening the doors to deep-sea mining and recreational tourism, and taking away human and financial resources needed to manage the area; and

• Would be redundant of current management of the Monument, and therefore unnecessary. Some commenters also expressed that they felt current Monument management to be poor, or that current management capacity is lacking; and that a sanctuary would not improve this.

Response: Through the public sanctuary designation process, and from public input received during scoping and the proposed designation stage, NOAA has determined that this action responds to the need to address threats to and discrepancies in management of nationally significant resources. NOAA has also determined that the current management regime will benefit from additional regulatory tools, as well as the first set of implementing regulations for the MEA. Chapter 2 of the final EIS and Section I.B of the final rule preamble describes the purpose and need for the sanctuary.

NOAA respects the views of the commenters, including those who expressed concern that sanctuary designation is an overreach by the Federal government; is an act of colonialism; would impact the livelihood of Pacific Islanders and/or limit Indigenous rights. NOAA seeks to support the rights of Kānaka 'Ōiwi and Pacific Islanders, and to support biocultural conservation and restoration work by growing collective kuleana and affirming respect and reciprocity for the place and people. The sanctuary management plan (final EIS Appendix A) objectives include managing the area as a sacred site consistent with Kānaka 'Ōiwi traditional knowledge, management concepts, and principles articulated within Mai Ka Pō Mai. Kānaka 'Ōiwi culture is foundational in the co-management legacy of Papahānaumokuākea (see final EIS, sections 1.2.4 and 4.5.1), and the designation aims to ensure ecological integrity and achieve strong, long-term protection and perpetuation of Northwestern Hawaiian Island ecosystems, Kānaka 'Ōiwi culture, and maritime heritage resources for current and future generations. Native Hawaiian access will continue under sanctuary designation. See also the responses to comments C.1, C.2, and E.7.

Regarding commenters who expressed concerns with the impact of sanctuary designation on the existing Monument, existing regulations, and or existing management of the area, see also the responses to E.1 and E.2. Regarding commenters who expressed concerns with the impact of sanctuary designation on fishing, see also the comments D.1, D.3, and D.5. NOAA also recognizes that some comments raise concerns that are outside the scope of this designation, including the ongoing process to designate a proposed national marine sanctuary in the Pacific Remote Islands. The underlying concerns of these comments were still considered in the context of Papahānaumokuākea National Marine Sanctuary. Detailed responses to specific points of concern and opposition are addressed in the subsequent responses.

3. B-1 Comment: Commenters expressed opposition to for-profit activities in the sanctuary. One commenter recommended that no human activity should be allowed in the sanctuary.

Response: The sanctuary regulations were drafted to supplement and complement existing management of the area. The existing Monument management regime allows for some for-profit activities such as professional film-making, and activities such as wildlife management, research, and Native Hawaiian practices. All are subject to permitting requirements. Consistent with the existing management of the area, NOAA will allow for regulated access to the sanctuary for these types of activities. As in the Monument, in order to receive a permit for a regulated activity, a number of findings criteria need to be met, including that the proposed activity is conducted consistent with the primary objective of protection of sanctuary resources.

4. B-2 Comment: Commenters expressed concern regarding access to Papahānaumokuākea, noting that the area can currently only be experienced by a select group of scientists, Native Hawaiian cultural practitioners, and wealthy individuals.

Response: The sanctuary regulations and permit categories were drafted to supplement and complement existing management of the area. Consistent with the presidential proclamations designating the PMNM and MEA, and the Monument implementing regulations at 50 CFR part 404, NOAA will allow for regulated access. Anyone may apply for a permit to access the sanctuary. There are six categories of permitted activities: research, recreation, education, Native Hawaiian practices, conservation and management, and special use. In addition, a vessel may pass without interruption through the sanctuary without requiring a permit as long as the vessel does not stop or engage in prohibited activities within the sanctuary.

Additionally, the sanctuary management plan describes strategies to engage and support diverse communities who care for Papahānaumokuākea, including Indigenous and underserved communities. NOAA recognizes the constraints imposed by the vastness and remote nature of the proposed sanctuary (nearly 300 miles at its closest point from the main Hawaiian Islands), and therefore strives to provide education and outreach that brings the place to the people. Through the Mokupāpapa Discovery Center and collaborations with other interpretive centers, organizations, business agencies, and others, NOAA has expanded a network serving both local, regional, and international audiences.

5. B-3 Comment: Commenters provided recommendations that permits be easy to acquire through a streamlined process to minimize barriers and reduce redundant reviews under various authorities and regulations. One commenter suggested that the process to acquire a sanctuary or Monument Native Hawaiian practices permit, specifically, should be prioritized and streamlined.

Response: The Monument joint permitting process has been in place and permits have been issued by the co-trustees since 2007. The sanctuary includes a permitting system modeled after the existing Monument permitting system, and was developed to allow for integration with the Monument permitting system, to ensure continued joint permitting administered by Monument co-trustees. See final EIS Section 3.3.1 for an updated description of the permitting process. Through sanctuary designation, NOAA strives to conduct seamless, integrated management, such that sanctuary permits, including Native Hawaiian practices permits, will go through the same streamlined process as currently exists for the Monument.

6. B-4 Comment: Commenters expressed concerns regarding activities that take place in the Northwestern Hawaiian Islands under claims of innocent passage, and requested that all activities in the area of the proposed sanctuary comply with the United Nations Convention on the Law of the Sea, which the U.S. recognizes as customary international law, and applicable international treaties.

Response: In the preamble of the proposed rule, NOAA specified that the proposed access and ship reporting regulations would be applied in accordance with generally recognized principles of international law, in accordance with sections 305(a) and 307(k) of the NMSA and the NMSA Regulations of General Applicability at 15 CFR 922.1(b). That is, no regulation shall apply to or be enforced against a person who is not a citizen, national, or resident alien of the United States unless in accordance with generally recognized principles of international law. In accordance with 15 CFR 922.1(b), NOAA has long interpreted the text of NMSA Section 305(a) as encompassing international law, including customary international law.

In the preamble of this final rule, NOAA has clarified its intention that all regulations will be applied in accordance with generally recognized principles of international law, as well as in accordance with treaties, conventions, and other agreements to which the United States is a party.

7. B-5 Comment: A commenter provided a recommendation that the IMO's designation of the Monument as a PSSA apply to the MEA. The commenter also recommended that NOAA should determine, as part of the sanctuary designation process, if additional regulatory and management controls are necessary.

Response: The IMO process for designating an area as a PSSA is outside the scope of this action. If the U.S. Government determines at a future time that designation of some or all of the Monument as a PSSA is warranted, the IMO process would remain available. Through sanctuary designation, NOAA will implement the ship reporting system (CORAL SHIPREP), which was adopted by the IMO as an associated protective measure to the designation of the Monument as a PSSA. The ship reporting system's reporting area extends outward 10 nautical miles from the PSSA boundary, as designated by the IMO, and therefore includes some portions of the MEA waters. After thorough analysis, NOAA concluded that additional regulatory measures are not necessary at this time, beyond the sanctuary regulations for ship reporting, access, and prohibited or otherwise regulated activities. Section IV.F of this final rule preamble provides details of the ship reporting system.

8. B-6 Comment: Commenters expressed support for access for recreational activities, including snorkeling and scuba diving; and allowing opportunities for the public to interact with Papahānaumokuākea in a safe and responsible manner. Commenters stated that allowing access for recreational activities may lead to increased awareness and support for the National Marine Sanctuary System. Commenters also provided recommendations for regulating recreational activities.

Other commenters expressed concern for the potential negative impacts to resources from allowing visitation, recreation, and tourism activities in the sanctuary, specifically Midway Atoll. A few commenters opposed recreational access to the sanctuary, noting that access should be limited to research and conservation activities and/or to the Midway Atoll Special Management Area.

Response: For the sanctuary, consistent with existing regulations for PMNM, recreational activity will be defined as activities conducted for personal enjoyment that do not result in the extraction of sanctuary resources and that do not involve a fee-for-service transaction. This includes, but is not limited to, wildlife viewing, scuba diving, snorkeling, and boating. Recreation can provide significant educational opportunities, build constituencies, and provide assistance to natural resource managers. However, these activities can also lead to wildlife disturbance, habitat degradation, and pollution. It is a goal of the Monument to prevent, avoid, or minimize negative human impacts associated with recreation by allowing access only for those activities that do not threaten the natural character or biological integrity of the Monument or Native Hawaiian cultural, historic, or maritime heritage resources.

Midway Atoll Special Management Area is the only area of the Monument where recreational activities are permitted. Thus, while the sanctuary will allow for recreational activities via a permit, permits will only be issued for the Midway Atoll Special Management Area within the sanctuary, in coordination with the Monument Management Board and consistent with permitting for the existing Monument. Consistent with permit criteria for recreational activities within the Monument, recreation permits will not be issued for activities associated with any for-hire operation or for activities that involve extractive use.

9. B-7 Comment: Commenters expressed support for allowing a fee-for-service transaction for public visitation and recreational activities at Midway Atoll National Wildlife Refuge, and pointed out the existing authority of the USFWS to charge fees for public visitation. Commenters requested that the EIS recognize the authority of the USFWS to charge fees for services.

Response: Consistent with existing permit criteria and regulations for recreational activities within the Monument, recreation permits will not be issued for activities associated with any for-hire operation, and recreational activities are defined as activities conducted for personal enjoyment that do not result in the extraction of sanctuary resources and that do not involve a fee-for-service transaction. However, NOAA acknowledges that the USFWS has the authority to charge fees for services including public visitation (50 CFR part 25 Subpart E; Refuge Rules and Policies). Sanctuary designation will not change this authority, and the USFWS will still be able to charge fees for services, including public visitation to Midway Atoll. See also the response to E.3.

The EIS has been revised to acknowledge that the USFWS has the authority to charge fees for services including public visitation. See sections 3.2 and 4.6.2 of the final EIS.

10. B-8 Comment: Commenters requested that the USFWS consider a visitation program at Midway Atoll; and/or expressed support for recreation and visitation to Midway Atoll. Comments also requested that the final EIS describe the sanctuary permit process for public visitation and recreational activities at Midway Atoll National Wildlife Refuge.

Response: A visitation program to Midway Atoll is outside the scope of this action. NOAA will share these comments with the USFWS, a cooperating agency for this action, who has operated a Visitor Services Program for Midway Atoll. The USFWS' Midway Atoll Comprehensive Master Plan (2022) affirms the goals, objectives, and strategies of the previous 2008 Midway Atoll Visitor Services Plan, and USFWS' intent to implement a Visitor Services Program.

11. B-9 Comment: A commenter suggested that standards for permitting should be strengthened significantly, prioritizing Native Hawaiian practices without opening the door to other types of activities.

Response: Consistent with the presidential proclamations designating PMNM and the MEA, and PMNM implementing regulations at 50 CFR part 404, NOAA will allow for regulated access to the sanctuary. The sanctuary regulations include a permitting system modeled after the existing Monument permitting system, which was developed to allow for integration with the Monument permitting system to ensure continued joint permitting administered by the Monument Management Board (MMB). The final rule adopts the same permit criteria as currently required for Monument permits, including the additional criteria for Native Hawaiian practices and recreation permits. For additional information regarding Native Hawaiian practices permitting, see the responses to B.14 and C.1.

12. B-10 Comment: Commenters recommended that NOAA hold mandatory public hearings for all permit applications, that there should be a permanent public record for all permits granted, and that there should be no multiple-year permits allowed.

Response: The sanctuary regulations include a permitting system modeled after the existing Monument permitting system, and was developed to allow for integration with the Monument permitting system to ensure continued joint permitting administered by MMB. Therefore, NOAA intends to continue with the existing public notification process for the Monument, which does not include mandatory public hearings for all permit applicants. Instead, the existing permit system for the Monument includes a Permit Application Unified Public Notification Policy to engage and inform the public of activities proposed to occur within the Monument. Posting of a permit application does not equate to permit approval. After posting, each application is thoroughly reviewed by the MMB. Final permitted activities may differ from the proposed activities. Some of the public notification practices for the existing Monument include:

• Within 10 calendar days of receipt of an application, a summary of an applicant's proposed activities is posted for public viewing.

• Within 40 calendar days of receipt of an application, a full permit application is posted for public viewing.

• Permit applications that include proposed activities within the Northwestern Hawaiian Islands State Marine Refuge are also posted to the Board of Land and Natural Resources (BLNR) website for seven days prior to the scheduled BLNR meeting as part of the overall BLNR submittal process. The BLNR hearings and review process are open to the public.

All information provided in the application is reviewed by the Monument co-trustees to evaluate the potential benefits of the activity, determine whether the proposed methods will achieve the proposed results, evaluate any possible detrimental environmental impacts, and determine if issuance of a permit is appropriate. Factored in is a consideration of whether the timeframe of the proposed action is appropriate. Actions occurring within State waters are subject to a maximum permit duration of one year, while multi-year permits may only be issued outside of State waters. Therefore, consistent with existing management, multi-year permits may be granted in areas of the sanctuary that do not overlap with state waters.

Additionally, permits granted are documented within an annual permitted activities report, published by the Monument. Reports for previous years may be viewed on the Permitted Activities Annual Reports website.

13. B-11 Comment: Commenters recommended that independent cumulative impact assessments be required for all permit applications.

Response: Permit decisions are Federal actions which are subject to NEPA, 42 U.S.C. 4321 et seq. In accordance with NEPA, NOAA considers possible cumulative environmental impacts when considering Federal actions, including a decision of whether to issue a permit.

14. B-12 Comment: Commenters expressed concern that a special use permit would introduce commercial activities.

Response: In the Monument, some forms of commercial activity are currently permitted under special ocean use permits. The existing regulations at 50 CFR 404 for PMNM include permit criteria and regulations for special ocean use, which means an activity or use of the Monument that is engaged in to generate revenue or profits for one or more of the persons associated with the activity or use, and does not destroy, cause the loss of, or injure Monument resources. This includes ocean-based ecotourism and other activities such as educational and research activities that are engaged in to generate revenue, but does not include commercial fishing.

Likewise, before issuing a SUP in the sanctuary, NOAA will also ensure, among other things, that the requested activity is compatible with the purposes for which the sanctuary is designated and with protection of sanctuary resources, and is conducted in a manner that does not destroy, cause the loss of, or injure sanctuary resources (16 U.S.C. 1441(c)). NOAA can place conditions on SUPs specific to the activity being permitted. Individual permit applications that would require a SUP are also reviewed with respect to all other pertinent regulations and statutes, including NEPA (42 U.S.C. 4321 et seq.), and any required consultations, permits, or authorizations. Accordingly, there are sufficient safeguards in place for any activity proposed for a SUP in the sanctuary, whether of a commercial or non-commercial nature.

In addition, NOAA is not proposing any new SUP categories as part of this designation. In order to do so, NOAA would be required to provide appropriate public notice before identifying a new category of activity subject to a SUP (16 U.S.C. 1441(b)).

15. B-13 Comment: Commenters asked why the sanctuary permit would not allow for appeals of permit decisions.

Response: The permitting system for the sanctuary is modeled after the existing Monument permitting system. The permitting system would not supplant the joint permitting system for the Monument, and was developed to ensure a continued joint permitting system administered by the MMB. The existing permit system for the Monument does not include a process to appeal a permit decision. Instead, a permit applicant may seek reconsideration of a permitting decision by filing a new permit application that redresses the issue(s) in the initial application that caused the denial. To ensure consistency with the existing permit system for the Monument, the National Marine Sanctuary Program regulations at 15 CFR 922.37 for appeals of permitting decisions will not apply to Papahānaumokuākea National Marine Sanctuary. This will ensure that permit decisions are not made solely by NOAA, but in consideration with the other Monument co-trustees. See the final EIS, Section 3.3.1 and Section IV.P of this final rule for discussion of appeals of permitting decisions.

16. B-14 Comment: A commenter stated that the proposed rule's definition of “Native Hawaiian Practices” provides a solid foundation, but is concerned that “Native Hawaiian” is not defined. The commenter requested that the definition should narrowly reference indigenous practices and only those practices of the kānaka maoli, who lived and thrived in Hawai'i prior to European and American arrival.

Response: NOAA will not define “Native Hawaiian” in the sanctuary regulations because the issuance of Native Hawaiian practices permit is based on evaluating the activity against the permit criteria. To be consistent with the types of activities permitted for the Monument, and allow for an integrated permit process, NOAA will issue Native Hawaiian practices permits based on the same permit review procedures and additional evaluation criteria as those used for the Monument:

• The activity is non-commercial and will not involve the sale of any organism or material collected;

• The purpose and intent of the activity is appropriate and deemed necessary by traditional standards in the Native Hawaiian culture (pono), and demonstrates an understanding of, and background in, the traditional practice and its associated values and protocols;

• The activity benefits the resources of the Northwestern Hawaiian Islands and the Native Hawaiian community;

• The activity supports or advances the perpetuation of traditional knowledge and ancestral connections of Native Hawaiians to the Northwestern Hawaiian Islands; and

• Any living sanctuary resource harvested under this permit will be consumed or utilized in the sanctuary.

The permitting system for the sanctuary is modeled after the existing Monument permitting system. The permitting system will not supplant the joint permitting system for the Monument, and was developed to ensure a continued joint permitting system administered by the MMB. The existing permit system for the Monument does not define Native Hawaiian, and instead provides a specific set of findings criteria for a Native Hawaiian practice permit. The criteria for the Monument Native Hawaiian practice permit were developed following a workshop in 2004 facilitated by Kia'i Kai, a graduate program at the Kamakakūokalani Center for Hawaiian Studies at the University of Hawai'i at Mānoa, collecting input from Native Hawaiian cultural practitioners, fishermen, and others to create criteria for culturally-appropriate activities in Papahānaumokuākea. Presidential Proclamation 8031 subsequently applied these criteria in providing for additional findings for Native Hawaiian practice permits, as did the Monument's implementing regulations at 50 CFR part 404.

However, while Native Hawaiian is not defined in the regulations, the final EIS, recognizes a definition for the term Native Hawaiian per existing Federal law as important background information for the reader. See also the response to C.8.

17. B-15 Comment: Commenters requested that wind turbine activity, in addition to mining and exploratory activities related to energy development, be prohibited.

Response: Consistent with the presidential proclamations establishing the Monument, NOAA will prohibit exploring for, developing, or producing oil, gas, or minerals to protect sanctuary resources. NOAA will also prohibit “any energy development activities” to further the underlying intent of the prohibition on oil, gas, and mineral development by accounting for technological advances in other forms of energy development. This includes, but is not limited to, wind turbines and exploratory mining activity.

18. B-16 Comment: Commenters requested that submarine activity be prohibited, with several comments specifically requesting prohibitions on military submarine use.

Response: Access to the sanctuary, and therefore submarine use within the sanctuary, would be prohibited and thus unlawful except under the following circumstances: for emergency response actions, law enforcement activities, and activities and exercises of the Armed Forces; pursuant to a sanctuary permit; when conducting scientific exploration or research activities by or for the Secretary of Commerce and/or the Secretary of the Interior in the Outer Sanctuary Zone; and when passing through the sanctuary without interruption. Further, all regulations will be applied in accordance with generally recognized principles of international law, as well as in accordance with treaties, conventions, and other agreements to which the United States is a party. No regulation shall apply to or be enforced against a person who is not a citizen, national, or resident alien of the United States (including foreign flag vessels) unless in accordance with international law, or applicable treaties, conventions, and other agreements.

The sanctuary regulations allow activities and exercises of the U.S. Armed Forces. This is consistent with the existing management of the Monument, as both Presidential Proclamation 8031 and Presidential Proclamation 9478 provided broad exemptions for activities of the U.S. Armed Forces. However, all activities and exercises of the Armed Forces must be carried out in a manner that avoids, to the extent practicable and consistent with operational requirements, adverse impacts on sanctuary resources and qualities.

19. B-17 Comment: Commenters expressed concern regarding the potential spread of invasive species and diseases from vessel transit and biofouling, and requests that the prohibition on introducing invasive species apply to all vessels, including those passing without interruption.

Response: The sanctuary regulations will prohibit introducing or otherwise releasing an introduced species from within or into the sanctuary. The sanctuary regulations would also prohibit discharging or depositing any material or other matter into the sanctuary. These prohibitions are consistent with prohibitions identified in the presidential proclamations establishing the Monument. These prohibitions would apply to all vessels, including those passing without interruption. A vessel may only pass without interruption through the sanctuary without requiring a permit, as long as the vessel does not stop or engage in prohibited activities within the sanctuary.

20. B-18 Comment: Commenters stated that the provisions of Presidential Proclamation 8031, 50 CFR 404, Executive Order 13178 for the Northwestern Hawaiian Islands Coral Reef Ecosystem Reserve, and the State of Hawai`i Northwestern Islands Marine Refuge should be applied to the sanctuary regulations for the Monument Expansion Area and the full sanctuary, and specifically the prohibitions regarding fishing. Commenters also stated that Presidential Proclamation 9478 is too weak and provides “loopholes.”

Response: In drafting the sanctuary regulations, NOAA reviewed the executive orders, presidential proclamations, and regulations that currently guide Monument management. NOAA adopted the management measures from these benchmarks, and, in a few areas, added to those measures to allow for consistency in regulation and management across the sanctuary. The sanctuary regulations are largely consistent with Executive Order 13178, establishing the Northwestern Hawaiian Islands Coral Reef Ecosystem Reserve (Reserve). Where the sanctuary regulations do not align with Executive Order 13178, the regulations comply with other applicable law including Presidential Proclamations 8031 and 9478 establishing PMNM and MEA, respectively, which succeeded the 2000 executive order establishing the Reserve. For example, while Executive Order 13178 sets caps on commercial fishing, the sanctuary regulations prohibit commercial fishing across the sanctuary, consistent with the presidential proclamations. In addition, the MEA's location outside the reserve, and other applicable law for that area such as Presidential Proclamation 9478, account for differences in management, including for non-commercial fishing.

NOAA also considered that while the Monument is managed as a unit, several State and Federal conservation areas exist within it, where specific authorities apply. For example, the State of Hawai'i has primary responsibility for managing the State waters of the Monument, including the State of Hawai'i Northwestern Islands Marine Refuge. These existing authorities will still remain in effect. The State of Hawai'i also served as a cooperating agency for the EIS, allowing consideration and input into the draft documents. Further, as the sanctuary overlaps with State waters, the State will co-manage the sanctuary with NOAA, and the governor of Hawai'i will also review NOAA's designation documents before the sanctuary designation is final.

21. B-19 Comment: A commenter expressed support for the prohibition on altering the seabed by modification or placement of materials, except for scientific instruments, providing new protections for the limited and sensitive habitats of the Outer Sanctuary Zone. The commenter noted that access through permitting would allow managers to review methodologies and monitor permittees, and that while minimal user contact with the seafloor occurs or is anticipated in the Outer Sanctuary Zone, these resources are rare and extremely vulnerable to disturbance.

Response: NOAA agrees. In the MEA, Presidential Proclamation 9478 prohibits this type of activity, except for when conducted for the use of scientific instruments, which is allowed only with a permit, subject to such terms and conditions as the Secretaries of Commerce and Interior deem appropriate. Therefore, in the sanctuary, these activities are prohibited unless conducted pursuant to a sanctuary permit, and in the Outer Sanctuary Zone, such a permit may only be issued for scientific instruments.

22. B-20 Comment: A commenter expressed concern for the prohibition on anchoring a vessel, noting that for safety reasons, there are some scenarios when a vessel should be able to anchor.

Response: Anchoring a vessel is prohibited unless conducted pursuant to a sanctuary permit. While this activity may be permitted via a sanctuary permit, anchoring on living or dead coral may never be permitted. NOAA will regulate anchoring a vessel for consistency with a regulated activity identified in Presidential Proclamation 8031 for PMNM and because there is the potential for sanctuary resources, other than corals, to be impacted by anchoring. This prohibition is new for the area of the sanctuary that overlaps with the MEA. NOAA recognizes that there may be scenarios where anchoring a vessel is necessary for safety. Consistent with existing management of this area, the prohibitions for the sanctuary, including the prohibitions on anchoring, will not apply to any activity necessary to respond to emergencies that threaten life, property, or the environment, or to activities necessary for law enforcement purposes.

23. B-21 Comment: Commenters expressed concerns regarding the sufficiency of enforcement in the sanctuary and the need for improved monitoring and enforcement to protect sanctuary resources. Some commenters specifically pointed out the need for increased monitoring of pollution to prevent entanglement of marine life. Suggestions and recommendations included improved or expanded monitoring and surveillance, use of technology to aid enforcement including Automatic Information Service and satellite monitoring, promulgation of strict regulations, dedicated funding, a risk assessment framework for vulnerable ecosystems, and increased collaboration with the National Environmental Satellite, Data, and Information Service and the State of Hawai'i for satellite management. Commenters also requested that enforcement be conducted by traditional vessels or new technologies to eliminate noise pollution that may impact marine life.

Response: With sanctuary designation, the NMSA provides various regulatory tools and authorities for the protection of sanctuary resources. This includes the authority to conduct enforcement activities; assess civil penalties for violations of sanctuary regulations or permits; impose liability for destruction, loss of, or injury to sanctuary resources and provide natural resource damage assessment authorities for destruction, loss of, or injury to any sanctuary resource; and issue emergency response regulations. In addition, consistent with the existing management of the Monument, the sanctuary implements regulations requiring VMS units for an owner or operator of a vessel that has been issued a permit, as well as a ship reporting system for vessels that pass without interruption through the reporting areas. Both regulatory tools are intended to increase monitoring, in order to assist enforcement activities by the U.S. Coast Guard and NOAA's Office of Law Enforcement and further the protection of sanctuary resources. Additionally, as described in the sanctuary management plan (final EIS, Appendix A), NOAA will continue to monitor ecosystems and seek out and develop new tools and technologies for resource protection and monitoring (Strategy 1.2, Strategy 2.2, Strategy 2.3); and to work with the existing interagency Law Enforcement Coordination Team to enhance communication and coordination among enforcement personnel in order to facilitate responses to incidents and uphold sanctuary regulations and policies (Strategy 1.9).

NOAA will continue to actively work and advocate inside the ecosystem protection framework established for the Monument to minimize risks and damages to sanctuary resources. For example, ongoing research aims to identify derelict fishing gear and other marine debris through unique spectral signatures that can be visualized from space to record locations and provide that information back to partners for removal. This technology has the potential to greatly reduce the effort to locate these hazards so that they can be removed from the environment. Some broad risk assessment investigations have been conducted by the Monument co-trustees (e.g., the Papahānaumokuākea Marine National Monument Climate Change Vulnerability Analysis (2014)), however, much more remains to be done. Challenges include the vast geographic extent of ecosystems and seasonal access limitations. Conducting such assessments will require substantial time, as well as the participation of all Monument co-trustee agencies.

Regarding reducing noise pollution from vessels to minimize wildlife disturbances, uncrewed surface vehicle (USV) technology is constantly improving and NOAA is exploring ways to utilize sail drones and other vessel systems in order to maintain a physical presence in sanctuary waters without having to dedicate staffed assets. These uncrewed platforms can utilize satellites to transmit location, vessel identification, and photographic evidence back to law enforcement officials in order to expand the geographic capacity of their limited resources.

24. B-22 Comment: Commenters recommended harsh penalties for those who violate the regulations, including requests for permit violators to be banned from receiving future permits.

Response: The NMSA authorizes NOAA to assess civil penalties for violations of provisions of the NMSA, including sanctuary regulations and permits. Each violation of the NMSA, any NMSA regulation, or any permit issued pursuant thereto, is subject to a civil penalty. Each day of a continuing violation constitutes a separate violation. The NMSA has a statutory maximum of $216,972 per violation, per the December 27, 2023 annual adjustment for inflation (see 88 Federal Register 89300).

Additionally, the NMSA regulations provide a list of findings, in addition to site-specific permit review criteria, which must be made before issuing a permit, such as whether the activity will be compatible with the primary objective of protection of sanctuary resources and qualities. The NMSA regulations also provide for the denial of a permit application based on various determinations, including that the applicant has acted in violation of the terms and conditions of a permit in a sanctuary in which the proposed activity is to take place, or has acted in violation of any sanctuary regulation, or for other good cause.

25. C-1 Comment: Commenters expressed support for Native Hawaiian rights, including statements that access to the sanctuary should be allowed for Native Hawaiians to connect with ancestors and 'āina and to perpetuate cultural practices based on pilina (relationships), kuleana (responsibilities), and genealogical connections to Papahānaumokuākea. This includes voyaging, which is vital for health, well-being, and in keeping Hawaiian culture and language alive. Commenters also stated that the allowance of Native Hawaiian traditional and customary practices should not be diminished or limited through sanctuary designation.

Response: NOAA recognizes the importance of Native Hawaiians' access to the sanctuary. Consistent with the presidential proclamations designating the Monument, NOAA will allow for regulated access to the sanctuary. Access will continue through a permit process. The sanctuary includes a permitting system modeled after the existing Monument permitting system, and was developed to allow for integration with the Monument permitting system, to ensure continued joint permitting administered by the MMB. The sanctuary has adopted the same permit criteria as currently required for the Monument, including for Native Hawaiian practices permits. See also the response to B.14.

The criteria for the Monument Native Hawaiian practices permit were developed following a workshop in 2004 facilitated by Kia'i Kai, a graduate program at the Kamakakūokalani Center for Hawaiian Studies at the University of Hawai'i at Mānoa, collecting input from Kānaka 'Ōiwi cultural practitioners, fishermen, and others to create criteria for culturally-appropriate activities in Papahānaumokuākea. For more than 20 years, the Papahānaumokuākea Native Hawaiian Cultural Working Group (CWG) has provided guidance and advice. The CWG is a group of Kānaka 'Ōiwi kūpuna (elders), researchers, cultural practitioners, educators, and community members that have deep connections and historical ties to Papahānaumokuākea through a living pilina (relationship), bound by genealogy, cultural protocols, and values building contemporary multi-disciplinary research and practice. Although the group is not a formalized advisory body, the CWG and many of its members have been involved for over two decades since the establishment of the Northwestern Hawaiian Islands Coral Reef Ecosystem Reserve in 2000, and provide an important Kānaka 'Ōiwi perspective that continues to inform Monument management. Since 2007, there have been 34 Native Hawaiian practices permits issued to perpetuate cultural practices ranging from traditional voyaging navigator apprenticeship and training, Hawaiian-led archaeological and cultural resource research, integrated cultural and scientific ecosystem monitoring, resource gathering including bird feathers/bones, and subsistence harvesting of fish, algae, and invertebrates. The growing number of Native Hawaiian permits submitted and issued provides significant support for and interest in conducting Hawaiian cultural practices, with at least eight ongoing cultural initiatives occurring on 27 separate expeditions.

26. C-7 Comment: A commenter expressed concern that the findings of the Cultural Impact Assessment E Hoi I Ke Au A Kanaloa were not integrated in the draft EIS and the Western Pacific Regional Fishery Management Council's (WPRFMC) draft fishing regulations.

Response: Findings of the Cultural Impact Assessment E Hoi I Ke Au A Kanaloa relating to the sanctuary proposal were addressed in Section 2.3.2, and more extensively in Chapter 5, of the draft EIS. NOAA is preparing a separate proposed rule for regulations governing fishing in the MEA under the authority of the MSA. Therefore, development and analysis of non-commercial fishing regulations for the MEA is not part of this action and was not analyzed in the draft or final EIS. NOAA and the State encourage commenters to participate in the future public review process for non-commercial fishing regulations in the MEA under the authority of the MSA, and any associated NEPA and/or other environmental compliance documentation.

27. C-8 Comment: A commenter expressed concern that “Native Hawaiian” is not defined. The commenter recommended the following language and definition be adopted and integrated into the final EIS: Native Hawaiian is defined as “any individual who is a descendant of the aboriginal people who, prior to 1778, occupied and exercised sovereignty in the area that now constitutes the State of Hawai'i.” The commenter also recommended the incorporation of other self-identification names, including but not limited to Kānaka Maoli, Kānaka 'Ōiwi, and indigenous peoples or indigenous Native Hawaiians.

Response: In the final EIS, NOAA recognizes a definition for the term Native Hawaiian as it is commonly defined per existing Federal law as any individual who is a descendant of the aboriginal people who, prior to 1778, occupied and exercised sovereignty in the area that now constitutes the State of Hawai'i. See Section 1.2.4. Throughout the EIS, NOAA also uses Kānaka 'Ōiwi and/or Kānaka Maoli as terms that refer to Native Hawaiians.

28. D-1 Comment: Commenters expressed opposition to any new fishing closures, citing reasons that included:

• Fishing becomes more difficult and expensive for fishermen, including the Hawai'i longline fishery. The small boat fishing industry will slowly go away;

• No scientific evidence that large marine reserves provide conservation benefits to fish stocks;

• Fishing areas should be managed under Magnuson-Stevens Fishery Conservation and Management Act (MSA), and closures do not support MSA Standard 1: Conservation and management measures shall prevent overfishing while achieving, on a continuing basis, the optimum yield from each fishery for the United States fishing industry;

• Fishing closures do not meet the administration's mandate for equity and justice for underserved communities;

• Fishing closures affect food security and well-being of Native Hawaiians;

• Intergenerational transmission of fishing traditions will be impeded or lost;

• Native Hawaiians should be able to fish for food; and

• Sanctuaries and fishing should be able to coexist.

Response: NOAA is not establishing any new fishing closures through sanctuary designation. The sanctuary regulations regarding commercial and non-commercial fishing are consistent with the existing Monument and its management of the area. The presidential proclamations establishing the Monument broadly restrict the harvest of fishery resources by prohibiting removing, moving, taking, harvesting, possessing, injuring, disturbing, or damaging any living or nonliving Monument resource, as well as attempts to do the same, except as may be allowed with a permit. Presidential Proclamations 8031 and 9478 further specify prohibitions on commercial fishing and the possession of commercial fishing gear. The presidential proclamations also identify certain types of non-commercial fishing that may be regulated (i.e., allowed pursuant to a permit or incidental to a permitted activity). Presidential Proclamation 8031, for example, authorizes sustenance fishing incidental to an activity permitted in PMNM. Presidential Proclamation 9478, for example, provides that non-commercial fishing is a regulated activity (i.e., allowed only with a permit) in the MEA.

In the sanctuary, the fishing regulations included in the final rule are consistent with Presidential Proclamation 9478 and the existing management of the area. This includes prohibiting commercial fishing and regulating non-commercial fishing pursuant to a sanctuary permit or authorized under the MSA in the Outer Sanctuary Zone. The final rule provides the first set of implementing regulation consistent with directives in Presidential Proclamation 9478, which has the force of law.

29. D-2 Comment: Commenters provided suggestions and recommendations that appropriately regulated and monitored commercial fishing, including longline fishing and trolling, should be allowed in the sanctuary, as well as the “small boat community.” One commenter stated that regulated traditional small boat fisheries should have a place. One commenter also inquired whether opportunities/mechanisms for future re-evaluation and allowance of commercial fishing in the sanctuary exist. One commenter also stated that there should be fishing line limits to reduce overfishing.

Response: In the sanctuary, fishing regulations are consistent with existing applicable law in the Monument. Existing applicable law in the area of the sanctuary prohibits commercial fishing. Presidential Proclamation 8031, and its implementing regulations at 50 CFR part 404, prohibits commercial fishing for bottomfish and associated pelagic species in the Monument after June 15, 2011. Presidential Proclamation 9478 also prohibits commercial fishing in the MEA. Therefore, any consideration of regulations allowing commercial fishing in the sanctuary would not alter existing fishing prohibitions in the area. See the response to D.1 for more detail.

30. D-3 Comment: Commenters expressed opposition to allowing commercial fishing in Papahānaumokuākea.

Response: For consistency with existing regulations and the presidential proclamations establishing the Monument, regulations include a sanctuary-wide prohibition on commercial fishing. See also the responses to D.1 and D.2.

31. D-4 Comment: Commenters requested increased support for monitoring and enforcing fishing prohibitions, and requesting that international fishing vessels be prohibited.

Response: Existing applicable law in the area of the sanctuary prohibits commercial fishing. NOAA and the State agree that monitoring and enforcement of fishing prohibitions is critical to protecting sanctuary resources. NOAA's Office of Law Enforcement and the U.S. Coast Guard support enforcement efforts across the National Marine Sanctuary System. To assist in this coordinated effort for Monument enforcement, ONMS facilitates a Monument Law Enforcement Coordination Team which is composed of law enforcement representatives from NOAA, USFWS, U.S. Coast Guard, and Hawai'i Division of Conservation and Resource Enforcement. This group meets regularly to coordinate joint enforcement efforts in the Monument.

The designation of a national marine sanctuary provides the first set of implementing regulations for the directives in Presidential Proclamation 9478, including the prohibition on commercial fishing and regulation on non-commercial fishing. By establishing these new implementing regulations, NOAA will have new tools for enforcement, including the enforcement of fishing regulations. Sanctuary designation imparts a specific set of new benefits afforded by the NMSA, including the authorization to assess civil penalties for violations of the NMSA, including sanctuary regulations and permits.

Additionally, foreign fishing has remained prohibited in U.S. waters since the introduction of the Magnuson-Stevens Fishery Conservation and Management Act of 1976. This prohibition was enacted on February 28, 1977 and remains in effect today with limited exceptions related to international fishery agreements that predated the MSA. There are no such allowances for foreign fishing activities within the U.S. EEZ that surrounds Hawai'i.

Regarding monitoring, see also the responses to B.21 and K.2.

32. D-5 Comment: Commenters expressed opposition to allowing non-commercial fishing and to the exemption (for non-commercial fishing in the MEA) in the proposed sanctuary rule, based upon biological, cultural, or co-management considerations. Out of concern for the proposed exemption of non-commercial fishing permits, one commenter suggested that non-commercial fishing permits should only be rarely granted, and carry strict catch limits.

Response: The presidential proclamations that established the Monument (8031 and 9478) served as benchmarks for drafting regulations for the sanctuary. The presidential proclamations identify certain types of non-commercial fishing that may be regulated (i.e., allowed pursuant to a permit or incidental to a permitted activity). Presidential Proclamation 8031 authorizes sustenance fishing incidental to an activity permitted in PMNM. Presidential Proclamation 9478 provides that non-commercial fishing is a regulated activity (i.e., allowed only with a permit) in the MEA, provided that the fish harvested, either in whole or in part, cannot enter commerce through sale, barter, or trade, and that the resource is managed sustainably. In the sanctuary, for consistency with the proclamations, “non-commercial fishing” is prohibited unless conducted pursuant to a sanctuary permit or through an exemption for non-commercial fishing authorized under the MSA in the Outer Sanctuary Zone (the area that overlaps with the MEA).

In response to comments of concern for this exemption, NOAA has made changes to the exemption for non-commercial fishing to ensure that a non-commercial fishing permit authorized under the MSA is only exempt from a limited subset of prohibited or otherwise regulated activities, and that these exempted activities are only conducted as incidental to and necessary to a lawful non-commercial fishing activity. NOAA has also clarified that this narrow exemption from the sanctuary's permitting requirements is only applicable provided that the fish harvested, either in whole or in part, are neither intended to enter commerce nor enter commerce through sale, barter, or trade and that the resource is managed sustainably, consistent with Presidential Proclamation 9478. Moreover, for the exemption to apply, the fish harvested, either in whole or in part, must not be intended to be sold and shall not be sold for any purposes, including, but not limited to, cost-recovery. Corresponding changes have been made in the final EIS Section 3.3.1.

NOAA is preparing a separate proposed rule for regulations governing fishing in the MEA under the authority of the MSA, and will invite the public to provide comments on the proposed non-commercial fishing regulations for the MEA. NOAA and the State encourage commenters to participate in the future public review process for non-commercial fishing regulations in the MEA under the authority of the MSA, including on the issuance of permits and catch limits, as those are outside the scope of this action.

33. D-6 Comment: Some commenters stated that fishing should not be restricted for Native Hawaiians and Indigenous populations and/or cultural practices. One commenter emphasized that it is culturally important to be able to bring fish home to share with family.

Response: Consistent with the existing management of the Monument and the proclamations that established the Monument, NOAA would continue to allow for regulated access to the sanctuary. Kānaka 'Ōiwi and Indigenous communities may apply for a permit to fish within the sanctuary. For consistency with the proclamations that established the Monument, “non-commercial fishing” is prohibited in the Sanctuary unless conducted pursuant to a sanctuary permit or authorized under the MSA in the Outer Sanctuary Zone. See the response to D.5. In the Outer Sanctuary Zone, the sanctuary regulations will not restrict the sharing of fish from non-commercial fishing activities authorized under the MSA.

34. D-7 Comment: A commenter requested that sustenance fishing be the only form of fishing allowed in the proposed sanctuary; and that there be a requirement that fish caught be consumed within the sanctuary, and not taken outside of the sanctuary. Others requested that sustenance fishing be allowed conditionally. Suggested conditions include by location; by permit type, and by sustainability criteria: (1) the activity must be “pono;” (2) the activity must benefit the resources of the Northwestern Hawaiian Islands and the Native Hawaiian community; and (3) any resource harvested from the Monument must be consumed in the Monument. Finally, one commenter supported defining sustenance fishing as a Native Hawaiian practice.

Response: Sustenance fishing is currently allowed incidental to an activity permitted in PMNM, pursuant to Presidential Proclamation 8031, and the implementing regulations at 50 CFR part 404. Sustenance fishing was not specifically identified in Presidential Proclamation 9478 governing the MEA, but is considered a form of non-commercial fishing which may be regulated. For consistency in management and permitting, NOAA will manage this activity as a term or condition of a general permit or special use permit for the sanctuary, outside of any special preservation area. NOAA's sanctuary permit will follow the conditions of the existing Monument permitting system, including the considerations that sustenance fishing must be conducted only for the purpose of providing sustenance in support of activities otherwise allowed under an established permit and that the harvested resource must be consumed within the Monument.

In the Outer Sanctuary Zone, other types of non-commercial fishing may be allowed, consistent with the proper care and management of sanctuary resources and monument objects. Sanctuary designation provides the first set of implementing regulations for many of the directives in Presidential Proclamation 9478, including the regulation of non-commercial fishing in the MEA. Presidential Proclamation 9478 stated that non-commercial fishing may be regulated “provided that the fish harvested, either in whole or in part, cannot enter commerce through sale, barter, or trade, and that the resource is managed sustainably.” Consistent with this proclamation, some forms of non-commercial fishing beyond sustenance fishing may be allowed in the MEA/Outer Sanctuary Zone.

NOAA is preparing a separate proposed rule for regulations governing fishing in the MEA under the authority of the MSA, and will invite the public to provide comments on the proposed non-commercial fishing regulations for the MEA. NOAA and the State encourage commenters to participate during that process.

35. D-8 Comment: Some commenters suggested that only subsistence fishing be allowed in the proposed sanctuary.

Response: In State of Hawai'i waters, extending three miles seaward of any coastline (excluding Midway Atoll), Native Hawaiian subsistence fishing, as defined by the State of Hawai'i, may be allowed. NOAA acknowledges that the Monument's managing agencies define sustenance and/or subsistence fishing in different ways. Regardless, in PMNM, all fish caught shall be consumed within the Monument. Within the sanctuary, sustenance fishing would continue to be allowed (outside of the special preservation areas) to provide sustenance in support of activities otherwise allowed under an established permit.

36. D-9 Comment: Commenters asked why regulations have not been issued for the MEA to manage non-commercial fishing.

Response: President Obama issued Presidential Proclamation 9478 on August 31, 2016, which established the MEA. On September 23, 2016, NOAA Fisheries requested that the Western Pacific Regional Fishery Management Council (WPRFMC) develop recommendations to establish fishing regulations under the MSA, including the prohibition on commercial fishing and the regulation of non-commercial fishing within the MEA. However, no further action was taken by the WPRFMC in response to Presidential Proclamation 9478 at that time. NOAA cannot speculate as to why WPRFMC decided not to take action at that time.

NOAA is preparing a separate proposed rule for regulations governing fishing in the MEA under the authority of the MSA to reflect the outcome of the WPRFMC recommendation and the NMSA Section 304(a)(5) process. Appendix C to the final EIS provides further details of this consultation process.

37. D-10 Comment: Commenters expressed concern regarding the exemption of non-commercial fishing in the MEA, and that the issuance of non-commercial fishing permits will open the door to other types of fishing in Papahānaumokuākea. Commenters also expressed concern that a sanctuary designation would remove existing protections that prohibit various forms of fishing. One commenter recommended removing the exemption of non-commercial fishing to allow for more dialogue with the Native Hawaiian community.

Response: See the responses to D.5 and F.4. Sanctuary designation does not remove any existing protections that prohibit fishing. For consistency with the presidential proclamations establishing the Monument and the regulations at 50 CFR part 404, the sanctuary regulations will authorize limited forms of fishing.

38. D-11 Comment: Commenters expressed support for allowing recreational fishing, to sustain the community and to allow for cultural and traditional practices. One commenter recommended that recreational fishing be monitored and regulated; that recreational fishers be required to attend courses to receive permits; and that NOAA and the State of Hawai'i update methods of data collection for recreational fishing. Another commenter suggested imposing fees for recreational fishing. Other commenters requested that NOAA implement measures to prevent recreational fishers from targeting “trophy” fish, and to limit fishing in general, to stem overfishing.

Response: For consistency with the proclamations, “non-commercial fishing” is prohibited in the Sanctuary unless conducted pursuant to a sanctuary permit or, as discussed below, through an exemption for non-commercial fishing authorized under the MSA in the Outer Sanctuary Zone. The final rule adopts the definition of “non-commercial fishing” from the regulations for fisheries in the Western Pacific, which is defined as “fishing that does not meet the definition of commercial fishing in the Magnuson-Stevens Fishery Conservation and Management Act, and includes, but is not limited to, sustenance, subsistence, traditional indigenous, and recreational fishing” (50 CFR 665.12). NOAA will periodically evaluate the effect of non-commercial fishing activities on sanctuary resources. Such evaluations would take into consideration the best scientific information available and evaluate whether additional actions are necessary for the proper care and management of sanctuary resources, including fishery resources, consistent with goals and objectives of the sanctuary.

Any requirements for non-commercial fishing permits authorized by NOAA Fisheries under the MSA are outside the scope of this action. NOAA is preparing a separate proposed rule for regulations governing fishing in the MEA under the authority of the MSA, and will invite the public to provide comments on the proposed non-commercial fishing regulations. NOAA and the State encourage commenters to provide input during the public review process for non-commercial fishing in the MEA.

39. D-12 Comment: A commenter expressed opposition to the issuance of permits for recreational fishing in the MEA.

Response: Please see the response to D.11. As required by Section 304(a)(5) of the NMSA, NOAA consulted with the WPRFMC to recommend any draft fishing regulations it deemed necessary to implement the sanctuary designation. The WPRFMC determined it was necessary to develop non-commercial fishing regulations, including for recreational fishing, for the area of the proposed sanctuary that overlaps with the MEA

40. D-13 Comment: Commenters expressed support for non-commercial fishing in the MEA proposed by WPRFMC, including allowing sale and/or cost recovery.

Response: In accordance with Section 304(a)(5) of the NMSA, NOAA provided the WPRFMC with the opportunity to recommend any draft fishing regulations it deemed necessary to implement the proposed sanctuary designation. NOAA accepted the majority of the WPRFMC's recommendation, including those parts that were found to fulfill the purposes and policies of the NMSA and the goals and objectives of the proposed sanctuary designation. However, the WPRFMC's recommendation providing Native Hawaiian subsistence practices fishing permit applicants the ability to request limited cost recovery by selling their catch failed to fulfill the purposes and policies of the NMSA and the goals and objectives of the proposed sanctuary designation (see NOAA Response Letter dated on May 31, 2023, in the final EIS Appendix C.1). NOAA is preparing a separate proposed rule under the MSA to reflect the outcome of the NMSA Section 304(a)(5) consultation process. Appendix C to the final EIS provides further details on this consultation process.

41. D-14 Comment: Commenters expressed opposition to the annual catch limits proposed by WPRFMC. Several comments expressed concern that it does not align with Native Hawaiian cultural or subsistence practices. One commenter suggested additional involvement from the Native Hawaiian community and the Office of Hawaiian Affairs (OHA) on this matter.

Response: Any requirements and conditions for non-commercial fishing permits authorized by the MSA are outside the scope of this action. NOAA is preparing a separate proposed rule for regulations governing fishing in the MEA under the authority of the MSA, and will invite the public to provide comments on the proposed non-commercial fishing regulations, including the catch limits. NOAA and the State encourage commenters to participate in the future public review process for non-commercial fishing in the MEA.

42. D-15 Comment: Commenters expressed opposition to any sale, barter, or trade and the cost recovery mechanism proposed by WPRFMC. Comments also expressed concern regarding WPRFMC's definition of “customary exchange” and that it does not align with Native Hawaiian cultural or subsistence practices.

Response: NOAA agrees with some aspects of this comment. See the response to D.13 for information on NOAA's consideration of the WPRFMC's recommended fishing regulations, and the response to D.5 for details of the exemption for non-commercial fishing. NOAA has narrowed this exemption, making it only applicable provided that the fish harvested, either in whole or in part, are neither intended to enter commerce nor enter commerce through sale, barter, or trade and that the resource is managed sustainably, consistent with Presidential Proclamation 9478. Moreover, for the exemption to apply, the fish harvested, either in whole or in part, are not intended to be sold and shall not be sold for any purposes, including, but not limited to, cost-recovery. See the final EIS, Section 3.3.1. The WPRFMC's final recommendation (April 23, 2023) did not include a definition of “customary exchange”, and NOAA ONMS has not included a definition of customary exchange in the sanctuary regulations.

43. D-16 Comment: Commenters requested that NOAA reject the proposed non-commercial fishing regulations by NOAA Fisheries and WPRFMC.

Response: NOAA accepted the majority of the WPRFMC's recommendation as it was found to fulfill the purposes and policies of the NMSA and the goals and objectives of the proposed sanctuary designation. However, NOAA did reject a portion of the WPRFMC's recommendation that would have allowed sale of catch under a Native Hawaiian subsistence fishing practices permit, as it was not found to fulfill the goals and objectives of the sanctuary designation. See the response to D.13, as well as Appendix C to the final EIS, for further details of this consultation process.

44. D-17 Comment: Commenters expressed concern for a portion of the WPRFMC's recommendation on “research fishing,” and definition that would include “research fishing” as a form of non-commercial fishing.

Response: NOAA is preparing a separate proposed rule for regulations governing fishing in the MEA under the authority of the MSA, based on the WPRFMC's recommendations. NOAA and the State encourage commenters to provide additional input, including on research fishing, to the future public review process for non-commercial fishing regulations in the MEA.

45. D-18 Comment: A commenter expressed concern that while resources in the Monument are a co-management trust responsibility, the proposed fishing regulations for the MEA have been developed without adequate inclusion of the perspectives of the Monument co-managers.

Response: NMSA Section 304(a)(5) required NOAA to consult with the WPRFMC to recommend any draft fishing regulations it deemed necessary to implement the sanctuary designation. The State of Hawai'i maintains voting seats, and the USFWS maintains non-voting seats on the WPRFMC. The WPRFMC determined it was necessary to develop non-commercial fishing regulations under the MSA, for the area of the proposed sanctuary that overlaps with the MEA. In accordance with the Section 304(a)(5) process, NOAA accepted those parts of the WPRFMC's recommendation that fulfilled the purposes and policies of the NMSA and the goals and objectives of the proposed sanctuary designation, and rejected those parts that did not. Under the MSA's rulemaking process, the WPRFMC will transmit its recommendation to NOAA Fisheries, who will then prepare a proposed rule for non-commercial fishing regulations in the MEA under the MSA.

46. D-19 Comment: Commenters expressed concern regarding the separation of the NOAA Fisheries fishing regulations from the sanctuary designation process, which lacks transparency and thorough analysis of potential impacts. Commenters also requested an additional EIS and a public review of the proposed fishing regulations for the MEA. Commenters expressed concern that the proposed fishing regulations were developed in an improper sequence and there was no timeline included. Commenters also stated that impacts of WPRFMC's proposed non-commercial fishing regulations should have been analyzed within the draft EIS.

Response: NOAA acknowledges the confusion regarding the timeline of proposed fishing regulations for the MEA. NOAA Fisheries is responsible for fisheries management under the MSA and is preparing a separate proposed rule for regulations governing fishing in the MEA under the authority of the MSA. NOAA Fisheries will analyze the environmental impacts of the non-commercial fishing regulations in the MEA under the authority of the MSA in a manner consistent with NEPA. NOAA has made revisions in sections 1.4 and 3.7.2 of the final EIS to clarify this. NOAA and the State encourage commenters to participate in the future public review process for non-commercial fishing regulations in the MEA under the authority of the MSA.

47. D-23 Comment: A commenter recommended that any activity relating to the extraction of fish be led by Native Hawaiians.

Response: The permitting system and regulations for the sanctuary is modeled after the existing Monument regulations and permitting system. The permitting system would not supplant the joint permitting system for the Monument, and was developed to ensure a continued joint permitting system administered by the MMB. While the presidential proclamations establishing the Monument broadly restrict the harvest of fishery resources, and identify certain types of non-commercial fishing that may be regulated (i.e., allowed pursuant to a permit or incidental to a permitted activity), there are no restrictions as to who may apply for a permit. Sanctuary designation will not change this.

48. D-24 Comment: Commenters expressed opposition to allowing any form of fishing in the proposed sanctuary. Some associated comments stated opposition to the removal of any wildlife from the proposed sanctuary.

Response: See the response to D.1. The presidential proclamations establishing the Monument broadly restrict the harvest of fishery resources and further specify prohibitions on commercial fishing and identify certain types of non-commercial fishing that may be regulated. In the sanctuary, regulations for fishing are consistent with the proclamations and existing management of the area.

49. D-25 Comment: A commenter requested that, in the event of a natural disaster occurring with severe impacts to the food supply of Hawai'i, the proposed sanctuary should allow for sustenance fishing and sharing of fish with community.

Response: NOAA cannot speculate about how the NMSA and other authorities may or may not be used in the future scenario described by the commenter. However, in the Outer Sanctuary Zone (MEA), the sanctuary regulations will not restrict the sharing of fish from non-commercial fishing activities authorized under the MSA.

50. D-26 Comment: A commenter emphasized that new sanctuary regulations should be limited to those relating to the seafloor and islands within the MEA, as the MSA already provides for the management of fisheries in all U.S. waters.

Response: NOAA may regulate fishing under the MSA and the NMSA. See also the response to D.9. While NOAA may regulate fishing under NMSA, and regulates fishing in the sanctuary consistent with the existing management of the area, per section 304(a)(5) of the NMSA, NOAA also provided the WPRFMC with the opportunity to recommend any draft fishing regulations it deemed necessary to implement the proposed sanctuary designation. NOAA is preparing a separate proposed rule for regulations governing fishing in the MEA under the authority of the MSA to reflect the outcome of the NMSA section 304(a)(5) process.

51. D-27 Comment: A commenter expressed opposition to any prohibitions that may affect existing community-based subsistence fishery areas, and requested that NOAA incorporate language that explicitly includes community- and cultural-based subsistence-based fishing practices as part of protected Native Hawaiian customs and practices.

Response: Community-based subsistence fishery areas are locally based, legally designated areas in the Main Hawaiian Islands where communities and the state government work together to protect and support traditional Hawaiian fishing practices. To date, there have been no community-based subsistence fishery areas established within Papahānaumokuākea. Since these areas are typically initiated at the local level by communities seeking enhanced protection of their nearshore resources, the future establishment of a community-based subsistence fishery area within Papahānaumokuākea is unlikely. As such, a discussion of such areas is beyond the scope of this action. For a description of how culturally-based subsistence fishing practices are addressed within the sanctuary, please see the response to D.8.

52. E-1 Comment: Commenters asked how a proposed sanctuary would modify the existing co-management structure for the Monument. Commenters requested articulation of roles of OHA, USFWS, and the State of Hawai'i, specifically who has jurisdiction in which areas, as well as requested that the EIS provide a detailed governance framework and a dispute resolution process for the proposed sanctuary. Commenters also stated that the draft EIS and/or draft sanctuary management plan did not clearly articulate how the sanctuary would function in coordination with the existing Monument, nor articulate how the Monument co-trustee's authorities could be used to supplement and complement NOAA authorities. One commenter suggested that NOAA provide a graphic depicting the relationship of the proposed sanctuary with existing Monument management. Finally, some commenters questioned if there are deficiencies in the existing Monument management framework, while one commenter stated that the proposed sanctuary rule has led to confusion over the legitimacy of the Monument co-management framework.

Response: The existing Monument is jointly administered by the four co-trustees (DOC, DOI, State of Hawai'i, and OHA) through the seven-member MMB. ONMS and NOAA Fisheries collaborate to fulfill DOC's co-trustee responsibilities under the Monument, and ONMS serves on the seven-member MMB. A graphic of the existing management structure is described in the final EIS Section 3.2. Sanctuary designation will not change the existing management structure, and ONMS' role within the management framework will remain, with the added authority provided by the NMSA. Additional information has been added to the sanctuary management plan in sections 1 (About This Document) and 2 (Cooperative and Coordinated Management) and Acknowledgements to clarify this. NOAA has also made revisions to the description of the No Action Alternative in Section 3.2 of the final EIS to better articulate the existing roles of each Monument co-trustee, including their jurisdiction and authorities that guide their role in managing the Monument. Existing authorities, including management authorities of all Monument co-trustees, will remain in effect under all action alternatives.

As a result of the existing Monument management framework, of which ONMS is a critical part, the final rule and sanctuary management plan have been specifically designed to be consistent with the current management framework, and to allow for seamless operations between the Monument and sanctuary. The sanctuary will supplement and complement existing management of the Monument, and not replace or diminish the existing management of the Monument. In accordance with the NMSA, in designating a sanctuary, NOAA determines if existing authorities should be supplemented to ensure coordinated and comprehensive conservation and management of the area.

NOAA has provided additional details clarifying consistency with the management framework in Section 3.3.1 of the final EIS. Specifically, NOAA will work in cooperation with the Monument co-trustees to update the existing MOA for the Monument with the State of Hawai'i, DOI/USFWS, and OHA to reflect the addition of the sanctuary. Further, the existing Monument MOA includes a provision that states that “in the event of the designation of the Monument or any portion of the Monument as a National Marine Sanctuary under the National Marine Sanctuaries Act, nothing herein shall be construed as automatically terminating or otherwise amending this Agreement.”

53. E-2 Comment: Commenters expressed concerns regarding the exclusion of some of the Monument co-trustee agencies from co-management of the sanctuary. Commenters requested that NOAA co-manage the sanctuary with all of the Monument co-trustees (DOI, OHA, and the State of Hawai'i), and that NOAA should receive approval from and/or collaborate with the other co-trustees regarding decision making for the sanctuary. Commenters also requested that a MOA be developed to articulate the governance framework for the sanctuary, and any co-management agreement.

Response: NOAA has clarified in the final rule and the final EIS (see final EIS Section 3.3.1, final rule Section IV.D, and sanctuary management plan Section 2) how the sanctuary will be managed in partnership with USFWS and OHA. In the proposed rule, NOAA proposed that the sanctuary would be co-managed with the State of Hawai`i. Recognition of the State of Hawai`i as a co-manager was not meant to exclude the other Monument co-trustees, USFWS and OHA. To the contrary, partnerships with other Federal and State agencies with overlapping jurisdiction are critical to the success of the National Marine Sanctuary System. In the proposed regulations, NOAA was trying to explain the role that states may have in co-managing a sanctuary under the NMSA if all or part of the proposed sanctuary is within the territorial limits of any state. In the final regulations and management plan, NOAA has added new text regarding how NOAA will manage the sanctuary in partnership with the other Monument co-trustees, DOI/USFWS and OHA, as the existing co-management structure of Papahānaumokuākea Marine National Monument is critical to the success of the sanctuary.

NOAA intends to, in cooperation with the Monument co-trustees, update the existing MOA for the Monument between the State of Hawai'i, DOI/USFWS, and OHA to reflect the addition of the sanctuary. NOAA is developing an MOU with the USFWS to provide details on using supplemental authority under the NMSA to protect resources where the sanctuary overlaps with national wildlife refuges. Finally, the sanctuary management plan was developed in consultation with the State, USFWS, and OHA to explicitly ensure concurrence of plans between the sanctuary and the Monument. Additional language has been added to the sanctuary management plan (Appendix A) to better reflect the goal of cooperative management with the Monument co-trustees.

54. E-3 Comment: Commenters requested that the final EIS should include a clear description of the permitting system for the proposed sanctuary and how it would relate to the existing Monument permitting system, including how sanctuary permits would be reviewed, approved, and conditioned. Commenters expressed that NOAA should not have sole authority over permitting for activities in the area of the sanctuary and Monument; that only one permitting system should apply to the area; that permits should be approved by all Monument co-trustees; and that the Monument permit process should be amended to include sanctuary permitting. One commenter expressed concern regarding the proposed special use permit, which allows for fee collection for permit processing. The commenter questioned how this would work alongside the Monument permit process, and asked if NOAA would keep fees internally, or divide fees received equitably amongst Monument co-managers.

Response: The Monument's joint permitting system has been in place and permits have been issued by the co-trustees since 2007. The unified Monument permitting process includes a unified Monument permit application, instructions, and template (see final EIS Section 3.2). All permitted activities in PMNM are authorized under the issuance of a single Monument permit signed by the USFWS, NOAA, and the State of Hawai'i, in cooperation with OHA. The sanctuary permitting system would complement the existing Monument permitting system, and was developed to allow for integration with the Monument permitting system, to ensure continued joint permitting administered by the MMB, which includes ONMS. The sanctuary permitting system would not supplant the joint permitting system for PMNM. The sanctuary permit categories were designed to provide the same management function and permittee interface as the current Monument permit categories. The sanctuary adopts the same permit criteria as currently required for Monument permits, including the additional criteria for Native Hawaiian practices and recreation permits. To provide more clarity, NOAA has updated its description of the sanctuary permitting process in the final EIS, Section 3.3.1.

Prior to sanctuary designation, regulations to issue permits in the MEA had not been established and activities in the MEA have been approved via a Letter of Authorization signed by USFWS. The co-trustees agreed to implement this USFWS process as an interim measure. Sanctuary designation provides the first set of implementing regulations consistent with directives in Presidential Proclamation 9478, including regulations for permitting, in addition to governing the sanctuary.

Regarding special use permits, NOAA intends for any issuance of special use permits to be done so in coordination with the existing permit process. NOAA points out that while the Monument is jointly administered, some areas are also guided by other specific authorities. For example, USFWS has the authority to charge fees for services including public visitation (50 CFR part 25 Subpart E) in areas of the Monument that also fall within a national wildlife refuge. NOAA's authority to collect fees for special use permits provides Monument managers with a larger area, beyond the national wildlife refuges, for which permit fees may be collected for specific activities. In accordance with the NMSA, NOAA may recover administrative costs for staff time to review and take action on the permit, and for a fair market value for use of the sanctuary. While this authority may be used, the collection of fees is not required. Further, NOAA is not proposing any new category of activity subject to a special use permit as part of this designation, and due to the existing regulations for the Monument and the sanctuary, the issuance of special use permits is expected to be limited.

55. E-4 Comment: Commenters expressed concern regarding the proposed process for permitting non-commercial fishing in the MEA. Commenters specifically stated that any fishing permits should also require a consistency review by the Monument co-managers. Some commenters suggested that non-commercial fishing in the MEA should be part of a single permitting process for the sanctuary and/or Monument, and not done through a separate process, noting that any permits that authorize resource extraction should be reviewed by the MMB.

Response: NOAA's ONMS will not issue non-commercial fishing permits as part of the sanctuary regulations, but will allow sustenance fishing as a term or condition of a permit, consistent with existing management of the Monument. In response to a recommendation for fishing regulations in the MEA by the WPRFMC, NOAA Fisheries is preparing a separate proposed rule for regulations governing fishing in the MEA under the authority of the MSA, will complete the environmental compliance requirements, and will accept public comment on the proposal. NOAA and the State of Hawai'i encourage the commenter to review and participate in the future public review process for the proposed rule and any associated NEPA and/or other environmental compliance documentation for non-commercial fishing regulations in the MEA.

56. E-5 Comment: Commenters expressed concern regarding potential conflicts between the proposed sanctuary permitting process and permitting authorized by the USFWS for the Midway Atoll and Hawaiian Islands National Wildlife Refuges. One commenter stated that the USFWS has an existing process to review and issue permits to regulate use of the national wildlife refuges for research, education, management, and recreation. A commenter suggested the development of a MOU among USFWS, NOAA, and the State of Hawai'i to clarify the permit process, which should include provisions for dispute resolution and for emergency situations when actions are necessary to protect human health and safety on Midway Atoll. Commenters also expressed concern regarding the permitting of activities in the MEA, including questioning why NOAA does not recognize DOI's authority to issue permits in the MEA, and requested that any new permitting in the MEA should be done following agreement with the MMB. Finally, one commenter questioned if the USFWS would need to acquire permits from NOAA for management activities in the national wildlife refuge waters.

Response: NOAA has added additional clarification in the final rule and the final EIS (see Section 3.3.1 and Section IV.D in the preamble of the final rule) regarding how the sanctuary will be managed in partnership with other agencies. In addition to co-management with the State, NOAA will manage the sanctuary in partnership with the USFWS and OHA consistent with the management of the Monument. NOAA will work in cooperation with Monument co-trustees to update the memorandum of agreement for the Monument with the State of Hawai`i, DOI/USFWS, and OHA that reflects the addition of the sanctuary, and specifically addresses how the addition of a sanctuary will supplement and complement, and not supplant, the existing Monument management framework. NOAA and USFWS are developing an agreement to provide details on the execution of sanctuary management where the national marine sanctuary overlaps with Midway Atoll National Wildlife Refuge and Hawaiian Islands National Wildlife Refuge, and will consider if provisions are needed for dispute resolution and for emergency situations when actions are necessary to protect human health and safety on Midway Atoll.

Management of the MEA is governed by Presidential Proclamation 9478. Prior to sanctuary designation, regulations to issue permits in the MEA had not yet been established and activities in the MEA have been approved via a Letter of Authorization signed by USFWS. The co-trustees agreed to implement this USFWS process as an interim measure. Sanctuary designation provides the first set of implementing regulations, including regulations for permitting, in the MEA.

57. E-6 Comment: Commenters requested that NOAA co-manage the sanctuary specifically with the USFWS, and/or that NOAA consult with USFWS for decision making and environmental analysis in the proposed sanctuary. Some commenters also requested that NOAA recognize the authority of the USFWS, that NOAA not supersede the authority of the USFWS, and that NOAA acknowledge that the USFWS has sole authority for certain decisions in the national wildlife refuges. Some commenters expressed concern that the proposed sanctuary would give NOAA and the State of Hawai'i precedence over USFWS management of refuge waters. One commenter recommended that a MOA be developed and signed by the Secretaries of Interior and Commerce, and that a 3rd party neutral facilitator be selected to oversee implementation of the MOA. The commenter specified that the MOA should be reviewed and updated, as needed, every five years.

Response: NOAA will manage the sanctuary in partnership with the USFWS. Nothing in the establishment of the national marine sanctuary will diminish USFWS's authority to administer Midway Atoll National Wildlife Refuge and Hawaiian Islands National Wildlife Refuge under the National Wildlife Refuge System Administration Act. Where Papahānaumokuākea National Marine Sanctuary overlays Midway Atoll National Wildlife Refuge and Hawaiian Islands National Wildlife Refuge, NOAA will implement the National Marine Sanctuaries Act to provide supplemental authority to protect resources.

In other sanctuary sites, when there is jurisdictional overlap between NOAA and USFWS, the agencies have worked to implement their respective authorities in a manner that complements, but does not diminish or interfere with, existing authorities and strengthens existing protections and management. NOAA and USFWS are developing an agreement to provide details on the execution of sanctuary management where the national marine sanctuary overlaps with Midway Atoll National Wildlife Refuge and Hawaiian Islands National Wildlife Refuge. Any agreement developed between NOAA and the USFWS will be updated as needed, as determined by the agencies.

58. E-7 Comment: Commenters requested that NOAA co-manage the sanctuary specifically with OHA. Commenters emphasized that excluding OHA would be akin to suppressing Native Hawaiian voices and/or usurping the sovereignty of OHA. Commenters requested that NOAA consider temporarily halting sanctuary designation until Federal law allows for explicit co-management structures that include native governing bodies as equal decision-makers, and requested that NOAA work with OHA and the Native Hawaiian community to achieve the ability for Indigenous governing bodies to be eligible to be named as co-managers for marine sanctuaries under the NMSA. One commenter also pointed out that for National Marine Sanctuary of American Samoa, the American Samoa Department of Commerce has been designated as a co-manager to assist NOAA with the administration of the sanctuary, and therefore, OHA should be able to serve as a co-manager of the proposed sanctuary.

Response: NOAA will manage the sanctuary in partnership with the OHA, consistent with the management of the Monument. The existing co-management structure of the Monument and cooperation with OHA is critical to the success of the sanctuary. NOAA will work in cooperation with Monument co-trustee to update the Memorandum of Agreement for Promoting Coordinated Management of Papahānaumokuākea Marine National Monument with the State of Hawai'i, DOI/USFWS, and OHA that reflects the addition of the sanctuary, and specifically addresses how the addition of a sanctuary will supplement and complement, and not supplant, the existing Monument management framework. Under Monument management, OHA has primary responsibility for representing the interests of the Kānaka 'Ōiwi community in the perpetuation of Hawaiian cultural resources and practices. Sanctuary designation will not change this, and NOAA intends to consult with OHA on all matters related to the perpetuation of Hawaiian cultural resources and practices.

Pursuant to the NMSA, a “state” as defined under the act, may have a role in co-managing a sanctuary if all or part of the proposed sanctuary is within the territorial limits of any state. For this reason, NOAA will co-manage the sanctuary with the State of Hawai'i. In addition, pursuant to the NMSA, the “state” means each of the several States, the District of Columbia, the Commonwealth of Puerto Rico, the Commonwealth of the Northern Mariana Islands, American Samoa, the Virgin Islands, Guam, and any other commonwealth, territory, or possession of the United States. As the NMSA also defines “state” to include American Samoa, they may be a co-manager of National Marine Sanctuary of American Samoa, and the American Samoa Department of Commerce acts as the lead territorial agency.

59. E-8 Comment: Commenters requested that NOAA co-manage the sanctuary with Native Hawaiians, noting that it is critical for Native Hawaiians to be present, participatory, and empowered in all decision-making aspects regarding Papahānaumokuākea. Commenters requested that Native Hawaiians should direct and oversee plans for the sanctuary, and that NOAA should defer to opinions of Native Hawaiian groups and agencies. Some commenters suggested that management with Native Hawaiians go beyond co-management with OHA.

Response: See the response to E.7, regarding how NOAA will manage the sanctuary in partnership with OHA, but NOAA also agrees that there are opportunities for co-stewardship with the Kānaka 'Ōiwi community beyond OHA. NOAA agrees that it is important to have Kānaka 'Ōiwi expertise in management, including in leadership roles and that growing long-lasting partnerships with existing Kānaka 'Ōiwi community partners is integral to management of the sanctuary (see the responses to C.2 and K.1).

NOAA has a responsibility to, and takes opportunities to work through equitable partnerships with all Indigenous Peoples. The Imila-alpa Commitments demonstrate ONMS' dedication to strengthening partnerships with Indigenous governments, organizations, and communities and ensuring that ONMS' intentions align with its actions. The commitments also state that ONMS will work to implement White House and NOAA guidance on integrating Indigenous knowledge into processes and approaches.

60. E-9 Comment: Commenters suggested or requested that the Native Hawaiian CWG be granted authority in reviewing and approving permits to access Papahānaumokuākea and/or be granted authority to vet the permit applications. Some commenters suggested that the Native Hawaiian Cultural Working Group should be included as a fifth co-trustee of the Monument.

Response: For more than 20 years, the CWG, which advises OHA as a co-trustee of the Monument, has provided guidance and an important Native Hawaiian perspective to inform Monument management. The CWG is a group of Kānaka 'Ōiwi kūpuna (elders), researchers, cultural practitioners, educators, and community members that have deep connections and historical ties to Papahānaumokuākea through a living pilina (relationship) bound by genealogy, cultural protocols, and values building contemporary multi-disciplinary research and practice. The CWG and many of its members have been involved since ONMS created the CWG following the establishment of the Northwest Hawaiian Islands Coral Reef Ecosystem Reserve in 2000. The CWG has a permit subcommittee that reviews Monument permits and provides input to OHA, a Monument co-trustee who also sits on the Monument permit working group. The sanctuary permitting system will complement the existing Monument permitting system, and was developed to allow for integration with the Monument permitting system, to ensure continued joint permitting administered by the MMB. Therefore, NOAA intends for the CWG to continue to provide advice and guidance on permitting for Papahānaumokuākea.

Consideration of the CWG as a co-trustee of the Monument is outside the scope of the action to designate a national marine sanctuary, because a sanctuary designation would not alter the underlying Monument management structure.

61. E-10 Comment: Commenters expressed concerns regarding NOAA being the primary manager of the proposed sanctuary, and questioned what role the State of Hawai'i had in developing the proposed sanctuary. One commenter requested that there be a checks and balance system with the State of Hawai'i and Native Hawaiian groups when reviewing the objectives, actions, regulations, exceptions, permits, and penalties.

Response: The NMSA provides authority for NOAA, among other things, to designate a sanctuary and promulgate regulations implementing the designation. Pursuant to the NMSA, states may choose to have a role in co-managing a sanctuary if all or part of the proposed sanctuary is within the territorial limits of any state. As the sanctuary includes state waters, NOAA will co-manage the sanctuary with the State of Hawai'i. NOAA establishes the framework for co-management in Section 922.242 of the final rule and may update existing agreements or develop additional agreements with the State of Hawai'i to clarify the terms of co-management. Any future proposed changes to sanctuary regulations or boundaries would be coordinated with the State and subject to public review as mandated by the NMSA and other Federal statutes.

The State of Hawai'i also supports the sanctuary proposal. While NOAA was the lead Federal agency in the preparation of the EIS, the State of Hawai'i served as a cooperating agency and co-developed the draft EIS and final EIS, which was also developed in accordance with the Hawai'i Environmental Policy Act (HEPA, Chapter 343 HRS, HAR Chapter 11-200.1). The State of Hawai'i also co-developed the sanctuary management plan.

62. F-1 Comment: Some commenters opposed the exemption for “scientific exploration or research activities by or for the Secretary of Commerce or the Secretary of the Interior when the activity occurs in the Outer Sanctuary Zone.” Commenters stated that the exemption may provide a loophole to permit large-scale take/extraction of resources. Commenters felt that the Department of Commerce and the Department of the Interior should still be required to obtain sanctuary permits.

Response: Presidential Proclamation 9478, which designated the MEA, specifically states that the prohibitions “shall not restrict scientific exploration or research activities by or for the Secretaries and nothing in this proclamation shall be construed to require a permit or other authorization from the other Secretary for their respective scientific activities.” Presidential Proclamation 9478 further highlights the significant scientific value of the MEA and underscores the opportunities for research and discovery to occur in that area, including understanding the impacts of climate change on deep-sea communities and identifying new species. NOAA is exempting scientific exploration or research activities from the sanctuary's prohibitions and permitting requirements for both the Department of Commerce and the Department of Interior within the Outer Sanctuary Zone, to be consistent with Presidential Proclamation 9478. However, such activities must still comply with other Federal environmental laws such as the NEPA, the Endangered Species Act, the NMSA section 304(d), and the Marine Mammal Protection Act

63. F-2 Comment: Commenters requested that Hawaiian-focused research conducted by Hawaiians be prioritized by providing an exemption for these activities.

Response: The sanctuary permitting system and the exemptions were modeled after the existing Monument permitting system. The sanctuary permitting system would not supplant the existing permitting system for the Monument and was developed to ensure a continued joint permitting system administered by the MMB. Therefore, rather than introducing a new exemption, NOAA and the State will work to prioritize Hawaiian-focused research through other practices, as described in the draft sanctuary management plan (final EIS Appendix A), including:

• supporting and facilitating Kānaka 'Ōiwi (Native Hawaiian) access and research (Strategy 2.6);

• weaving together multiple knowledge systems, values, practices, and methods, in science and research (Strategy 2.7); and

• supporting research initiatives that focus on next-generation capacity building for leadership succession of Kānaka 'Ōiwi (Native Hawaiian) and Pacific Islanders who are severely underrepresented in STEM and ocean sciences (Strategy 2.8).

64. F-3 Comment: Some commenters opposed the exemption for the activities and exercises of the U.S. Armed Forces, noting specific concern for military sonar activity.

Response: The sanctuary regulations and both Presidential Proclamations 8031 and 9478 include a broad exemption to allow activities and exercises of the U.S. Armed Forces, including those carried out by the U.S. Coast Guard. The sanctuary regulations specify that all activities and exercises of the Armed Forces shall be carried out in a manner that avoids, to the extent practicable and consistent with operational requirements, adverse impacts on sanctuary resources and qualities. For any Federal agency actions, including actions of the Armed Forces that are likely to destroy, cause the loss of, or injure sanctuary resources, the Armed Forces must comply with the consultation requirements outlined in Section 304(d) of the NMSA, regardless of whether those actions are exempted from the sanctuary's regulations.

65. F-4 Comment: Commenters expressed opposition to the exemption for non-commercial fishing activities authorized under the MSA. Commenters stated that non-commercial fishing permit holders should not have exemptions to conduct the otherwise prohibited and regulated activities of the sanctuary and that any non-commercial fishing activities should still require a separate sanctuary permit. One commenter stated that ONMS should promulgate regulations under the National Marine Sanctuaries Act as a backstop and not rely solely on the Magnuson-Stevens Fishery Conservation and Management Act application. Commenters stated that the exemption for non-commercial fishing is counter to Mai Ka Pō Mai. Commenters also requested that NOAA gather more input from the Native Hawaiian community, including the OHA and the Native Hawaiian Cultural Working Group on this topic.

Response: As required by Section 304(a)(5) of the NMSA, NOAA provided the WPRFMC with the opportunity to recommend any draft fishing regulations it deemed necessary to implement the proposed sanctuary designation. NOAA participated in six public meetings hosted by the WPRFMC on November 1st, 3rd, 4th, 5th, 8th, and 10th of 2022, which were focused on the development of fishing regulations for the area of the proposed sanctuary that overlaps with the MEA. In December 2022, the WPRFMC provided a recommendation for non-commercial fishing regulations for the area of the proposed sanctuary that overlaps with the MEA. NOAA accepted the majority of the WPRFMC's recommendations, as they were found to fulfill the purposes and policies of the NMSA and the goals and objectives of the proposed sanctuary designation. However, the WPRFMC's recommendation to provide Native Hawaiian subsistence practices fishing permit applicants the ability to request limited cost recovery by selling their catch in the permit application process through a statement of need for cost recovery along with expected costs, failed to fulfill the purposes and policies of the NMSA and the goals and objectives of the proposed sanctuary designation. Additionally, NOAA found that the allowance of “sale” under a Native Hawaiian subsistence practices fishing permit is inconsistent with the State's constitutional protection of Native Hawaiian traditional and customary rights.

Accordingly, the sanctuary regulations proposed that prohibitions in paragraphs (a)(7) through (14) in Section 922.244 would not apply to non-commercial fishing activities in the Outer Sanctuary Zone authorized under the MSA, provided that no sale of harvested fish occurs. In response to comments of concern for this exemption, NOAA has made changes to ensure that a non-commercial fishing permit authorized under the MSA is only exempt from a limited subset of prohibited or otherwise regulated activities that may only be conducted as incidental to and necessary to a lawful non-commercial fishing activity. NOAA has also clarified that this narrow exemption from the sanctuary's permitting requirements is only applicable provided that the fish harvested, either in whole or in part, are neither intended to enter commerce nor enter commerce through sale, barter, or trade and that the resource is managed sustainably, consistent with Presidential Proclamation 9478. Moreover, consistent with the outcome of the NMSA Section 304(a)(5) process, for the exemption to apply, the fish harvested, either in whole or in part, are not intended to be sold and shall not be sold for any purposes, including, but not limited to, cost-recovery. See the final EIS, Section 3.3.1.

NOAA is preparing a separate proposed rule for regulations governing fishing in the MEA under the authority of the MSA, and will accept public comment on the proposal. NOAA and the State of Hawai'i encourage the commenter to participate in the future public review process for the proposed rule and any associated NEPA and/or other environmental compliance documentation for non-commercial fishing regulations in the MEA. Until a public process is conducted, and a final rule is issued for fishing regulations under the authority of the MSA, non-commercial fishing permits will not be issued for the MEA/Outer Sanctuary Zone. Consistent with existing Monument management, the sanctuary may authorize sustenance fishing outside of any special preservation area as a term or condition of any sanctuary permit.

66. F-5 Comment: Commenters requested a prohibition on mining, and/or stating opposition to mining activities, or any exemption allowing them.

Response: Consistent with the presidential proclamations establishing the Monument, NOAA will prohibit exploring for, developing, or producing oil, gas, or minerals to protect sanctuary resources. NOAA will also prohibit “any energy development activities” to further the underlying intent of the prohibition on oil, gas, and mineral development by accounting for technological advances in other forms of energy development. Likewise, NOAA is not providing an exemption for mining activities.

67. F-6 Comment: A commenter stated that scientific or management activities undertaken by the USFWS within the Monument are not subject to any additional sanctuary requirements or authorization from NOAA.

Response: Nothing in the establishment of the national marine sanctuary will diminish USFWS's authority to administer Midway Atoll National Wildlife Refuge and Hawaiian Islands National Wildlife Refuge under the National Wildlife Refuge System Administration Act. Where Papahānaumokuākea National Marine Sanctuary overlays Midway Atoll National Wildlife Refuge and Hawaiian Islands National Wildlife Refuge, NOAA will implement the National Marine Sanctuaries Act to provide supplemental authority to protect resources. In other sanctuary sites when there is jurisdictional overlap between NOAA and USFWS, the agencies have worked to implement their respective authorities in a manner that complements, but does not diminish or interfere with, existing authorities and would strengthen existing protections and management. NOAA and USFWS are developing an agreement to provide details on the execution of sanctuary management where the national marine sanctuary overlaps with Midway Atoll National Wildlife Refuge and Hawaiian Islands National Wildlife Refuge.

The sanctuary permitting system was modeled after the existing Monument permitting system to ensure a single joint permitting system continues to be administered by the MMB. In addition, this final rule does not include authorization authority for the sanctuary. Consistent with Presidential Proclamation 9478, the sanctuary regulations exempt both the DOC/NOAA and the DOI/USFWS from the prohibitions, including the need to obtain a permit or authorization from the Secretary of Commerce in order to conduct scientific exploration or research activities in the MEA. NOAA has clarified the proposed framework for management and permitting in partnership with USFWS and the other Monument managers in the final EIS, Section 3.3.1.

68. G-1 Comment: Some commenters requested an extension of the public comment period and/or additional virtual public meetings. Some commenters expressed concern that there was not adequate public education, engagement, and notification for the public comment period and meetings; that the methods for comment were not accessible for all and/or not an adequate way to gauge support or opposition; and that all communities, specifically the fishing community, were not properly engaged in the comment period. One commenter expressed concern that the public meetings did not allow for agency responses or answers to oral testimony and requested that the NOAA website provide responses to frequently asked questions from the public meetings.

Response: NOAA followed the designation processes and procedures as required pursuant to the NMSA and NEPA, both of which require broad public participation, as well as the Administrative Procedure Act's notice requirements. The public comment period took place over the course of 68 days from March 1 to May 7, 2024. NOAA accepted public comments through the Federal eRulemaking Portal and by traditional mail. NOAA also encouraged public comments in both English and 'Ōlelo Hawai'i (Hawaiian language). NOAA and the State held 11 public comment meetings (nine in-person and two virtual). Additionally, prior to the public comment meetings, the State of Hawai'i Division of Aquatic Resources held a virtual public informational meeting to engage the public. NOAA and the State of Hawai'i provided question and answer sessions at the in-person public meetings, prior to and following the formal oral comment portion of the meeting.

NOAA also posted sanctuary designation process information and FAQs on the ONMS website in response to questions received during public meetings. NOAA believes that it has fairly engaged with and considered input from local communities, Kānaka 'Ōiwi, government, and other stakeholders through extensive consultations, meetings, and discussions about sanctuary designation, and that draft designation documents and process steps have complied with applicable laws and policies, including the NMSA, NEPA, Administrative Procedure Act, and Section 106 of the National Historic Preservation Act. For more details regarding the public engagement process, see the final EIS, sections 1.3.1 and 1.3.2.

NOAA also specifically engaged with the fishing community and consulted with the WPRFMC as required by Section 304(a)(5) of the NMSA. Through this consultation, NOAA provided the WPRFMC with the opportunity to recommend any draft fishing regulations it deemed necessary to implement the proposed sanctuary designation. NOAA and the State of Hawai'i also participated in six public meetings hosted by the WPRFMC on November 1st, 3rd, 4th, 5th, 8th, and 10th of 2022, which were focused on the development of fishing regulations for the area of the proposed sanctuary that overlaps with the MEA.

69. H-2 Comment: A commenter recommended that, in describing the purposes and policies of the NMSA, and specifically, 16 U.S.C 1431 (b)(4), NOAA should define “sustainable use” as “to provide enhanced protections for pristine marine waters,” and prohibit use of the waters or marine ecosystems.

Response: The NMSA authorizes the Secretary of Commerce to designate national marine sanctuaries that meet the purposes and policies of the NMSA, including 16 U.S.C. 1431(b)(4), which focuses, in part, on the sustainable use of the marine environment. The sanctuary regulations build upon the existing protections for the Northwestern Hawaiian Islands, which provide for both restricted access to the area and responsible use subject to strict permitting terms and conditions. Given this management model, NOAA does not see a need for the sanctuary regulations to define “sustainable use” at this time.

70. I-1 Comment: Some commenters recommended that NOAA select Alternative 3, a boundary which excludes the waters of Midway Atoll and Hawaiian Islands National Wildlife Refuges. Commenters provided several reasons for supporting Alternative 3, including that the USFWS should have sole jurisdiction to manage the national wildlife refuges; that a sanctuary that overlaps with the national wildlife refuges would be inconsistent with presidential proclamations that created the Monument; that a sanctuary that overlaps with the national wildlife refuges would not comply with the National Wildlife Refuge System Administration Act; and that a sanctuary that overlaps with the national wildlife refuges may negatively impact the USFWS management of the national wildlife refuges.

Response: NOAA identified Alternative 1 (which would include the waters of Midway Atoll and Hawaiian Islands National Wildlife Refuges in the proposed sanctuary) as the Agency-Preferred Alternative based on its comparative merits. Nothing in the establishment of the national marine sanctuary will diminish USFWS's authority to administer Midway Atoll National Wildlife Refuge and Hawaiian Islands National Wildlife Refuge under the National Wildlife Refuge System Administration Act. Where Papahānaumokuākea National Marine Sanctuary overlays Midway Atoll National Wildlife Refuge and Hawaiian Islands National Wildlife Refuge, NOAA will implement the NMSA to provide supplemental authority to protect resources. NOAA and USFWS are developing an agreement to provide details on the execution of sanctuary management where the national marine sanctuary overlaps with Midway Atoll National Wildlife Refuge and Hawaiian Islands National Wildlife Refuge.

In addition, the existing Monument is already jointly administered through a seven-member Monument Management Board, which includes NOAA's ONMS. ONMS and the USFWS have been cooperatively managing the area of the proposed sanctuary for nearly 20 years. As a result of the existing Monument management framework, of which ONMS is a critical part, this sanctuary rule has been specifically designed not to create any regulatory inconsistencies, and to ensure consistent management between the Monument, the national wildlife refuges, and the sanctuary.

Further, both NOAA and the State disagree that the designation is inconsistent with the directives that established the Northwestern Hawaiian Islands Coral Reef Ecosystem Reserve and the Monument. In part, the purpose of the designation is to specifically implement the provisions of Executive Order 13178, Presidential Proclamation 9478, and the Joint Explanatory Statement accompanying the Consolidated Appropriations Act, 2021, that directed NOAA to consider initiating the sanctuary designation process.

71. I-2 Comment: Commenters expressed opposition to any sanctuary that would include additional portions of Middle Bank, beyond the areas that are included in the Monument.

Response: NOAA considered designating a sanctuary that expanded beyond the southeastern portion of the Monument boundary to include Middle Bank. However, NOAA eliminated this alternative from detailed study, as described in the draft and final EIS, Section 3.7.

72. I-3 Comment: Commenters requested that NOAA consider including most or all of Middle Bank in the proposed sanctuary boundary, because of the scientific, ecological, and commercial benefits of the area. Commenters also requested that NOAA consider expanding the boundary to include more area.

Response: NOAA identified Alternative 1 (which is coextensive with marine portions of the Monument) as the Agency-Preferred Alternative based on its comparative merits, and therefore does not include all of Middle Bank or any additional areas that are not part of the Monument. This is consistent with the defined purpose and need and with the provisions of Executive Order 13178, Presidential Proclamation 8031, Presidential Proclamation 9478, and the Joint Explanatory Statement accompanying the Consolidated Appropriations Act, 2021.

Although NOAA considered sanctuary boundary alternatives that included Middle Bank, NOAA concluded that aligning the boundary of the sanctuary with that of the Monument best fulfills the purposes and policies of the NMSA. In addition, the NMSA directs NOAA that it may designate any discrete area of the marine environment as a national marine sanctuary and promulgate regulations implementing the designation if it is determined that the area is of a size and nature that will permit comprehensive and coordinated conservation and management. NOAA concluded that any boundary alternative that expands beyond the existing boundaries of PMNM and the MEA would not be practicable in light of the need for comprehensive and coordinated management in a manner which complements the existing Monument management framework. NOAA has added these clarifications to the draft and final EIS, Section 3.7.1.

73. I-4 Comment: Commenters recommended Alternative 2, a boundary which excludes the MEA, as the preferred alternative. Some commenters expressed support for this alternative, emphasizing that excluding the MEA may allow for more fishing, including commercial fishing, in that area.

Response: NOAA identified Alternative 1 as the Agency-Preferred Alternative, which includes the MEA, based on its comparative merits. This final rule implements and is consistent with directives in Presidential Proclamation 9478, which has the force of law. Presidential Proclamation 9478, which designated the MEA, prohibits commercial fishing and provides that non-commercial fishing may be a regulated activity (i.e., allowed only with a permit). Selection of Alternative 2 would not alter the directives provided in Presidential Proclamation 9478, including the prohibition on commercial fishing in the MEA.

74. I-5 Comment: A commenter requested the inclusion of a legal definition of shoreline delineation in relation to iron seawall ruins and rubble at Tern Island, and questioned if the seawall and debris would be included in the sanctuary boundary.

Response: The shoreline in the State of Hawai'i as defined by the Hawai'i Department of Land and Natural Resources is “the upper reaches of the wash of the waves, other than storm or seismic waves, at high tide during the season of the year in which the highest wash of the waves occur, usually evidenced by the edge of vegetation growth, or the upper limit of debris left by the wash of the waves” (HAR § 13-222). The Coastal Lands Program of the Hawai'i Department of Land and Natural Resources, Office of Conservation and Coastal Lands maintains the State of Hawaii Shoreline Certification Program (see Shoreline Certification Rules in HAR § 13-222). It is this program that would determine where the shoreline is delineated in the location of the iron seawall on Tern Island when necessary. Therefore, under the current definitions, any debris or rubble or portion of the Tern Island iron seawall that occurs seaward of this shoreline as defined by the State of Hawai'i will be within the sanctuary, and that which occurs upland of the shoreline will be outside the sanctuary.

75. I-6 Comment: A commenter requested that the shoreward boundary be extended to the mean high tide.

Response: NOAA considered an alternative that designated the mean high tide line as the shoreward boundary, but eliminated this alternative from detailed study (see Section 3.7.1 of the EIS). NOAA typically uses the shoreline as legally defined by the State within which the national marine sanctuary occurs, because the shoreline delineates the boundary between public and private land. The shoreline in the State of Hawai'i as defined by the Hawai'i Department of Land and Natural Resources is “the upper reaches of the wash of the waves, other than storm or seismic waves, at high tide during the season of the year in which the highest wash of the waves occur, usually evidenced by the edge of vegetation growth, or the upper limit of debris left by the wash of the waves” (HAR § 13-222). NOAA strives to designate a sanctuary which supplements and complements existing authorities, and this designation adheres to both the State's definition as well as the current landward boundary designation of the Monument.

76. J-12 Comment: Commenters expressed concerns regarding the lack of analysis and description on NOAA's ability to issue “emergency regulations” to prevent or minimize the loss or injury to a sanctuary resource. The commenter stated that the regulations issued jointly by NOAA and USFWS in 2006 for the original Monument contain an exemption from prohibitions for emergency actions, and that Presidential Proclamation 9478 specifically exempts from prohibitions activities “necessary to respond to emergencies threatening life, property, or the environment, or to activities necessary for law enforcement purposes.” The commenters questioned why sanctuary authority to issue sanctuary regulations is necessary given existing provisions and regulations for the Monument.

Response: NOAA acknowledges that the existing management of the area includes exemptions for any activity necessary to respond to emergencies that threaten life, property, or the environment, or to activities necessary for law enforcement purposes. These exemptions are also included in the sanctuary regulations. However, NOAA's references to “emergency regulations” throughout the EIS are not referring to this exemption, but to NOAA's authority pursuant to 15 CFR 922.7, which states that “where necessary to prevent or minimize the destruction of, loss of, or injury to a Sanctuary resource or quality, or minimize the imminent risk of such destruction, loss, or injury, any and all such activities are subject to immediate temporary regulation, including prohibition.” This authority may be useful in implementing immediate temporary regulations to protect resources following incidents of resource damages, such as vessel groundings or disease. NOAA has added information regarding emergency regulations in the final rule, Section IV.O.

77. K-6 Comment: Commenters suggested that scientific research should not be conducted in a way that would harm resources. Commenters also expressed concerns about the use of remotely operated vehicles (ROVs) and other scientific instruments on the seafloor.

Response: The sanctuary includes a permitting system modeled after the existing Monument permitting system, such that there are sufficient safeguards in place that apply to the permit review process for all activities, including for scientific research and ROVs. The sanctuary has adopted the same permit criteria as currently required for Monument permits, including that the proposed activity will be conducted in a manner compatible with resource protection. In addition, conditions can be placed on the permit specific to the activity being permitted and permit applications would be reviewed with respect to all other pertinent regulations and statutes, including NEPA, 42 U.S.C. 4321 et seq., and any required consultations, permits, or authorizations.

78. K-8 Comment: A commenter suggested that NOAA leave Battle of Midway vessels and aircraft undisturbed to be respectful of the war and preserve the materials for future archaeological purposes.

Response: NOAA's management principles emphasize an in-situ management approach for the long-term protection of site information and integrity, as well as other preservation methods and activities outlined in the ONMS policy guidance document Monitoring and Management of Tangible Maritime Heritage Resources. The Sunken Military Craft Act of 2004 preserves and protects all sunken military craft that are owned by the U.S. government, as well as foreign sunken military craft that lie within U.S. waters, from unauthorized disturbances.

79. K-10: Commenters expressed concerns regarding the impacts of sonar activity and underwater detonations to marine mammals, fish, sea turtles, and sea invertebrates. Commenters specifically expressed concern with impacts from sonar activity and testing by the military. One commenter recommended mid-frequency active sonar as an alternative technology.

Response: Consistent with the presidential proclamations establishing the Monument, NOAA will prohibit “using or attempting to use poisons, electrical charges, or explosives in the collection or harvest of a sanctuary resource.” NOAA will also prohibit, unless conducted pursuant to a permit “removing, moving, taking, harvesting, possessing, injuring, disturbing, or damaging; or attempting to remove, move, take, harvest, possess, injure, disturb, or damage any living or nonliving sanctuary resource.” The use of sonar by U.S. Armed Forces is a lawful Armed Forces activity and the use has been analyzed by the U.S Navy within prior environmental planning documents (HSTT, 2018) and is subject to other applicable laws, permits, and authorizations, including the MMPA.

NOAA provides a broad exemption to allow activities and exercises of the U.S. Armed Forces, including those carried out by the U.S. Coast Guard, to be consistent with existing management of this area, as provided for the Monument by Presidential Proclamations 8031 and 9478. However, all activities and exercises of the Armed Forces shall be carried out in a manner that avoids, to the extent practicable and consistent with operational requirements, adverse impacts on sanctuary resources and qualities. See also the F.3 response.

80. K-11 Comment: A commenter recommended protections for koholā (humpback whale) that are similar to the protections included in Hawaiian Islands Humpback Whale National Marine Sanctuary, including vessel rules, restrictions on sonar, and maintaining a minimum distance away from koholā.

Response: NOAA will prohibit several activities in the sanctuary that are responsive to this comment, consistent with the presidential proclamations establishing the Monument. The prohibitions most relevant for the protection of humpback whales include prohibitions on “removing, moving, taking, harvesting, possessing, injuring, disturbing, or damaging; or attempting to remove, move, take, harvest, possess, injure, disturb, or damage any living or nonliving sanctuary resource” and “attracting any living sanctuary resource.” The use of sonar by the U.S. Armed Forces is a lawful activity of the Armed Forces, but is subject to other applicable laws, permits, and authorizations, including the MMPA.

81. K-12 Comment: A commenter requested that the Outer Sanctuary Zone be named “pu'uhonua,” which means a place of safety and refuge. Another commenter asked if there would be a process for naming this area of the sanctuary.

Response: NOAA will give further consideration to this and would like to ensure an inclusive process that allows for additional input and discussion from all stakeholders and Monument co-trustees regarding a name for the Outer Sanctuary Zone. The proposed name and the process of naming this Outer Sanctuary Zone will be discussed within the Papahānaumokuākea Native Hawaiian CWG, facilitated by OHA.

82. L-5 Comment: A commenter requested that the rule language be revised to allow for an ongoing process for updating the sanctuary regulations. Specifically, the commenter suggested replacing the words “as may be necessary,” in the Terms of Designation, Activities Subject to Regulation section, with “on an ongoing basis.”

Response: The terms of designation, as defined under section 304(a)(4) of the NMSA, may be modified only by the same procedures by which the original designation is made, including public hearings, consultations with interested Federal, Tribal, State, regional, and local authorities and agencies, review by the appropriate Congressional committees, and approval by the Secretary of Commerce, or his or her designee. Any future proposed changes to sanctuary regulations or boundaries would be subject to public review as mandated by the NMSA and other Federal statutes.

83. L-6 Comment: A commenter provided questions and suggestions regarding perceived data anomalies in the boundary description, including:

• “The proposed SMA and SPA boundaries do not coincide with the boundaries as described in Presidential Proclamation 8031 nor do they coincide with the proclamation's SMA and certain SPA boundaries as charted on ENCs that are larger scale than Band 2 (General Navigational Purpose). It appears that the coordinates of the proposed boundaries may have been derived from the SMA and SPA boundaries of the national monument as depicted on the Band 2 ENCs.

• Appendix A to Subpart W, Points 610-662—Papahānaumokuākea National Marine Sanctuary Boundary: Points 610 through 662 form the easternmost extent of the proposed sanctuary boundary. However, these points are coincident with a portion of the Inner Reporting Area Boundary Around Nihoa ATBA. Should Points 610 through 662 be coincident with the Reporting Area Outer Boundary instead of the Inner Reporting Area Boundary?

• Pages 15302-15303, Appendix D to Subpart W—Unnamed, unnumbered table: ONMS did not designate a table number and name for the first set of coordinates that encompasses Kure Atoll.

• Pages 15306-15307, Appendix E to Subpart W, Table 1—Ship Reporting Area (Reporting Area Outer Boundary): According to FR page 15278, Column 1: “NOAA proposes to establish this reporting area, which would be defined as “the area of the proposed sanctuary that extends outward ten nautical miles from the PSSA [Particularly Sensitive Sea Area] boundary, as designated by the IMO. . .” The coordinates for the Reporting Area Outer Boundary of Appendix E/Table 1 do not completely coincide with a 10-NM buffer (geodesic) from the PSSA boundary per the International Maritime Organization (IMO). I recommend a re-evaluation of the boundary points for the Reporting Area Outer Boundary.”

Response: The boundary discrepancies in the special management area and special preservation areas have been corrected and the updated coordinate tables, appended to this final rule, will correspond to the coordinates as described in Presidential Proclamation 8031.

Regarding the outer boundary of the Reporting Area, NOAA will define the Reporting Area as was defined by IMO Resolution MSC.171(57) and the subsequent amendment IMO Resolution MSC.279(85) adopted in December 2008. This boundary has been corrected and is now described citing the geographic coordinates of the outer boundary of the “CORALSHIPREP” reporting area of IMO Resolution MSC.279(85).

Regarding the missing designation of a table number and name for the first set of coordinates that encompass the Kure Atoll Special Preservation Area, after investigating the issue, NOAA determined that the table did in fact have a name and number as referenced at the web address and therefore no corrective action was necessary.

Regarding the portion of the proposed sanctuary boundary identified as being coincident with the Inner Ship Reporting Area Boundary around the Nihoa Area to be Avoided, NOAA determined that this portion of the boundary was the same as that used for both the original and expanded marine national monument, and intends that it will also be used for this portion of the national marine sanctuary boundary. Therefore, no edits were necessary.

VI. Classification

A. National Marine Sanctuaries Act

NOAA consulted with the WPRFMC as required by section 304(a)(5) of the NMSA. Through this consultation, NOAA provided the WPRFMC with the opportunity to recommend any draft fishing regulations it deemed necessary to implement the proposed sanctuary designation. NOAA initiated the consultation on November 19, 2021. On March 22, 2022, the WPRFMC agreed to develop draft fishing regulations for the proposed sanctuary. NOAA participated in six public meetings hosted by the WPRFMC on November 1st, 3rd, 4th, 5th, 8th, and 10th of 2022, which were focused on the development of fishing regulations for the area of the proposed sanctuary that overlaps with the MEA. At its 193rd meeting in December of 2022, the WPRFMC provided a final recommendation. NOAA found that the final recommendation, in part, did not fulfill the purposes and policies of the NMSA and the goals and objectives of the proposed designation. The WPRFMC amended their recommendation during their 194th meeting in March of 2023, and submitted a revised final recommendation to NOAA on April 14, 2023.

In May of 2023, NOAA accepted the majority of the WPRFMC's recommendation as it fulfilled the purposes and policies of the NMSA and the goals and objectives of the proposed sanctuary designation. However, the WPRFMC's recommendation for the disposition of Native Hawaiian Subsistence Practices Fishing catch, which would provide permit applicants the ability to request limited cost-recovery by selling their catch, was rejected by NOAA in a decision letter dated May 31, 2023. As NOAA explained in the letter, any recommendation for the allowance of “sale” is inconsistent with the goals and objectives of the proposed sanctuary designation. To reflect the outcome of the NMSA 304(a)(5) process, NOAA has prepared this final rule under the NMSA, and is preparing a separate proposed rule for regulations governing fishing in the MEA under the authority of the MSA.

Pursuant to section 304(a)(1)(C) of the NMSA, the Committee on Natural Resources of the House of Representatives, the Committee on Commerce, Science, and Transportation of the Senate, and the Governor of Hawai'i will have the opportunity to review this final action.

B. National Environmental Policy Act

As described in Section I above, NOAA and the State of Hawai'i prepared a final EIS to evaluate the impacts of designating a national marine sanctuary, which considered four alternatives for the designation of a national marine sanctuary in marine portions of the Monument. Copies of the final EIS, final management plan, and Record of Decision are available at the website listed in the ADDRESSES section of this final rule.

C. Executive Orders 12866: Regulatory Impact, 13563 Improving Regulation and Regulatory Review, and 14094: Modernizing Regulatory Review

The Office of Management and Budget (OMB) has determined this final rule to be significant under Executive Order 12866, “Regulatory Planning and Review,” 58 FR 190 (Oct 4, 1993), as supplemented by Executive Order 14094, “Modernizing Regulatory Review,” 88 FR 21879 (April 6, 2023). NOAA prepared an analysis of the potential costs and benefits associated with this action, which is available at https://sanctuaries.noaa.gov/papahanaumokuakea/.

The final rule is largely consistent with the existing management framework for the Monument. Because the site-specific regulations finalized under the NMSA have been crafted to ensure consistency with Presidential Proclamations 8031, 8112, and 9478, the overall management framework for the area will largely remain unchanged. The designation would clarify aspects of existing Monument management and add to that management framework in ways that would have a limited effect on the public given that access to and activity within the Monument is already highly regulated and requires a permit in most instances. In most cases, permit applicants would be subject to substantially similar findings criteria and permitting requirements as currently required within the Monument. Further, the area of the sanctuary is extremely remote, nearly 300 miles at its closest point from the main Hawaiian Islands, and very few entities operate there. Limited activities are expected to continue. Therefore, the quantifiable benefits and costs associated with the site-specific regulations are limited. The primary benefits of sanctuary designation are provided by the supplemental authorities provided through the NMSA and National Marine Sanctuary Program regulations.

D. Executive Order 13132: Federalism Assessment

NOAA has concluded that this regulatory action does not have federalism implications sufficient to warrant preparation of a federalism assessment under Executive Order 13132 because NOAA supplements and complements State and local laws under the NMSA rather than supersedes or conflicts with them. This final rule will not have substantial direct effects on State or local governments. NOAA has coordinated closely with State partners throughout the development of this final rule and, where applicable and practicable, the final rule aligns with existing State regulations. In addition, the State of Hawai'i served as a cooperating agency and co-developed the draft EIS and final EIS, which was also developed in accordance with the Hawai'i Environmental Policy Act (HEPA, Chapter 343 HRS, HAR Chapter 11-200.1). The State of Hawai'i also co-developed the sanctuary management plan. NOAA has aimed for consistent regulations throughout sanctuary waters including those within State and Federal jurisdiction.

E. Regulatory Flexibility Act

The Regulatory Flexibility Act (RFA; 5 U.S.C. 601 et seq.) requires Federal agencies to prepare an analysis of a rule's impact on small entities whenever the agency is required to publish a rulemaking, unless the agency certifies, pursuant to 5 U.S.C. 605, that the action will not have significant economic impact on a substantial number of small entities. The RFA requires agencies to consider, but not necessarily minimize, the effects of rules on small entities. The goal of the RFA is to inform the agency and public of expected economic effects of the rule and to ensure the agency considers alternatives that minimize the expected economic effects on small entities while meeting applicable goals and objectives. Pursuant to section 605(b) of the RFA, the Chief Counsel for Regulation of the Department of Commerce certified to the Chief Counsel for Advocacy of the Small Business Administration that the proposed rule would not have a significant economic impact on a substantial number of small entities. The purpose, context, and statutory basis for this action is described above and not repeated here. The rationale for that certification was set forth in the preamble of the proposed rule (89 FR 15272, March 1, 2024), and NOAA's analysis stands.

This final rule is not expected to place a substantial number of small entities at a significant competitive disadvantage to large entities, and would not significantly reduce profits for a substantial number of small entities operating in the area of the sanctuary, as the overall management framework for the area will largely remain unchanged. The final rule would be largely consistent with the existing management framework for the Monument, which was established by Presidential Proclamation 8031 and 8112 (PMNM, 0-50 nm), and by Presidential Proclamation 9478 (MEA, 50-200 nm). The existing management framework established by these Presidential Proclamations has the force of law, and includes a permitting system, under which all entities are subject to the same reporting requirements. Further, very few entities operate in the area of the sanctuary, as the area of the sanctuary is extremely remote, nearly 300 miles at its closest point from the main Hawaiian Islands. The number of permits issued for the Monument annually ranged from 9 to 21 between 2018 and 2022.

Through this final rule, permit applicants, including applicants for activities in the area of the sanctuary that overlaps with the MEA, would be subject to substantially similar findings criteria and permitting requirements as currently required for PMNM. Based on the NOAA Monument manager's site knowledge and experience, the final rule is not expected to result in an increase in the number of permit requests, as the majority of users operate in the area of the sanctuary that overlaps with PMNM, and do not solely operate in the area of the sanctuary that overlaps with the MEA. Therefore, these additional permitting requirements will not significantly reduce profits for a substantial number of small entities because most entities are already subject to such requirements.

NOAA does not charge a fee for review and issuance of general permits, and there are minimal, indirect costs associated with the time for an individual to complete a permit application and respond to any follow-up questions from NOAA. While NOAA may assess fees for the conduct of any activity authorized under a special use permit, fees are not required and decisions are made on a case-by-case basis. No unique professional skills are necessary to meet these reporting requirements.

Although NOAA has made minor technical changes and clarifications to the regulations from the proposed rule to the final rule, none of the changes alter the initial determination that this rule will not have a significant impact on a substantial number of small entities. NOAA also did not receive any comments relevant to the analysis or conclusions of this determination. Therefore, the determination that this rule will not have a significant economic impact on a substantial number of small entities remains unchanged. As a result, a final regulatory flexibility analysis was not required and none was prepared.

F. Paperwork Reduction Act

Notwithstanding any other provisions of the law, no person is required to respond to, nor shall any person be subject to a penalty for failure to comply with a collection of information subject to the requirements of the Paperwork Reduction Act (PRA), 44 U.S.C. 3501 et seq., unless that collection of information displays a currently valid OMB control number. NOAA plans to use an existing collection, Papahânaumokuâkea Marine National Monument Permit Applications and Reports for Permits, currently approved under OMB Control Number 0648-0548 in association with this final rule. This information collection is currently used to determine whether to approve or deny a permit application for the Papahānaumokuākea Marine National Monument. Information collected includes such items as the professional qualifications and financial ability of the applicant (as related to the requested activity); the duration of the activity and its effects; the appropriateness of the methods and procedures proposed by the applicant for the conduct of the activity; and the extent to which the conduct of the activity may diminish or enhance the qualities for which the Monument was designated. Some of the information collected may also be used to inform management actions or decision making after a final decision has been made. Additional information regarding this collection of information—including all background materials—can be found at https://www.reginfo.gov/public/do/PRAMain by using the search function to enter either the title of the collection or the OMB Control Number.

NOAA believes designating a national marine sanctuary in the marine portions of the Monument will not result in a significant change to the burden, reporting, recordkeeping, and other compliance requirements as discussed in the preamble of the rule. To the extent compliance with this final rule would impose a burden on persons, including small businesses, NOAA believes this burden will be minimal. NOAA did not receive any comments in response to this determination at the proposed rule stage. Following sanctuary designation, NOAA may elect to re-visit the current collection to determine if additional changes are needed. Should NOAA, in consultation with the Department of Interior, the State of Hawaii, and the Office of Hawaiian Affairs, believe additional changes are needed to better facilitate implementation of sanctuary permitting and reporting, NOAA will publish a 60 day notice announcing potential revisions for public comment before submitting materials to OMB.

G. National Historic Preservation Act

Section 106 of the National Historic Preservation Act (NHPA, 54 U.S.C. 306108) requires Federal agencies to take into account the effects of their undertakings on historic properties and afford the Advisory Council on Historic Preservation (ACHP) the opportunity to comment with regard to the undertaking. “Historic property” means any prehistoric or historic district, site, building, structure, or object included in or eligible for inclusion in the National Register of Historic Places maintained by the Secretary of the Interior. This term includes artifacts, records, and material remains that are related to and located within such properties, including properties of traditional religious and cultural importance to an Indigenous nation or Tribe or Native Hawaiian organization (see 36 CFR 800.16(l)).

The regulations implementing section 106 of the NHPA (36 CFR part 800) establish a process requiring Federal agencies to: (1) determine whether the undertaking is a type of activity that could affect historic properties; (2) identify historic properties in the area of potential effects; (3) assess potential adverse effects; and (4) resolve adverse effects. The regulations require that Federal agencies consult with States, Tribes, and other interested parties when making their effect determinations.

NOAA has determined that the designation of a national marine sanctuary and related rulemaking for sanctuary-specific regulations meet the definition of an undertaking as defined at § 800.16(y). In fulfilling its responsibilities under section 106 of the NHPA, NOAA initiated consultation with the Hawai'i State Historic Preservation Division through the Hawai'i Cultural Resource Information System on November 21, 2021. NOAA also invited the Advisory Council on Historic Preservation (ACHP) to participate on November 21, 2021. NOAA further initiated an effort to identify consulting parties to participate in the Section 106 process through distribution of over 500 letters to individuals, organizations, and families. This included outreach to families with lineal and cultural connections to Papahānaumokuākea, cultural practitioners, Native Hawaiian Organizations, the fishing community (including subsistence, recreational, and commercial fishers), maritime heritage organizations, government agencies, and others. These letters solicited input regarding the identification of, and potential effects on, historic properties from the proposed sanctuary designation for the purpose of obtaining input for the Section 106 review and to additionally determine their interest in participating as a consulting party. Through this process NOAA identified 31 consulting parties.

NOAA subsequently hosted ten Section 106 consultation meetings with the consulting parties. Through these consultation meetings, NOAA further sought to invite consulting party and public input regarding the identification of, and potential effects on, historic properties from the proposed sanctuary designation. Subsequently, pursuant to 36 CFR 800.4(d)(1) NOAA issued a Finding of No Historic Properties Affected for this undertaking (see final EIS Appendix C). The consulting parties have been notified of the finding and the finding was provided to the Hawai'i State Historic Preservation Division for concurrence.

As the draft EIS was a joint Federal-State action, the State also prepared a Cultural Impact Assessment and Legal Analysis pursuant to the Hawai'i Environmental Policy Act, Hawai'i Revised Statutes (HRS) section 343, the corresponding Hawai'i Administrative Rules (HAR) section 11-200.1, and the Environmental Council's 1997 Guidelines for Assessing Cultural Impacts. Pursuant to HRS § 6E-8 and HAR § 13-275-3, the Hawai'i Department of Land and Natural Resources (DLNR) submitted a written request to the State Historic Preservation Division (SHPD) for an agency determination letter. On June 7, 2024, SHPD concurred with DLNR's determination of no historic properties affected. The concurrence letter from the State Historic Preservation Division is available at https://sanctuaries.noaa.gov/papahanaumokuakea/.

H. Sunken Military Craft Act

The Sunken Military Craft Act of 2004 (SMCA; Pub. L. 108-375, Title XIV, sections 1401 to 1408; 10 U.S.C. 113 note) preserves and protects from unauthorized disturbance all sunken military craft that are owned by the United States government, as well as foreign sunken military craft that lie within United States waters, as defined in the SMCA. Thousands of U.S. sunken military craft lie in waters around the world, many accessible to looters, treasure hunters, and others who may cause damage to them. These craft, and their associated contents, represent a collection of non-renewable and significant historical resources that often serve as war graves, carry unexploded ordnance, and contain oil and other hazardous materials. By protecting sunken military craft, the SMCA helps reduce the potential for irreversible harm to these nationally important historical and cultural resources.

Sunken military craft are administered by the respective Secretary concerned pursuant to the SMCA. The Secretary concerned is solely responsible for authorizing disturbance of sunken military craft under the SMCA, specifically for archaeological, historical, or educational purposes, and will consult with NOAA when considering permitting such activities. The Secretary concerned is also responsible for determinations of sunken military craft status and ownership, publicly disclosing the location of sunken military craft, and for determining eligibility and nominating sunken military craft as historic properties to the National Register of Historic Places. Any agreements with foreign sovereigns regarding sunken military craft in U.S. waters are negotiated by the Secretary of Defense, the Secretary of State, and the Secretary of the Navy, according to authorities vested in each by the SMCA. The Secretary concerned, or his or her designee, and NOAA will ensure coordination and foster collaboration on any research, monitoring, and educational activities pertaining to sunken military craft located within the sanctuary system.

The 1942 Battle of Midway occurred both at Midway Atoll as well as some 100-150 nautical miles north of the atoll in the northwestern portion of Papahānaumokuākea. Aircraft carriers from the historic conflict have been located in the deep ocean, and multiple aircraft and sunken military vessels have been surveyed within the Midway Atoll Special Management Area. Hundreds of aircraft and several other aircraft carriers and destroyers from the battle remain to be discovered in Papahānaumokuākea.

K. Coastal Zone Management Act (CZMA)

Section 307 of the Coastal Zone Management Act (CZMA; 16 U.S.C. 1456) requires Federal agencies to consult with a State's coastal program on potential Federal agency activities that affect any land or water use or natural resource of the coastal zone. Because the sanctuary lies partially within State waters, NOAA submitted its Federal consistency determination to the Hawai'i Coastal Zone Management Program of the Office of Planning and Sustainable Development. NOAA's analysis found the proposed action would be undertaken in a manner consistent to the maximum extent practicable with the enforceable policies of the Hawai'i Coastal Zone Management Program. NOAA's Federal consistency determination, and the State of Hawai`i May 17, 2024 concurrence letter, are included in the final EIS Appendix C1.

L. Executive Order 12898 and 14096: Environmental Justice

Executive Order 12898 and Executive Order 14096 direct Federal agencies to identify and address disproportionately high and adverse effects of their actions on human health and the environment of communities with environmental justice concerns. Additionally, Federal agencies are directed to better protect overburdened communities from pollution and environmental harms; strengthen engagement with communities and mobilize Federal agencies to confront existing and legacy barriers and injustices; promote the latest science, data, and research, including on cumulative impacts; increase accountability and transparency in Federal environmental justice policy; and honor and build on the foundation of ongoing environmental justice work. The designation of national marine sanctuaries by NOAA helps to ensure the enhancement of environmental quality for all populations in the United States. The sanctuary designation would not result in disproportionate negative impacts on any communities with environmental justice concerns. In addition, many of the potential impacts from designating the sanctuary would result in long-term or permanent beneficial impacts by protecting resources, which may have a positive impact on communities by providing employment and educational opportunities, and potentially result in improved ecosystem services.

List of Subjects in 15 CFR Part 922

Administrative practice and procedure; Coastal zone; Cultural resources; Environmental; Protection; Fishing; Historic preservation; Marine protected areas; Marine resources; Natural resources; National marine sanctuaries; Penalties; Recreation and recreation areas; Reporting and recordkeeping requirements; Shipwrecks; Wildlife.

Nicole R. LeBoeuf,
Assistant Administrator for Ocean Services and Coastal Zone Management, National Ocean Service, National Oceanic and Atmospheric Administration.

For the reasons set forth above, NOAA amends part 922, title 15 of the Code of Federal Regulations as follows:

PART 922—NATIONAL MARINE SANCTUARY PROGRAM REGULATIONS

1. The authority citation for part 922 continues to read as follows:

Authority: 16 U.S.C. 1431 et seq.

2. Amend § 922.30 by:

a. Removing the word “and” at the end of paragraph (b)(6);

b. Removing the period at the end of paragraph (b)(7) and adding “;” in its place; and

c. Adding paragraphs (b)(8) and (9).

The additions read as follows:

§ 922.30 National Marine Sanctuary general permits

* * * * *

(b) * * *

(8) Native Hawaiian Practices—activities that allow for Native Hawaiian practices within Papahānaumokuākea National Marine Sanctuary; and

(9) Recreation—recreational activities within Papahānaumokuākea National Marine Sanctuary limited to the Midway Atoll Special Management Area.

3. Amend § 922.33 by:

a. Removing the word “and” at the end of paragraph (a)(8);

b Removing the period at the end of paragraph (a)(9) and adding “; and” in its place; and

c. Adding paragraph (a)(10).

The addition read as follows:

§ 922.33 Review procedures and evaluation.

(a) * * *

(10) For Papahānaumokuākea National Marine Sanctuary, there is no practicable alternative to conducting the activity within the sanctuary and the activity can be conducted with adequate safeguards for the resources and ecological integrity of the sanctuary. Further, for Native Hawaiian Practices and Recreation permits in Papahānaumokuākea National Marine Sanctuary, the activity meets the additional site-specific permit review criteria identified in § 922.245.

* * * * *

4. Amend 922.37 by adding paragraph (g).

§ 922.37 Appeals of permitting decisions.

* * * * *

(g) Paragraphs (a) through (f) of this section do not apply to Papahānaumokuākea National Marine Sanctuary.

* * * * *

5. Add subpart W to read as follows:

Subpart W—Papahānaumokuākea National Marine Sanctuary

Sec.
922.240 Boundary.
922.241 Definitions.
922.242 Cooperative management.
922.243 Access.
922.244 Prohibited or otherwise regulated activities.
922.245 Permit procedures and criteria.
922.246 Vessel monitoring system.
922.247 Sunken military craft.
Appendix A to Subpart W of Part 922—Papahānaumokuākea National Marine Sanctuary Boundary Description and Coordinates
Appendix B to Subpart W of Part 922—Coordinates for the Outer Sanctuary Zone
Appendix C to Subpart W of Part 922—Coordinates for the Midway Atoll Special Management Area
Appendix D to Subpart W of Part 922—Coordinates for the Special Preservation Areas (SPAs)
Appendix E to Subpart W of Part 922—Coordinates for the Ship Reporting Area
Appendix F to Subpart W of Part 922—IMO Standard Reporting Format and Data Syntax for Ship Reporting System

§ 922.240 Boundary.

Papahānaumokuākea National Marine Sanctuary consists of an area of approximately 582,570 square miles (439,910 square nautical miles) of Pacific Ocean waters surrounding the Northwestern Hawaiian Islands and the submerged lands thereunder. The precise boundary coordinates are listed in Appendix A to this subpart. The outer seaward sanctuary boundary begins approximately 200 nautical miles SW of Kure Atoll at Point 1 and continues from this point roughly north to each successive point in numerical order to Point 232 which is approximately 204 nautical miles north of Kure Atoll. From Point 232 the sanctuary boundary continues roughly ESE to each successive point in numerical order to Point 609 which is approximately 200 nautical miles NE of Necker Island. From Point 609 the sanctuary boundary continues south to Point 610 which is approximately 90 nautical miles ENE of Necker Island. From Point 610 the sanctuary boundary continues roughly east and then SE and south to Point 635 which is approximately 50 nautical miles east of Nihoa. From Point 635 the sanctuary boundary continues roughly south and then SW and west to each successive point in numerical order to Point 662 which is approximately 71 nautical miles SW of Nihoa. From Point 662 the sanctuary boundary continues south to Point 663 which is approximately 236 nautical miles SSW of Nihoa. From Point 663 the sanctuary boundary continues roughly NW to each successive point in numerical order to Point 703 which is approximately 200 nautical miles SSE of Necker Island. From Point 703 the boundary continues roughly NW to each successive point in numerical order to Point 1128 where it ends approximately 200 nautical miles SW of Kure Atoll. The inner landward boundary of the sanctuary follows the shoreline as defined by the State of Hawai'i (HAR § 13-222).

§ 922.241 Definitions.

In addition to those definitions found at § 922.11, the following definitions apply to this subpart. To the extent that a term appears in § 922.11 and this section, the definition in this section governs.

Areas to be avoided (ATBA) means the four areas, as adopted by the International Maritime Organization, that should be avoided by vessels that are conducting passage without interruption through the sanctuary. The precise boundary coordinates for the ATBAs are listed in Appendix E to this subpart.

Bottomfish species means all species of bottomfish as defined at 50 CFR 665.201.

Categories of hazardous cargoes means goods classified in the International Maritime Dangerous Goods (IMDG) Code; substances classified in chapter 17 of the International Code for the Construction and Equipment of Ships Carrying Dangerous Chemicals in Bulk (IBC Code) and chapter 19 of the International Code for the Construction and Equipment of Ships Carrying Liquefied Gases in Bulk (IGC Code); oils as defined in MARPOL Annex I; noxious liquid substances as defined in MARPOL Annex II; harmful substances as defined in MARPOL Annex III; and radioactive materials specified in the International Code for the Safe Carriage of Packaged Irradiated Nuclear Fuel, Plutonium and High-Level Radioactive Waste on Board Ships (INF Code).

Commercial fishing means, as defined in the Magnuson-Stevens Fishery Conservation and Management Act, fishing in which the fish harvested, either in whole or in part, are intended to enter commerce or enter commerce through sale, barter, or trade.

Ecological integrity means a condition determined to be characteristic of an ecosystem that has the ability to maintain the function, structure, and abundance of natural biological communities, including rates of change in response to natural environmental variation.

Midway Atoll Special Management Area means the area of the sanctuary surrounding Midway Atoll out to a distance of 12 nautical miles. The coordinates are listed in Appendix C to this subpart.

Native Hawaiian practices means cultural activities conducted for the purposes of perpetuating traditional knowledge, caring for and protecting the environment and strengthening cultural and spiritual connections to the Northwestern Hawaiian Islands that have demonstrable benefits to the Native Hawaiian community. This may include, but is not limited to, the non-commercial use of sanctuary resources for direct personal consumption while in the sanctuary.

Non-commercial fishing means fishing that does not meet the definition of commercial fishing in the Magnuson-Stevens Fishery Conservation and Management Act, and includes, but is not limited to, sustenance, subsistence, traditional indigenous, and recreational fishing.

Office of Law Enforcement (OLE) means NOAA, National Marine Fisheries Service, Office of Law Enforcement.

Outer Sanctuary Zone means the waters and submerged lands extending from approximately 50 nautical miles from all islands and emergent lands of the Northwestern Hawaiian Islands to the extent of the seaward limit of the United States Exclusive Economic Zone (U.S. EEZ) west of 163° West Longitude. The precise boundary coordinates for the Outer Sanctuary Zone are listed in Appendix B to this subpart.

Particularly Sensitive Sea Area (PSSA) means an area that needs special protection through action by the International Maritime Organization because of its significance for recognized ecological, socio-economic, or scientific attributes where such attributes may be vulnerable to damage by international shipping activities.

Pelagic species means Western Pacific Pelagic Management Unit Species as defined at 50 CFR 665.800.

Pono means appropriate, correct, and deemed necessary by traditional standards in Hawaiian culture.

Recreational activity means an activity conducted for personal enjoyment that does not result in the extraction of sanctuary resources and that does not involve a fee-for-service transaction. This includes, but is not limited to, wildlife viewing, SCUBA diving, snorkeling, and boating.

Reporting area means the area of the sanctuary that extends outward ten nautical miles from the Particularly Sensitive Sea Area boundary, as designated by the International Maritime Organization, and excludes the Areas to be Avoided that fall within the Particularly Sensitive Sea Area boundary. The precise boundary coordinates for the reporting area are listed in Appendix E to this subpart.

Scientific instrument means a device, vehicle, or tool used for scientific purposes and is inclusive of structures, materials, or other matter incidental to proper use of such device, vehicle, or tool.

Special Preservation Area (SPA) means discrete, biologically important areas of the sanctuary within which uses are subject to certain conditions, restrictions, and prohibitions, including but not limited to access restrictions. The coordinates are listed in Appendix D to this subpart.

Stowed and not available for immediate use means not readily accessible for immediate use, e.g., by being securely covered and lashed to a deck or bulkhead, tied down, unbaited, unloaded, or partially disassembled (e.g., spear shafts being kept separate from spearguns).

Sustenance fishing means fishing for bottomfish or pelagic species in which all catch is consumed within the sanctuary, and that is incidental to an activity permitted under this part.

Vessel monitoring system (VMS) means a mobile transceiver unit as described in § 922.246 and approved by NOAA's Office of Law Enforcement for use on vessels permitted to access the sanctuary, as required by this part.

§ 922.242 Cooperative management.

(a) NOAA has primary responsibility for the management of the sanctuary pursuant to the National Marine Sanctuaries Act. As the sanctuary includes State waters, NOAA will co-manage Papahānaumokuākea National Marine Sanctuary with the State of Hawai'i.

(b) NOAA will also manage the sanctuary in partnership with the U.S. Fish and Wildlife Service and the Office of Hawaiian Affairs.

(c) Nothing in these regulations or establishment of the national marine sanctuary shall diminish U.S. Fish and Wildlife Service's authority to administer Midway Atoll National Wildlife Refuge and Hawaiian Islands National Wildlife Refuge under the National Wildlife Refuge System Administration Act, as amended, and other U.S. Fish and Wildlife Service authorities. Where Papahānaumokuākea National Marine Sanctuary overlays Midway Atoll National Wildlife Refuge and Hawaiian Islands National Wildlife Refuge, NOAA will implement the National Marine Sanctuaries Act to provide supplemental authority to protect resources.

(d) NOAA, in exercising its management authority under National Marine Sanctuaries Act Section 304(d), recognizes U.S. Fish and Wildlife Service's management authority over Midway Atoll National Wildlife Refuge and Hawaiian Islands National Wildlife Refuge under the National Wildlife Refuge System Administration Act, as amended.

§ 922.243 Access.

(a) Access to the Sanctuary is prohibited and thus unlawful except:

(1) When conducting emergency response actions, law enforcement activities, and activities and exercises of the Armed Forces in accordance with § 922.244(b) and (c);

(2) Pursuant to a permit issued under § 922.245;

(3) When conducting non-commercial fishing activities in the Outer Sanctuary Zone authorized under the Magnuson-Stevens Fishery Conservation and Management Act in accordance with § 922.244 (d);

(4) When conducting scientific exploration or research activities by or for the Secretary of Commerce or the Secretary of the Interior in the Outer Sanctuary Zone in accordance with § 922.244 (f).

(5) When conducting passage without interruption in accordance with paragraphs (b), (c), and (d) of this section.

(b) A vessel may pass without interruption through the sanctuary without requiring a permit as long as the vessel does not stop or engage in the prohibited activities listed in § 922.244 within the sanctuary.

(c) For areas of the sanctuary that are contained within the reporting area surrounding the Particularly Sensitive Sea Area (PSSA) designated by the International Maritime Organization (IMO), a ship reporting system (CORAL SHIPREP) specified below shall be in effect. The coordinates for the Reporting Area are listed in Appendix E to this subpart.

(1) The following vessels, except vessels entitled to sovereign immunity under international law, passing through the reporting area of the sanctuary without interruption, must participate in the ship reporting system as specified in paragraphs (c)(2) through (6) of this section:

(i) Vessels of the United States of any size;

(ii) All other ships 300 gross tonnage or greater that are entering or departing a United States port or place; and

(iii) All other ships of any size entering or departing a United States port or place and experiencing an emergency while transiting through the reporting area.

(2) All vessels passing through the reporting area of the sanctuary without interruption other than those described in paragraph (c)(1) of this section are encouraged to participate in the ship reporting system set forth in paragraphs (c)(2) through (6) of this section.

(3) Immediately upon entering the reporting area, vessels described in paragraph (c)(1) of this section must provide the following information by email sent to nwhi.notifications@noaa.gov in the IMO standard reporting format and data syntax shown in Appendix F to this subpart:

(i) Vessel name, call sign or ship station identity, flag, and IMO identification number if applicable, and either Federal documentation or State registration number if applicable;

(ii) Date, time (UTC) and month of entry;

(iii) Position;

(iv) True course;

(v) Speed in knots and tenths;

(vi) Destination and estimated time of arrival;

(vii) Intended route through the reporting area;

(viii) Vessel draft (in meters);

(ix) Categories of hazardous cargoes on board;

(x) Any vessel defects or deficiencies that restrict maneuverability or impair normal navigation;

(xi) Any pollution incident or goods lost overboard within the PSSA, the reporting area, or the U.S. EEZ;

(xii) Contact information for the vessel's agent or owner;

(xiii) Vessel size (length overall, gross tonnage) and type; and

(xiv) Total number of persons on board.

(4) Immediately upon leaving the reporting area, vessels described in paragraph (c)(1) of this section must provide the following information by email sent to nwhi.notifications@noaa.gov in the IMO standard reporting format and data syntax shown in Appendix F to this subpart:

(i) Vessel name, call sign or ship station identity, flag, and IMO identification number if applicable, and either Federal documentation or State registration number if applicable;

(ii) Date, time (UTC), and month of exit;

(iii) Position; and

(iv) Any pollution incident or goods lost overboard within the PSSA, the reporting area, or the U.S. EEZ.

(5) For vessels that are not equipped with on-board email capability, advanced notice of entrance (as outlined in paragraph (c)(3) of this section) shall be provided at least 72 hours, but not more than one month, prior to entering the reporting area. Notification of departure (as outlined in paragraph (c)(4) of this section) must be provided within 12 hours of leaving the reporting area. Notification under this paragraph may be made by email, telephone, or fax, by contacting:

(i) Email: nwhi.notifications@noaa.gov;

(ii) Telephone: 1-808-395-6944 or 1-866-478-6944; or

(iii) Fax: 1-808-455-3093.

(6) Further reports shall be made by the vessels described in paragraph (c)(1) of this section, and are encouraged for the vessels described in paragraph (c)(2) of this section, whenever there is a change in navigation status or circumstances, particularly in relation to the intended route, defects or deficiencies, pollution incidents, or goods lost overboard.

§ 922.244 Prohibited or otherwise regulated activities.

(a) The following activities are prohibited and thus are unlawful for any person to conduct or to cause to be conducted within the sanctuary, except as specified in paragraphs (b) through (f) of this section:

(1) Exploring for, developing, or producing oil, gas, or minerals, or any energy development activities;

(2) Using or attempting to use poisons, electrical charges, or explosives in the collection or harvest of a sanctuary resource;

(3) Introducing or otherwise releasing an introduced species from within or into the sanctuary;

(4) Deserting a vessel;

(5) Anchoring on or having a vessel anchored on any living or dead coral with an anchor, anchor chain, or anchor rope;

(6) Commercial fishing, or possessing commercial fishing gear except when stowed and not available for immediate use;

(7) Failing to comply with the vessel monitoring system requirements in violation of § 922.246.

(8) Failing to comply with ship reporting requirements in violation of § 922.243.

(9) Non-commercial fishing, or possessing non-commercial fishing gear except when stowed and not available for immediate use;

(10) Drilling into, dredging, or otherwise altering the submerged lands; or constructing, placing, or abandoning any structure, material, or other matter on the submerged lands;

(11) Removing, moving, taking, harvesting, possessing, injuring, disturbing, or damaging; or attempting to remove, move, take, harvest, possess, injure, disturb, or damage any living or nonliving sanctuary resource;

(12) Attracting any living sanctuary resource;

(13) Touching coral, living or dead;

(14) Swimming, snorkeling, or closed or open circuit SCUBA diving;

(15) Discharging or depositing any material or other matter into the sanctuary, or discharging or depositing any material or other matter outside of the sanctuary that subsequently enters the sanctuary and injures or has the potential to injure any resources of the sanctuary, except for:

(i) Fish, fish parts, or chumming materials (bait) used in or resulting from lawful fishing activity, provided that such discharge or deposit is during the conduct of lawful fishing activity within the sanctuary;

(ii) Discharge incidental to vessel operations such as approved marine sanitation device effluent, cooling water, and engine exhaust, consistent with Federal statute or regulation; and

(iii) Within Special Preservation Areas or the Midway Atoll Special Management Area, discharging or depositing material or other matter is limited to vessel engine cooling water, weather deck runoff, and vessel engine exhaust, consistent with Federal statute or regulation.

(16) Anchoring a vessel.

(b) The prohibitions in paragraph (a) of this section do not apply to activities necessary to respond to emergencies threatening life, property, or the environment, or to activities necessary for law enforcement purposes.

(c) The prohibitions in paragraph (a) of this section do not apply to activities and exercises of the U.S. Armed Forces (including those carried out by the U.S. Coast Guard). This includes the U.S. Armed Forces' response to emergencies posing an unacceptable threat to human health or safety or to the marine environment and admitting of no other feasible solution. All activities and exercises of the U.S. Armed Forces shall be carried out in a manner that avoids, to the extent practicable and consistent with operational requirements, adverse impacts on sanctuary resources and qualities. These regulations shall not limit or otherwise affect the U.S. Armed Forces discretion to use, maintain, improve, manage, or control any property under their administrative control or otherwise limit the availability of such property for military mission purposes, including, but not limited to, defensive areas and airspace reservations.

(d) The prohibitions in paragraph (a)(9) through (12), and (a)(14) of this section do not apply to non-commercial fishing activities in the Outer Sanctuary Zone authorized under the Magnuson-Stevens Fishery Conservation and Management Act provided that:

(1) Fish harvested, either in whole or in part, are not intended to enter commerce and shall not enter commerce through sale, barter, or trade, and that the resource is managed sustainably;

(2) Fish harvested, either in whole or in part, are not intended to be sold and shall not be sold for any purposes, including, but not limited to, cost-recovery; and

(3) The activities under paragraph (a)(9) through (12), and (a)(14) are only conducted as incidental to and necessary to conduct lawful non-commercial fishing activity.

(e) The prohibitions in paragraphs (a)(9) through (16) of this section, do not apply to any activity conducted under and in accordance with the scope, purpose, terms, and conditions of a sanctuary general permit, or special use permit issued pursuant to subpart D of this part. In no event, may the Director issue a National Marine Sanctuary general permit or special use permit authorizing or otherwise approving activities listed in paragraph (a)(10) of this section for anything other than scientific instruments, when the activity occurs within the Outer Sanctuary Zone.

(f) The prohibitions in paragraph (a) of this section shall not restrict scientific exploration or research activities by or for the Secretary of Commerce or the Secretary of the Interior when the activity occurs within the Outer Sanctuary Zone.

§ 922.245 Permit procedures and criteria.

(a) A person may conduct an activity otherwise prohibited by § 922.244(a)(9) through (16), if such activity is specifically allowed by and conducted in accordance with the scope, purpose, terms and conditions of a permit issued under this section and subpart D of this part, and any additional permit issuance criteria and requirements in paragraphs (a)(1) and (a)(2) of this section.

(1) Native Hawaiian Practices

(i) The activity is non-commercial and will not involve the sale of any organism or material collected;

(ii) The purpose and intent of this activity is appropriate and deemed necessary by traditional standards in the Native Hawaiian culture (pono), and demonstrates an understanding of, and background in, the traditional practice, and its associated values and protocols;

(iii) The activity benefits the resources of the Northwestern Hawaiian Islands and the Native Hawaiian community;

(iv) The activity supports or advances the perpetuation of traditional knowledge and ancestral connections of Native Hawaiians to the Northwestern Hawaiian Islands; and

(v) Any living sanctuary resource harvested from the sanctuary will be consumed or utilized in the sanctuary.

(2) Recreation permits

(i) The activity is limited to the Midway Atoll Special Management Area.

(ii) The activity is for the purpose of recreational activities as defined in § 922.241;

(iii) The activity is not associated with any for-hire operation;

(iv) The activity does not involve any extractive use; and

(b) Applications for permits should be addressed to the NOAA Inouye Regional Center, Office of National Marine Sanctuaries; ATT: Permit Coordinator, Papahānaumokuākea, 1845 Wasp Blvd., Building 176, Honolulu, HI 96818.

(c) The Secretary of Commerce may authorize sustenance fishing outside of any Special Preservation Area as a term or condition of any general permit or special use permit issued under this section and subpart D of this part. Sustenance fishing in the Midway Atoll Special Management Area shall not be allowed unless the activity has been determined by the Director of the U.S. Fish and Wildlife Service or their designee to be compatible with the purposes for which the Midway Atoll National Wildlife Refuge was established. Sustenance fishing must be conducted in a manner compatible with this part, including considering the extent to which the conduct of the activity may diminish Sanctuary resources, qualities, and ecological integrity, as well as any indirect, secondary, or cumulative effects of the activity and the duration of such effects. The Secretary of Commerce may develop procedures for systematic reporting of sustenance fishing.

(d) In addition to other applicable permit issuance criteria and requirements, a permit may not be issued under this section unless the applicant's vessel has been outfitted with a VMS unit approved by OLE and the applicant complies with the requirements of § 922.246.

§ 922.246 Requirements for a vessel monitoring system.

(a) Requirement for use. An owner or operator of a vessel that has been issued a general permit or special use permit under § 922.245 and subpart D of this part must ensure that such vessel is operating a NOAA OLE type-approved VMS on board when operating within the sanctuary. An operating VMS includes an operating mobile transmitting unit on the vessel and a functioning communication link between the unit and OLE as provided by an OLE-approved communication service provider. As a condition of authorized access to the sanctuary, a vessel owner or operator subject to the requirements for a VMS in this section must allow OLE, the U.S. Coast Guard, and their authorized officers and designees access to the vessel's position data obtained from the VMS. NOAA may have access to, and use of, collected data for scientific, statistical, and management purposes, and to monitor implementation of this subpart.

(b) Installing and activating the VMS. (1) OLE has approval authority over the type of VMS used and the installation and operation of the VMS unit.

(2) The owner or operator of a vessel must coordinate with OLE to install and activate an approved VMS prior to operating within the sanctuary. For the purposes of this section, the following contact information applies:

(i) OLE. Address: 1845 Wasp Blvd., Bldg. 176, Honolulu, HI 96818; telephone: 808-725-6100; facsimile: 808-725-6199; email: pidvms@noaa.gov; business hours: Monday through Friday, except Federal holidays, 8 a.m. to 4:30 p.m., Hawaii Standard Time.

(ii) VMS Helpdesk. Telephone: 888-219-9228; email: ole.helpdesk@noaa.gov; business hours: Monday through Friday, except Federal holidays, 7 a.m. to 11 p.m., Eastern Time.

(c) Interruption of operation of the VMS. When a vessel's VMS is not operating properly within the sanctuary, the owner or operator must immediately contact OLE, and follow instructions from that office. If notified by OLE that a vessel's VMS is not operating properly, the owner and operator must follow instructions from that office. In either event, such instructions may include, but are not limited to, manually communicating a vessel's location as directed by OLE; or exiting the sanctuary until the VMS is operable.

(d) Activities Regarding VMS For Vessels Operating in the Sanctuary. The following activities regarding vessel monitoring systems are prohibited and thus unlawful for any person to conduct or cause to be conducted:

(1) Operating any vessel within the sanctuary without an OLE type-approved VMS;

(2) Failing to install, activate, repair, or replace a VMS prior to entering the sanctuary;

(3) Failing to operate and maintain a VMS on board the vessel;

(4) Tampering with, damaging, destroying, altering, or in any way distorting, rendering useless, inoperative, ineffective, or inaccurate the VMS, or VMS signal, or attempting any of the same;

(5) Failing to contact OLE or follow OLE instructions when automatic position reporting has been interrupted;

(6) Registering a VMS to more than one vessel permitted to operate within the sanctuary at the same time;

(7) Connecting or leaving connected additional equipment to a VMS unit without the prior approval of OLE; and

(8) Making a false statement, oral or written, to an authorized officer regarding the installation, use, operation, or maintenance of a VMS unit-or communication service provider.

§ 922.247 Sunken military craft.

Sunken military craft are administered by the respective Secretary concerned pursuant to the Sunken Military Craft Act (Pub. L. 108-375, Title XIV, sections 1401 to 1408; 10 U.S.C. 113 note). The Director will enter into a Memorandum of Agreement regarding collaboration with other Federal agencies charged with implementing the Sunken Military Craft Act that may address aspects of managing and protecting sunken military craft. The Director will request approval from the Secretary concerned for any terms and conditions of ONMS permits that may involve sunken military craft.

Appendix A to Subpart W of Part 922—Papahānaumokuākea National Marine Sanctuary Boundary Description and Coordinates

[Coordinates listed in this appendix are unprojected (Geographic) and based on the North American Datum of 1983]

Point No. | Longitude | Latitude
1 | 180.00000 | 25.38976
2 | 179.99985 | 25.38982
3 | 179.96681 | 25.40451
4 | 179.93392 | 25.41950
5 | 179.90119 | 25.43478
6 | 179.86863 | 25.45034
7 | 179.83622 | 25.46619
8 | 179.78793 | 25.49050
9 | 179.75595 | 25.50707
10 | 179.72415 | 25.52391
11 | 179.69252 | 25.54104
12 | 179.66108 | 25.55844
13 | 179.62981 | 25.57612
14 | 179.59874 | 25.59408
15 | 179.56786 | 25.61231
16 | 179.53716 | 25.63081
17 | 179.50667 | 25.64959
18 | 179.47637 | 25.66863
19 | 179.44627 | 25.68794
20 | 179.41638 | 25.70751
21 | 179.38670 | 25.72735
22 | 179.35722 | 25.74745
23 | 179.32796 | 25.76781
24 | 179.28448 | 25.79883
25 | 179.25576 | 25.81983
26 | 179.22255 | 25.84463
27 | 179.18175 | 25.87583
28 | 179.15383 | 25.89770
29 | 179.12613 | 25.91982
30 | 179.09868 | 25.94218
31 | 179.07146 | 25.96479
32 | 179.03108 | 25.99915
33 | 179.00447 | 26.02235
34 | 178.97810 | 26.04578
35 | 178.93902 | 26.08137
36 | 178.91329 | 26.10537
37 | 178.88781 | 26.12961
38 | 178.86259 | 26.15407
39 | 178.82525 | 26.19117
40 | 178.80068 | 26.21618
41 | 178.77639 | 26.24141
42 | 178.75236 | 26.26685
43 | 178.71683 | 26.30540
44 | 178.69349 | 26.33136
45 | 178.65901 | 26.37068
46 | 178.63637 | 26.39715
47 | 178.61378 | 26.42409
48 | 178.59171 | 26.45096
49 | 178.56993 | 26.47801
50 | 178.54844 | 26.50526
51 | 178.52725 | 26.53270
52 | 178.49601 | 26.57420
53 | 178.46544 | 26.61611
54 | 178.44544 | 26.64427
55 | 178.41601 | 26.68685
56 | 178.39677 | 26.71544
57 | 178.37784 | 26.74421
58 | 178.35922 | 26.77314
59 | 178.34092 | 26.80223
60 | 178.30653 | 26.85803
61 | 178.28885 | 26.88744
62 | 178.26294 | 26.93185
63 | 178.24606 | 26.96164
64 | 178.22951 | 26.99158
65 | 178.21329 | 27.02166
66 | 178.19632 | 27.05394
67 | 178.17402 | 27.09774
68 | 178.15895 | 27.12831
69 | 178.14422 | 27.15901
70 | 178.12274 | 27.20529
71 | 178.10884 | 27.23631
72 | 178.08864 | 27.28305
73 | 178.06920 | 27.33006
74 | 178.05667 | 27.36154
75 | 178.03853 | 27.40896
76 | 178.02687 | 27.44071
77 | 178.01003 | 27.48851
78 | 177.99924 | 27.52051
79 | 177.98881 | 27.55259
80 | 177.97873 | 27.58477
81 | 177.96901 | 27.61703
82 | 177.95509 | 27.66559
83 | 177.94198 | 27.71432
84 | 177.93368 | 27.74690
85 | 177.92568 | 27.77984
86 | 177.91811 | 27.81256
87 | 177.90744 | 27.86176
88 | 177.90079 | 27.89464
89 | 177.89149 | 27.94406
90 | 177.88574 | 27.97707
91 | 177.88037 | 28.01014
92 | 177.87300 | 28.05982
93 | 177.86647 | 28.10959
94 | 177.86258 | 28.14281
95 | 177.85744 | 28.19271
96 | 177.85447 | 28.22601
97 | 177.85073 | 28.27600
98 | 177.84871 | 28.30936
99 | 177.84706 | 28.34273
100 | 177.84529 | 28.39281
101 | 177.84436 | 28.44291
102 | 177.84422 | 28.47631
103 | 177.84445 | 28.50971
104 | 177.84551 | 28.55981
105 | 177.84670 | 28.59348
106 | 177.84844 | 28.63098
107 | 177.85148 | 28.68101
108 | 177.85399 | 28.71434
109 | 177.85761 | 28.75561
110 | 177.86197 | 28.79830
111 | 177.86786 | 28.84813
112 | 177.87226 | 28.88131
113 | 177.87543 | 28.90360
114 | 177.87967 | 28.93173
115 | 177.88514 | 28.96554
116 | 177.89133 | 29.00123
117 | 177.90063 | 29.05066
118 | 177.90735 | 29.08379
119 | 177.91806 | 29.13300
120 | 177.92567 | 29.16572
121 | 177.93780 | 29.21468
122 | 177.94636 | 29.24722
123 | 177.95989 | 29.29590
124 | 177.96959 | 29.32896
125 | 177.97946 | 29.36122
126 | 177.98970 | 29.39340
127 | 178.00575 | 29.44148
128 | 178.01692 | 29.47341
129 | 178.03438 | 29.52113
130 | 178.04647 | 29.55280
131 | 178.06531 | 29.60012
132 | 178.08497 | 29.64717
133 | 178.09853 | 29.67840
134 | 178.11268 | 29.71000
135 | 178.13426 | 29.75642
136 | 178.15665 | 29.80255
137 | 178.17203 | 29.83313
138 | 178.19577 | 29.87875
139 | 178.21216 | 29.90921
140 | 178.22879 | 29.93930
141 | 178.25439 | 29.98416
142 | 178.27525 | 30.01949
143 | 178.29311 | 30.04905
144 | 178.31861 | 30.09001
145 | 178.34009 | 30.12350
146 | 178.35931 | 30.15271
147 | 178.38857 | 30.19588
148 | 178.41018 | 30.22681
149 | 178.43934 | 30.26737
150 | 178.47063 | 30.30946
151 | 178.49239 | 30.33792
152 | 178.51400 | 30.36556
153 | 178.54703 | 30.40666
154 | 178.57973 | 30.44608
155 | 178.60482 | 30.47552
156 | 178.62805 | 30.50216
157 | 178.65341 | 30.53061
158 | 178.68811 | 30.56854
159 | 178.71589 | 30.59815
160 | 178.75298 | 30.63662
161 | 178.77809 | 30.66199
162 | 178.80351 | 30.68713
163 | 178.84220 | 30.72443
164 | 178.88157 | 30.76121
165 | 178.90818 | 30.78543
166 | 178.94864 | 30.82133
167 | 178.97598 | 30.84496
168 | 179.00360 | 30.86835
169 | 179.04556 | 30.90297
170 | 179.07393 | 30.92578
171 | 179.11693 | 30.95947
172 | 179.14594 | 30.98161
173 | 179.18995 | 31.01433
174 | 179.21963 | 31.03582
175 | 179.26463 | 31.06757
176 | 179.29516 | 31.08855
177 | 179.34112 | 31.11928
178 | 179.38763 | 31.14941
179 | 179.41894 | 31.16915
180 | 179.45050 | 31.18861
181 | 179.49827 | 31.21728
182 | 179.54657 | 31.24532
183 | 179.57905 | 31.26365
184 | 179.61792 | 31.28512
185 | 179.65085 | 31.30287
186 | 179.70065 | 31.32895
187 | 179.73411 | 31.34598
188 | 179.77707 | 31.36728
189 | 179.81095 | 31.38371
190 | 179.86214 | 31.40779
191 | 179.89652 | 31.42346
192 | 179.94844 | 31.44640
193 | 179.98329 | 31.46131
194 | −180.00000 | 31.46823
195 | −179.96410 | 31.48309
196 | −179.92880 | 31.49722
197 | −179.89333 | 31.51105
198 | −179.83980 | 31.53119
199 | −179.78591 | 31.55062
200 | −179.74978 | 31.56318
201 | −179.71350 | 31.57542
202 | −179.65880 | 31.59317
203 | −179.62215 | 31.60460
204 | −179.56692 | 31.62114
205 | −179.51138 | 31.63695
206 | −179.47371 | 31.64721
207 | −179.41770 | 31.66179
208 | −179.38021 | 31.67109
209 | −179.33210 | 31.68252
210 | −179.28243 | 31.69383
211 | −179.23675 | 31.70369
212 | −179.19878 | 31.71149
213 | −179.16071 | 31.71896
214 | −179.10344 | 31.72953
215 | −179.06516 | 31.73615
216 | −179.00758 | 31.74546
217 | −178.94983 | 31.75399
218 | −178.90738 | 31.75980
219 | −178.86874 | 31.76473
220 | −178.82975 | 31.76934
221 | −178.79099 | 31.77358
222 | −178.75218 | 31.77748
223 | −178.71332 | 31.78104
224 | −178.67441 | 31.78425
225 | −178.63547 | 31.78712
226 | −178.59650 | 31.78964
227 | −178.55749 | 31.79182
228 | −178.51846 | 31.79366
229 | −178.47941 | 31.79515
230 | −178.43412 | 31.79649
231 | −178.39504 | 31.79729
232 | −178.35596 | 31.79775
233 | −178.32396 | 31.79786
234 | −178.28487 | 31.79769
235 | −178.24553 | 31.79717
236 | −178.20645 | 31.79631
237 | −178.16738 | 31.79510
238 | −178.12834 | 31.79354
239 | −178.08931 | 31.79165
240 | −178.05031 | 31.78940
241 | −178.01134 | 31.78682
242 | −177.97241 | 31.78389
243 | −177.93351 | 31.78061
244 | −177.89466 | 31.77699
245 | −177.85585 | 31.77303
246 | −177.81646 | 31.76865
247 | −177.77776 | 31.76401
248 | −177.73912 | 31.75902
249 | −177.70055 | 31.75369
250 | −177.66205 | 31.74802
251 | −177.62362 | 31.74202
252 | −177.58526 | 31.73567
253 | −177.54140 | 31.72800
254 | −177.50321 | 31.72097
255 | −177.46512 | 31.71361
256 | −177.42712 | 31.70592
257 | −177.38921 | 31.69789
258 | −177.35141 | 31.68952
259 | −177.31372 | 31.68082
260 | −177.27613 | 31.67179
261 | −177.23866 | 31.66242
262 | −177.20131 | 31.65273
263 | −177.16094 | 31.64185
264 | −177.12384 | 31.63149
265 | −177.08687 | 31.62082
266 | −177.04995 | 31.60978
267 | −176.99406 | 31.60543
268 | −176.95227 | 31.60174
269 | −176.91352 | 31.59795
270 | −176.87481 | 31.59382
271 | −176.83616 | 31.58934
272 | −176.79756 | 31.58453
273 | −176.73979 | 31.57666
274 | −176.70136 | 31.57100
275 | −176.66300 | 31.56499
276 | −176.60561 | 31.55534
277 | −176.56718 | 31.54844
278 | −176.52911 | 31.54125
279 | −176.49114 | 31.53372
280 | −176.45325 | 31.52586
281 | −176.41282 | 31.51708
282 | −176.37095 | 31.50759
283 | −176.33338 | 31.49873
284 | −176.29414 | 31.48910
285 | −176.23818 | 31.47469
286 | −176.20102 | 31.46467
287 | −176.14552 | 31.44902
288 | −176.10869 | 31.43818
289 | −176.07199 | 31.42701
290 | −176.03543 | 31.41553
291 | −175.99902 | 31.40371
292 | −175.94468 | 31.38539
293 | −175.90865 | 31.37278
294 | −175.87278 | 31.35985
295 | −175.83644 | 31.34637
296 | −175.80089 | 31.33281
297 | −175.76551 | 31.31893
298 | −175.72777 | 31.30370
299 | −175.67361 | 31.30264
300 | −175.62462 | 31.30118
301 | −175.58577 | 31.29962
302 | −175.56300 | 31.29856
303 | −175.50480 | 31.29533
304 | −175.44667 | 31.29132
305 | −175.38862 | 31.28654
306 | −175.33066 | 31.28099
307 | −175.27281 | 31.27467
308 | −175.21509 | 31.26757
309 | −175.15433 | 31.25928
310 | −175.10019 | 31.25117
311 | −175.05021 | 31.24316
312 | −174.99307 | 31.23327
313 | −174.93613 | 31.22261
314 | −174.87938 | 31.21120
315 | −174.82112 | 31.19865
316 | −174.78357 | 31.19012
317 | −174.74612 | 31.18126
318 | −174.69017 | 31.16735
319 | −174.65301 | 31.15766
320 | −174.61598 | 31.14764
321 | −174.57907 | 31.13730
322 | −174.54229 | 31.12663
323 | −174.48737 | 31.11001
324 | −174.43277 | 31.09266
325 | −174.39656 | 31.08069
326 | −174.36049 | 31.06840
327 | −174.32457 | 31.05579
328 | −174.28881 | 31.04287
329 | −174.25322 | 31.02962
330 | −174.21779 | 31.01607
331 | −174.16782 | 30.99630
332 | −174.12317 | 30.97807
333 | −174.08834 | 30.96342
334 | −174.03646 | 30.94087
335 | −174.00210 | 30.92545
336 | −173.95092 | 30.90176
337 | −173.91394 | 30.88410
338 | −173.88027 | 30.86763
339 | −173.83015 | 30.84236
340 | −173.79699 | 30.82515
341 | −173.74828 | 30.79912
342 | −173.71286 | 30.77965
343 | −173.67333 | 30.75735
344 | −173.63202 | 30.73339
345 | −173.60020 | 30.71444
346 | −173.56860 | 30.69522
347 | −173.52165 | 30.66586
348 | −173.49065 | 30.64594
349 | −173.45306 | 30.62120
350 | −173.40817 | 30.59091
351 | −173.37804 | 30.57004
352 | −173.34479 | 30.54651
353 | −173.30046 | 30.51431
354 | −173.25673 | 30.48153
355 | −173.22791 | 30.45935
356 | −173.19936 | 30.43692
357 | −173.15960 | 30.40490
358 | −173.12000 | 30.37227
359 | −173.09242 | 30.34897
360 | −173.06512 | 30.32542
361 | −173.02470 | 30.28965
362 | −172.98494 | 30.25335
363 | −172.95880 | 30.22886
364 | −172.93295 | 30.20413
365 | −172.89474 | 30.16662
366 | −172.85721 | 30.12860
367 | −172.83096 | 30.10131
368 | −172.79458 | 30.06247
369 | −172.77072 | 30.03631
370 | −172.74717 | 30.00995
371 | −172.71244 | 29.97001
372 | −172.67843 | 29.92961
373 | −172.65616 | 29.90243
374 | −172.62336 | 29.86129
375 | −172.60190 | 29.83362
376 | −172.57892 | 29.80334
377 | −172.55812 | 29.77530
378 | −172.52756 | 29.73290
379 | −172.50760 | 29.70441
380 | −172.48798 | 29.67574
381 | −172.46870 | 29.64690
382 | −172.44976 | 29.61789
383 | −172.42200 | 29.57406
384 | −172.40392 | 29.54464
385 | −172.37746 | 29.50021
386 | −172.35178 | 29.45544
387 | −172.33510 | 29.42540
388 | −172.31074 | 29.38007
389 | −172.29495 | 29.34967
390 | −172.27193 | 29.30382
391 | −172.25703 | 29.27308
392 | −172.23535 | 29.22673
393 | −172.22135 | 29.19567
394 | −172.20103 | 29.14885
395 | −172.18794 | 29.11749
396 | −172.18269 | 29.10461
397 | −172.14425 | 29.10857
398 | −172.10644 | 29.11211
399 | −172.06858 | 29.11531
400 | −172.01172 | 29.11947
401 | −171.95480 | 29.12286
402 | −171.91682 | 29.12469
403 | −171.87882 | 29.12618
404 | −171.82179 | 29.12776
405 | −171.78376 | 29.12839
406 | −171.73360 | 29.12869
407 | −171.67655 | 29.12830
408 | −171.63852 | 29.12761
409 | −171.60049 | 29.12658
410 | −171.54349 | 29.12439
411 | −171.50552 | 29.12249
412 | −171.45928 | 29.11977
413 | −171.42136 | 29.11719
414 | −171.38347 | 29.11427
415 | −171.32671 | 29.10925
416 | −171.28892 | 29.10547
417 | −171.25118 | 29.10135
418 | −171.21350 | 29.09689
419 | −171.17551 | 29.09204
420 | −171.13794 | 29.08690
421 | −171.10043 | 29.08142
422 | −171.04430 | 29.07256
423 | −171.00697 | 29.06623
424 | −170.96972 | 29.05956
425 | −170.93255 | 29.05256
426 | −170.89547 | 29.04522
427 | −170.85848 | 29.03755
428 | −170.82159 | 29.02954
429 | −170.78479 | 29.02120
430 | −170.74809 | 29.01253
431 | −170.69325 | 28.99890
432 | −170.65683 | 28.98940
433 | −170.60242 | 28.97453
434 | −170.56630 | 28.96421
435 | −170.53030 | 28.95356
436 | −170.49444 | 28.94259
437 | −170.44089 | 28.92552
438 | −170.40537 | 28.91374
439 | −170.36999 | 28.90164
440 | −170.33476 | 28.88922
441 | −170.29968 | 28.87648
442 | −170.24735 | 28.85678
443 | −170.21266 | 28.84325
444 | −170.16441 | 28.82380
445 | −170.11868 | 28.81843
446 | −170.06241 | 28.81110
447 | −170.00627 | 28.80301
448 | −169.95029 | 28.79415
449 | −169.89448 | 28.78454
450 | −169.85736 | 28.77770
451 | −169.80186 | 28.76683
452 | −169.74655 | 28.75519
453 | −169.69147 | 28.74281
454 | −169.63661 | 28.72968
455 | −169.60017 | 28.72051
456 | −169.54573 | 28.70614
457 | −169.49155 | 28.69103
458 | −169.45559 | 28.68055
459 | −169.40188 | 28.66422
460 | −169.34847 | 28.64716
461 | −169.29538 | 28.62937
462 | −169.24262 | 28.61087
463 | −169.19019 | 28.59165
464 | −169.13811 | 28.57172
465 | −169.08640 | 28.55108
466 | −169.03506 | 28.52974
467 | −169.00106 | 28.51513
468 | −168.95037 | 28.49263
469 | −168.90010 | 28.46945
470 | −168.85025 | 28.44559
471 | −168.81726 | 28.42931
472 | −168.76813 | 28.40432
473 | −168.71946 | 28.37867
474 | −168.67125 | 28.35237
475 | −168.62352 | 28.32541
476 | −168.58344 | 28.30203
477 | −168.53902 | 28.30813
478 | −168.48296 | 28.31510
479 | −168.42677 | 28.32131
480 | −168.37049 | 28.32675
481 | −168.33291 | 28.32995
482 | −168.27648 | 28.33411
483 | −168.21998 | 28.33750
484 | −168.16342 | 28.34011
485 | −168.10683 | 28.34195
486 | −168.05021 | 28.34302
487 | −168.00043 | 28.34332
488 | −167.94380 | 28.34293
489 | −167.88718 | 28.34177
490 | −167.83059 | 28.33983
491 | −167.77404 | 28.33713
492 | −167.73621 | 28.33488
493 | −167.67976 | 28.33089
494 | −167.62339 | 28.32613
495 | −167.56712 | 28.32059
496 | −167.51095 | 28.31429
497 | −167.45490 | 28.30722
498 | −167.39898 | 28.29939
499 | −167.34321 | 28.29079
500 | −167.30612 | 28.28464
501 | −167.25063 | 28.27477
502 | −167.21374 | 28.26778
503 | −167.15856 | 28.25665
504 | −167.10359 | 28.24478
505 | −167.04884 | 28.23215
506 | −166.99432 | 28.21878
507 | −166.94004 | 28.20466
508 | −166.88603 | 28.18981
509 | −166.85017 | 28.17950
510 | −166.81444 | 28.16886
511 | −166.79269 | 28.16220
512 | −166.76001 | 28.15196
513 | −166.72461 | 28.14051
514 | −166.68934 | 28.12874
515 | −166.65422 | 28.11665
516 | −166.61924 | 28.10424
517 | −166.58441 | 28.09152
518 | −166.54974 | 28.07847
519 | −166.51522 | 28.06511
520 | −166.48086 | 28.05144
521 | −166.42964 | 28.03034
522 | −166.39570 | 28.01589
523 | −166.36193 | 28.00113
524 | −166.31162 | 27.97842
525 | −166.27830 | 27.96290
526 | −166.24517 | 27.94707
527 | −166.21223 | 27.93095
528 | −166.17948 | 27.91452
529 | −166.14693 | 27.89780
530 | −166.11458 | 27.88078
531 | −166.06622 | 27.85459
532 | −166.03438 | 27.83684
533 | −166.00275 | 27.81881
534 | −165.97134 | 27.80048
535 | −165.94014 | 27.78187
536 | −165.90917 | 27.76298
537 | −165.87842 | 27.74381
538 | −165.83251 | 27.71439
539 | −165.80234 | 27.69452
540 | −165.77240 | 27.67438
541 | −165.74243 | 27.65378
542 | −165.71297 | 27.63310
543 | −165.68375 | 27.61215
544 | −165.65478 | 27.59094
545 | −165.62607 | 27.56946
546 | −165.59760 | 27.54773
547 | −165.56939 | 27.52573
548 | −165.54144 | 27.50348
549 | −165.50001 | 27.46963
550 | −165.47272 | 27.44675
551 | −165.44570 | 27.42363
552 | −165.41895 | 27.40026
553 | −165.39248 | 27.37664
554 | −165.36628 | 27.35279
555 | −165.34036 | 27.32870
556 | −165.30201 | 27.29213
557 | −165.27680 | 27.26746
558 | −165.25188 | 27.24256
559 | −165.21504 | 27.20478
560 | −165.19085 | 27.17932
561 | −165.16695 | 27.15365
562 | −165.14335 | 27.12775
563 | −165.12006 | 27.10164
564 | −165.09707 | 27.07533
565 | −165.07732 | 27.05226
566 | −165.03132 | 27.03829
567 | −164.99614 | 27.02718
568 | −164.96109 | 27.01574
569 | −164.90877 | 26.99799
570 | −164.85677 | 26.97951
571 | −164.82201 | 26.96670
572 | −164.70700 | 26.92271
573 | −164.68299 | 26.92268
574 | −164.64572 | 26.92233
575 | −164.58983 | 26.92117
576 | −164.55259 | 26.91997
577 | −164.51536 | 26.91843
578 | −164.45955 | 26.91547
579 | −164.40380 | 26.91174
580 | −164.34813 | 26.90724
581 | −164.29254 | 26.90197
582 | −164.25554 | 26.89803
583 | −164.21858 | 26.89375
584 | −164.16325 | 26.88669
585 | −164.10804 | 26.87887
586 | −164.05299 | 26.87029
587 | −164.01637 | 26.86414
588 | −163.97983 | 26.85766
589 | −163.92516 | 26.84731
590 | −163.87068 | 26.83620
591 | −163.81641 | 26.82434
592 | −163.78034 | 26.81602
593 | −163.74438 | 26.80737
594 | −163.69063 | 26.79377
595 | −163.63712 | 26.77943
596 | −163.58387 | 26.76435
597 | −163.54853 | 26.75389
598 | −163.51331 | 26.74310
599 | −163.46071 | 26.72632
600 | −163.40842 | 26.70881
601 | −163.35645 | 26.69058
602 | −163.30480 | 26.67164
603 | −163.27056 | 26.65861
604 | −163.21948 | 26.63848
605 | −163.16876 | 26.61765
606 | −163.13516 | 26.60337
607 | −163.08506 | 26.58138
608 | −163.03536 | 26.55870
609 | −163.00000 | 26.54202
610 | −163.00000 | 24.11409
611 | −161.74242 | 23.88042
612 | −161.68679 | 23.86839
613 | −161.63210 | 23.85316
614 | −161.57857 | 23.83478
615 | −161.52642 | 23.81332
616 | −161.47586 | 23.78888
617 | −161.42708 | 23.76155
618 | −161.38029 | 23.73144
619 | −161.33566 | 23.69868
620 | −161.29337 | 23.66338
621 | −161.25360 | 23.62570
622 | −161.21650 | 23.58578
623 | −161.18221 | 23.54379
624 | −161.15087 | 23.49989
625 | −161.12260 | 23.45425
626 | −161.09751 | 23.40707
627 | −161.07569 | 23.35851
628 | −161.05724 | 23.30879
629 | −161.04221 | 23.25809
630 | −161.03067 | 23.20662
631 | −161.02266 | 23.15458
632 | −161.01820 | 23.10217
633 | −161.01730 | 23.04961
634 | −161.01998 | 22.99711
635 | −161.02620 | 22.94485
636 | −161.03595 | 22.89307
637 | −161.04919 | 22.84195
638 | −161.06584 | 22.79170
639 | −161.08586 | 22.74252
640 | −161.10915 | 22.69460
641 | −161.13562 | 22.64812
642 | −161.16516 | 22.60327
643 | −161.19766 | 22.56023
644 | −161.23298 | 22.51916
645 | −161.27099 | 22.48022
646 | −161.31153 | 22.44356
647 | −161.35444 | 22.40934
648 | −161.39956 | 22.37767
649 | −161.44671 | 22.34869
650 | −161.49571 | 22.32250
651 | −161.54635 | 22.29922
652 | −161.59846 | 22.27892
653 | −161.65181 | 22.26168
654 | −161.70621 | 22.24758
655 | −161.76145 | 22.23667
656 | −161.81730 | 22.22899
657 | −161.87356 | 22.22458
658 | −161.93000 | 22.22343
659 | −161.98641 | 22.22557
660 | −162.04257 | 22.23099
661 | −162.09826 | 22.23966
662 | −163.00000 | 22.40727
663 | −163.00000 | 19.23458
664 | −163.02954 | 19.26137
665 | −163.05474 | 19.28472
666 | −163.07971 | 19.30831
667 | −163.10443 | 19.33213
668 | −163.12891 | 19.35619
669 | −163.15314 | 19.38047
670 | −163.18902 | 19.41731
671 | −163.21262 | 19.44214
672 | −163.23597 | 19.46720
673 | −163.25906 | 19.49248
674 | −163.28189 | 19.51796
675 | −163.31564 | 19.55659
676 | −163.33781 | 19.58261
677 | −163.35971 | 19.60883
678 | −163.38134 | 19.63525
679 | −163.41328 | 19.67526
680 | −163.43423 | 19.70218
681 | −163.45490 | 19.72929
682 | −163.47678 | 19.75859
683 | −163.49689 | 19.78608
684 | −163.51671 | 19.81376
685 | −163.54591 | 19.85562
686 | −163.56501 | 19.88376
687 | −163.58383 | 19.91207
688 | −163.60235 | 19.94056
689 | −163.62957 | 19.98361
690 | −163.64735 | 20.01252
691 | −163.66483 | 20.04159
692 | −163.68201 | 20.07083
693 | −163.69888 | 20.10022
694 | −163.71545 | 20.12977
695 | −163.73841 | 20.17192
696 | −163.75664 | 20.18197
697 | −163.78708 | 20.19906
698 | −163.81734 | 20.21644
699 | −163.84743 | 20.23409
700 | −163.87734 | 20.25202
701 | −163.90706 | 20.27022
702 | −163.93659 | 20.28870
703 | −163.95588 | 20.30099
704 | −163.98535 | 20.29532
705 | −164.02014 | 20.28893
706 | −164.07244 | 20.27996
707 | −164.12487 | 20.27171
708 | −164.17742 | 20.26419
709 | −164.23008 | 20.25739
710 | −164.28284 | 20.25133
711 | −164.33569 | 20.24599
712 | −164.38861 | 20.24139
713 | −164.44159 | 20.23752
714 | −164.49463 | 20.23438
715 | −164.54771 | 20.23197
716 | −164.58106 | 20.23084
717 | −164.60571 | 20.23016
718 | −164.65884 | 20.22922
719 | −164.71217 | 20.22902
720 | −164.74760 | 20.22929
721 | −164.78302 | 20.22990
722 | −164.83614 | 20.23141
723 | −164.88922 | 20.23366
724 | −164.92459 | 20.23557
725 | −164.97761 | 20.23904
726 | −165.01292 | 20.24176
727 | −165.04914 | 20.24489
728 | −165.10201 | 20.25007
729 | −165.13720 | 20.25393
730 | −165.18992 | 20.26033
731 | −165.24253 | 20.26745
732 | −165.27754 | 20.27261
733 | −165.31250 | 20.27808
734 | −165.36483 | 20.28690
735 | −165.41702 | 20.29644
736 | −165.45173 | 20.30321
737 | −165.50401 | 20.31402
738 | −165.54798 | 20.32372
739 | −165.60124 | 20.31609
740 | −165.65391 | 20.30930
741 | −165.70669 | 20.30323
742 | −165.75955 | 20.29790
743 | −165.81249 | 20.29329
744 | −165.86549 | 20.28942
745 | −165.91855 | 20.28628
746 | −165.97164 | 20.28388
747 | −166.02477 | 20.28221
748 | −166.07792 | 20.28127
749 | −166.13108 | 20.28107
750 | −166.18423 | 20.28161
751 | −166.23737 | 20.28287
752 | −166.29049 | 20.28488
753 | −166.34357 | 20.28762
754 | −166.36478 | 20.28892
755 | −166.39682 | 20.29110
756 | −166.43214 | 20.29382
757 | −166.48507 | 20.29852
758 | −166.52032 | 20.30205
759 | −166.57311 | 20.30796
760 | −166.61798 | 20.31350
761 | −166.65308 | 20.31816
762 | −166.70563 | 20.32577
763 | −166.74060 | 20.33125
764 | −166.77552 | 20.33705
765 | −166.82777 | 20.34635
766 | −166.87988 | 20.35637
767 | −166.91453 | 20.36345
768 | −166.94911 | 20.37085
769 | −166.99267 | 20.38061
770 | −167.02709 | 20.38865
771 | −167.07857 | 20.40130
772 | −167.11278 | 20.41012
773 | −167.14689 | 20.41926
774 | −167.19433 | 20.43226
775 | −167.22830 | 20.44187
776 | −167.26218 | 20.45180
777 | −167.29596 | 20.46203
778 | −167.32963 | 20.47258
779 | −167.36319 | 20.48344
780 | −167.39664 | 20.49460
781 | −167.44659 | 20.51193
782 | −167.47975 | 20.52386
783 | −167.51278 | 20.53610
784 | −167.54695 | 20.54912
785 | −167.57973 | 20.56197
786 | −167.61238 | 20.57511
787 | −167.64489 | 20.58856
788 | −167.67726 | 20.60230
789 | −167.70949 | 20.61635
790 | −167.74158 | 20.63068
791 | −167.77351 | 20.64532
792 | −167.80530 | 20.66024
793 | −167.83694 | 20.67546
794 | −167.86841 | 20.69097
795 | −167.91533 | 20.71478
796 | −167.94640 | 20.73101
797 | −167.97731 | 20.74752
798 | −168.00804 | 20.76432
799 | −168.03861 | 20.78140
800 | −168.08412 | 20.80755
801 | −168.11424 | 20.82533
802 | −168.14417 | 20.84338
803 | −168.17392 | 20.86172
804 | −168.20348 | 20.88032
805 | −168.24746 | 20.90873
806 | −168.27653 | 20.92801
807 | −168.31977 | 20.95743
808 | −168.36255 | 20.98744
809 | −168.40487 | 21.01804
810 | −168.43282 | 21.03877
811 | −168.47433 | 21.07033
812 | −168.50174 | 21.09169
813 | −168.54244 | 21.12420
814 | −168.58263 | 21.15727
815 | −168.62230 | 21.19089
816 | −168.66145 | 21.22506
817 | −168.68726 | 21.24813
818 | −168.71283 | 21.27145
819 | −168.75073 | 21.30685
820 | −168.77569 | 21.33074
821 | −168.81266 | 21.36701
822 | −168.83700 | 21.39147
823 | −168.87302 | 21.42858
824 | −168.90847 | 21.46618
825 | −168.93178 | 21.49152
826 | −168.96624 | 21.52992
827 | −168.99177 | 21.55913
828 | −169.02276 | 21.59546
829 | −169.04473 | 21.62184
830 | −169.07716 | 21.66178
831 | −169.09844 | 21.68866
832 | −169.12982 | 21.72934
833 | −169.15039 | 21.75669
834 | −169.18071 | 21.79808
835 | −169.20232 | 21.82840
836 | −169.21703 | 21.84743
837 | −169.23883 | 21.85466
838 | −169.27247 | 21.86611
839 | −169.32272 | 21.88387
840 | −169.37269 | 21.90231
841 | −169.42237 | 21.92143
842 | −169.47175 | 21.94123
843 | −169.52083 | 21.96170
844 | −169.56958 | 21.98284
845 | −169.61800 | 22.00464
846 | −169.66608 | 22.02710
847 | −169.71382 | 22.05022
848 | −169.76119 | 22.07399
849 | −169.80819 | 22.09840
850 | −169.85481 | 22.12345
851 | −169.90103 | 22.14914
852 | −169.94686 | 22.17546
853 | −169.97718 | 22.19335
854 | −170.00653 | 22.21103
855 | −170.05123 | 22.20415
856 | −170.08671 | 22.19907
857 | −170.12225 | 22.19430
858 | −170.15783 | 22.18987
859 | −170.19345 | 22.18575
860 | −170.22911 | 22.18196
861 | −170.28268 | 22.17688
862 | −170.31843 | 22.17390
863 | −170.35421 | 22.17125
864 | −170.39001 | 22.16891
865 | −170.42584 | 22.16691
866 | −170.46169 | 22.16523
867 | −170.51548 | 22.16332
868 | −170.55136 | 22.16245
869 | −170.58725 | 22.16191
870 | −170.62314 | 22.16170
871 | −170.65929 | 22.16181
872 | −170.69518 | 22.16224
873 | −170.73106 | 22.16301
874 | −170.76693 | 22.16410
875 | −170.80279 | 22.16551
876 | −170.83863 | 22.16725
877 | −170.89236 | 22.17047
878 | −170.92815 | 22.17302
879 | −170.96391 | 22.17590
880 | −170.99964 | 22.17910
881 | −171.03533 | 22.18262
882 | −171.07099 | 22.18647
883 | −171.12440 | 22.19286
884 | −171.15995 | 22.19751
885 | −171.19545 | 22.20249
886 | −171.23089 | 22.20780
887 | −171.28396 | 22.21635
888 | −171.33689 | 22.22563
889 | −171.38967 | 22.23563
890 | −171.42477 | 22.24269
891 | −171.47727 | 22.25389
892 | −171.52961 | 22.26579
893 | −171.58175 | 22.27841
894 | −171.63370 | 22.29174
895 | −171.68543 | 22.30577
896 | −171.73694 | 22.32050
897 | −171.78823 | 22.33594
898 | −171.83927 | 22.35207
899 | −171.89005 | 22.36889
900 | −171.94057 | 22.38641
901 | −171.99082 | 22.40461
902 | −172.03998 | 22.42318
903 | −172.09233 | 22.42751
904 | −172.12811 | 22.43088
905 | −172.18170 | 22.43653
906 | −172.21738 | 22.44070
907 | −172.25302 | 22.44519
908 | −172.28861 | 22.45001
909 | −172.32414 | 22.45515
910 | −172.37735 | 22.46346
911 | −172.41274 | 22.46941
912 | −172.46572 | 22.47892
913 | −172.50095 | 22.48566
914 | −172.55367 | 22.49638
915 | −172.58872 | 22.50392
916 | −172.64114 | 22.51582
917 | −172.67599 | 22.52415
918 | −172.71075 | 22.53279
919 | −172.76272 | 22.54635
920 | −172.79725 | 22.55578
921 | −172.83168 | 22.56552
922 | −172.86601 | 22.57558
923 | −172.90023 | 22.58594
924 | −172.95136 | 22.60207
925 | −172.98531 | 22.61320
926 | −173.03602 | 22.63048
927 | −173.08645 | 22.64845
928 | −173.11992 | 22.66081
929 | −173.15325 | 22.67347
930 | −173.18646 | 22.68643
931 | −173.23601 | 22.70643
932 | −173.26888 | 22.72014
933 | −173.30160 | 22.73415
934 | −173.34556 | 22.75354
935 | −173.37723 | 22.74830
936 | −173.41276 | 22.74274
937 | −173.44836 | 22.73750
938 | −173.48400 | 22.73258
939 | −173.51970 | 22.72798
940 | −173.55544 | 22.72371
941 | −173.59122 | 22.71976
942 | −173.62704 | 22.71613
943 | −173.66290 | 22.71283
944 | −173.69879 | 22.70985
945 | −173.73471 | 22.70720
946 | −173.77065 | 22.70487
947 | −173.80661 | 22.70286
948 | −173.84260 | 22.70118
949 | −173.87860 | 22.69983
950 | −173.91461 | 22.69880
951 | −173.95063 | 22.69810
952 | −173.98666 | 22.69772
953 | −174.02268 | 22.69767
954 | −174.05871 | 22.69794
955 | −174.09473 | 22.69854
956 | −174.13075 | 22.69947
957 | −174.16675 | 22.70072
958 | −174.20274 | 22.70229
959 | −174.23871 | 22.70419
960 | −174.27466 | 22.70642
961 | −174.31059 | 22.70897
962 | −174.34649 | 22.71185
963 | −174.38235 | 22.71504
964 | −174.41819 | 22.71857
965 | −174.45398 | 22.72242
966 | −174.48974 | 22.72659
967 | −174.52545 | 22.73108
968 | −174.56111 | 22.73589
969 | −174.59672 | 22.74103
970 | −174.63227 | 22.74649
971 | −174.66777 | 22.75227
972 | −174.70321 | 22.75837
973 | −174.73859 | 22.76479
974 | −174.77389 | 22.77153
975 | −174.82672 | 22.78224
976 | −174.86184 | 22.78978
977 | −174.89689 | 22.79763
978 | −174.93185 | 22.80580
979 | −174.96673 | 22.81429
980 | −175.00151 | 22.82309
981 | −175.03621 | 22.83220
982 | −175.07081 | 22.84163
983 | −175.10531 | 22.85136
984 | −175.13972 | 22.86141
985 | −175.17401 | 22.87177
986 | −175.20820 | 22.88244
987 | −175.24228 | 22.89342
988 | −175.27624 | 22.90471
989 | −175.31009 | 22.91630
990 | −175.34381 | 22.92820
991 | −175.37741 | 22.94040
992 | −175.41089 | 22.95290
993 | −175.44423 | 22.96571
994 | −175.47744 | 22.97882
995 | −175.51051 | 22.99222
996 | −175.54345 | 23.00593
997 | −175.57624 | 23.01993
998 | −175.60888 | 23.03422
999 | −175.64138 | 23.04881
1000 | −175.67372 | 23.06370
1001 | −175.70591 | 23.07887
1002 | −175.73795 | 23.09434
1003 | −175.76982 | 23.11009
1004 | −175.81731 | 23.13426
1005 | −175.84877 | 23.15073
1006 | −175.88005 | 23.16748
1007 | −175.91116 | 23.18451
1008 | −175.94209 | 23.20183
1009 | −175.98815 | 23.22832
1010 | −176.01862 | 23.24633
1011 | −176.04891 | 23.26461
1012 | −176.09398 | 23.29254
1013 | −176.12379 | 23.31150
1014 | −176.15339 | 23.33073
1015 | −176.18280 | 23.35022
1016 | −176.21200 | 23.36998
1017 | −176.25542 | 23.40011
1018 | −176.28410 | 23.42052
1019 | −176.31256 | 23.44119
1020 | −176.35486 | 23.47268
1021 | −176.38278 | 23.49399
1022 | −176.41048 | 23.51554
1023 | −176.43795 | 23.53735
1024 | −176.46520 | 23.55940
1025 | −176.50563 | 23.59294
1026 | −176.53229 | 23.61560
1027 | −176.55872 | 23.63850
1028 | −176.59790 | 23.67330
1029 | −176.62372 | 23.69679
1030 | −176.66199 | 23.73246
1031 | −176.68719 | 23.75653
1032 | −176.71213 | 23.78082
1033 | −176.73682 | 23.80534
1034 | −176.76125 | 23.83007
1035 | −176.78542 | 23.85503
1036 | −176.80933 | 23.88021
1037 | −176.83297 | 23.90559
1038 | −176.85635 | 23.93119
1039 | −176.87945 | 23.95700
1040 | −176.90229 | 23.98302
1041 | −176.93602 | 24.02243
1042 | −176.96913 | 24.06229
1043 | −176.99085 | 24.08911
1044 | −177.01229 | 24.11613
1045 | −177.03344 | 24.14334
1046 | −177.06462 | 24.18450
1047 | −177.08505 | 24.21218
1048 | −177.10518 | 24.24004
1049 | −177.12502 | 24.26808
1050 | −177.14456 | 24.29630
1051 | −177.17331 | 24.33895
1052 | −177.19210 | 24.36760
1053 | −177.21058 | 24.39642
1054 | −177.22875 | 24.42540
1055 | −177.25544 | 24.46918
1056 | −177.27284 | 24.49856
1057 | −177.28992 | 24.52810
1058 | −177.30670 | 24.55779
1059 | −177.32315 | 24.58763
1060 | −177.33929 | 24.61762
1061 | −177.36249 | 24.66210
1062 | −177.38606 | 24.67081
1063 | −177.41985 | 24.68359
1064 | −177.45352 | 24.69667
1065 | −177.48704 | 24.71005
1066 | −177.53706 | 24.73067
1067 | −177.57023 | 24.74479
1068 | −177.60325 | 24.75920
1069 | −177.63612 | 24.77391
1070 | −177.66883 | 24.78890
1071 | −177.71760 | 24.81194
1072 | −177.74992 | 24.82767
1073 | −177.78207 | 24.84367
1074 | −177.81404 | 24.85997
1075 | −177.83690 | 24.87185
1076 | −177.88667 | 24.87745
1077 | −177.94111 | 24.88429
1078 | −177.97195 | 24.88850
1079 | −177.99642 | 24.89200
1080 | −178.05062 | 24.90028
1081 | −178.10469 | 24.90929
1082 | −178.14066 | 24.91569
1083 | −178.16577 | 24.92034
1084 | −178.21953 | 24.93078
1085 | −178.27313 | 24.94194
1086 | −178.32655 | 24.95380
1087 | −178.37978 | 24.96637
1088 | −178.43281 | 24.97965
1089 | −178.48563 | 24.99363
1090 | −178.53822 | 25.00832
1091 | −178.59058 | 25.02370
1092 | −178.61445 | 25.03096
1093 | −178.64360 | 25.04005
1094 | −178.67821 | 25.05115
1095 | −178.70077 | 25.05859
1096 | −178.72148 | 25.06052
1097 | −178.75794 | 25.06420
1098 | −178.81257 | 25.07031
1099 | −178.86732 | 25.07718
1100 | −178.90360 | 25.08214
1101 | −178.93984 | 25.08742
1102 | −178.98140 | 25.09383
1103 | −179.01755 | 25.09959
1104 | −179.07166 | 25.10883
1105 | −179.10765 | 25.11539
1106 | −179.14357 | 25.12227
1107 | −179.19731 | 25.13318
1108 | −179.25088 | 25.14480
1109 | −179.28649 | 25.15295
1110 | −179.32201 | 25.16141
1111 | −179.35744 | 25.17018
1112 | −179.38198 | 25.17642
1113 | −179.43515 | 25.19048
1114 | −179.47030 | 25.20018
1115 | −179.50534 | 25.21020
1116 | −179.55771 | 25.22581
1117 | −179.60982 | 25.24211
1118 | −179.66167 | 25.25910
1119 | −179.69609 | 25.27081
1120 | −179.73039 | 25.28283
1121 | −179.76456 | 25.29514
1122 | −179.79860 | 25.30776
1123 | −179.83251 | 25.32068
1124 | −179.86628 | 25.33389
1125 | −179.89991 | 25.34741
1126 | −179.93340 | 25.36122
1127 | −179.96674 | 25.37533
1128 | −180.00000 | 25.38976

Appendix B to Subpart W of Part 922—Coordinates for the Outer Sanctuary Zone

[Coordinates listed in this appendix are unprojected (Geographic) and based on the North American Datum of 1983]

The boundaries for the areas listed in this appendix, unless otherwise described in this rule, begin at Point 1 as indicated in the particular area's coordinate table and continue to each successive point in numerical order until ending at the last point in the table.

Point No. | Longitude | Latitude
1 | 180.00000 | 25.38976
2 | 179.99985 | 25.38982
3 | 179.96681 | 25.40451
4 | 179.93392 | 25.41950
5 | 179.90119 | 25.43477
6 | 179.86863 | 25.45034
7 | 179.83622 | 25.46619
8 | 179.78793 | 25.49050
9 | 179.75595 | 25.50707
10 | 179.72415 | 25.52391
11 | 179.69252 | 25.54104
12 | 179.66108 | 25.55844
13 | 179.62981 | 25.57612
14 | 179.59874 | 25.59408
15 | 179.56786 | 25.61231
16 | 179.53716 | 25.63081
17 | 179.50667 | 25.64959
18 | 179.47637 | 25.66863
19 | 179.44627 | 25.68794
20 | 179.41638 | 25.70751
21 | 179.38670 | 25.72735
22 | 179.35722 | 25.74745
23 | 179.32796 | 25.76781
24 | 179.28448 | 25.79883
25 | 179.25576 | 25.81983
26 | 179.22255 | 25.84463
27 | 179.18175 | 25.87583
28 | 179.15383 | 25.89770
29 | 179.12613 | 25.91982
30 | 179.09868 | 25.94218
31 | 179.07146 | 25.96479
32 | 179.03108 | 25.99915
33 | 179.00447 | 26.02235
34 | 178.97810 | 26.04578
35 | 178.93902 | 26.08137
36 | 178.91329 | 26.10537
37 | 178.88781 | 26.12961
38 | 178.86259 | 26.15407
39 | 178.82525 | 26.19117
40 | 178.80068 | 26.21618
41 | 178.77639 | 26.24141
42 | 178.75236 | 26.26685
43 | 178.71684 | 26.30540
44 | 178.69349 | 26.33136
45 | 178.65901 | 26.37068
46 | 178.63637 | 26.39715
47 | 178.61378 | 26.42409
48 | 178.59171 | 26.45096
49 | 178.56993 | 26.47801
50 | 178.54844 | 26.50526
51 | 178.52724 | 26.53270
52 | 178.49600 | 26.57420
53 | 178.46544 | 26.61611
54 | 178.44544 | 26.64427
55 | 178.41601 | 26.68685
56 | 178.39677 | 26.71544
57 | 178.37784 | 26.74421
58 | 178.35922 | 26.77314
59 | 178.34092 | 26.80223
60 | 178.30653 | 26.85803
61 | 178.28885 | 26.88744
62 | 178.26293 | 26.93184
63 | 178.24606 | 26.96164
64 | 178.22951 | 26.99158
65 | 178.21329 | 27.02166
66 | 178.19632 | 27.05394
67 | 178.17402 | 27.09775
68 | 178.15895 | 27.12831
69 | 178.14422 | 27.15901
70 | 178.12274 | 27.20530
71 | 178.10884 | 27.23631
72 | 178.08864 | 27.28305
73 | 178.06920 | 27.33006
74 | 178.05667 | 27.36154
75 | 178.03853 | 27.40896
76 | 178.02687 | 27.44071
77 | 178.01003 | 27.48851
78 | 177.99924 | 27.52051
79 | 177.98881 | 27.55259
80 | 177.97873 | 27.58477
81 | 177.96901 | 27.61703
82 | 177.95509 | 27.66559
83 | 177.94198 | 27.71432
84 | 177.93368 | 27.74690
85 | 177.92568 | 27.77984
86 | 177.91811 | 27.81256
87 | 177.90744 | 27.86176
88 | 177.90079 | 27.89464
89 | 177.89149 | 27.94406
90 | 177.88574 | 27.97707
91 | 177.88037 | 28.01014
92 | 177.87300 | 28.05982
93 | 177.86647 | 28.10958
94 | 177.86258 | 28.14281
95 | 177.85744 | 28.19271
96 | 177.85448 | 28.22601
97 | 177.85073 | 28.27601
98 | 177.84871 | 28.30936
99 | 177.84706 | 28.34273
100 | 177.84529 | 28.39281
101 | 177.84437 | 28.44291
102 | 177.84422 | 28.47631
103 | 177.84445 | 28.50971
104 | 177.84551 | 28.55981
105 | 177.84670 | 28.59348
106 | 177.84844 | 28.63098
107 | 177.85148 | 28.68101
108 | 177.85399 | 28.71434
109 | 177.85761 | 28.75561
110 | 177.86197 | 28.79830
111 | 177.86786 | 28.84813
112 | 177.87226 | 28.88131
113 | 177.87543 | 28.90359
114 | 177.87967 | 28.93174
115 | 177.88514 | 28.96554
116 | 177.89133 | 29.00123
117 | 177.90063 | 29.05066
118 | 177.90735 | 29.08379
119 | 177.91806 | 29.13300
120 | 177.92568 | 29.16572
121 | 177.93780 | 29.21468
122 | 177.94636 | 29.24723
123 | 177.95989 | 29.29590
124 | 177.96959 | 29.32896
125 | 177.97946 | 29.36123
126 | 177.98970 | 29.39340
127 | 178.00575 | 29.44148
128 | 178.01692 | 29.47341
129 | 178.03438 | 29.52113
130 | 178.04647 | 29.55280
131 | 178.06531 | 29.60012
132 | 178.08497 | 29.64717
133 | 178.09853 | 29.67840
134 | 178.11268 | 29.71000
135 | 178.13426 | 29.75642
136 | 178.15665 | 29.80255
137 | 178.17203 | 29.83313
138 | 178.19577 | 29.87875
139 | 178.21216 | 29.90921
140 | 178.22879 | 29.93930
141 | 178.25439 | 29.98416
142 | 178.27525 | 30.01949
143 | 178.29311 | 30.04905
144 | 178.31861 | 30.09002
145 | 178.34009 | 30.12350
146 | 178.35931 | 30.15271
147 | 178.38857 | 30.19588
148 | 178.41018 | 30.22681
149 | 178.43934 | 30.26737
150 | 178.47063 | 30.30946
151 | 178.49239 | 30.33792
152 | 178.51400 | 30.36556
153 | 178.54703 | 30.40666
154 | 178.57973 | 30.44608
155 | 178.60482 | 30.47552
156 | 178.62805 | 30.50217
157 | 178.65341 | 30.53062
158 | 178.68811 | 30.56854
159 | 178.71589 | 30.59815
160 | 178.75298 | 30.63662
161 | 178.77809 | 30.66199
162 | 178.80351 | 30.68714
163 | 178.84220 | 30.72443
164 | 178.88157 | 30.76121
165 | 178.90818 | 30.78543
166 | 178.94864 | 30.82133
167 | 178.97598 | 30.84496
168 | 179.00360 | 30.86835
169 | 179.04556 | 30.90298
170 | 179.07393 | 30.92578
171 | 179.11693 | 30.95947
172 | 179.14594 | 30.98161
173 | 179.18995 | 31.01433
174 | 179.21963 | 31.03582
175 | 179.26462 | 31.06757
176 | 179.29516 | 31.08855
177 | 179.34112 | 31.11929
178 | 179.38763 | 31.14941
179 | 179.41894 | 31.16915
180 | 179.45050 | 31.18861
181 | 179.49827 | 31.21728
182 | 179.54657 | 31.24532
183 | 179.57905 | 31.26365
184 | 179.61792 | 31.28512
185 | 179.65085 | 31.30287
186 | 179.70065 | 31.32895
187 | 179.73411 | 31.34597
188 | 179.77707 | 31.36728
189 | 179.81095 | 31.38371
190 | 179.86214 | 31.40779
191 | 179.89652 | 31.42346
192 | 179.94844 | 31.44640
193 | 179.98329 | 31.46131
194 | −180.00000 | 31.46823
195 | −179.96410 | 31.48309
196 | −179.92880 | 31.49723
197 | −179.89333 | 31.51105
198 | −179.83980 | 31.53119
199 | −179.78591 | 31.55062
200 | −179.74978 | 31.56318
201 | −179.71350 | 31.57542
202 | −179.65880 | 31.59317
203 | −179.62215 | 31.60460
204 | −179.56691 | 31.62114
205 | −179.51138 | 31.63695
206 | −179.47371 | 31.64721
207 | −179.41770 | 31.66178
208 | −179.38021 | 31.67109
209 | −179.33210 | 31.68252
210 | −179.28243 | 31.69383
211 | −179.23675 | 31.70369
212 | −179.19878 | 31.71149
213 | −179.16071 | 31.71896
214 | −179.10344 | 31.72953
215 | −179.06516 | 31.73615
216 | −179.00758 | 31.74546
217 | −178.94983 | 31.75399
218 | −178.90738 | 31.75980
219 | −178.86874 | 31.76473
220 | −178.82975 | 31.76934
221 | −178.79099 | 31.77358
222 | −178.75218 | 31.77748
223 | −178.71331 | 31.78104
224 | −178.67441 | 31.78425
225 | −178.63547 | 31.78712
226 | −178.59650 | 31.78964
227 | −178.55749 | 31.79182
228 | −178.51846 | 31.79366
229 | −178.47941 | 31.79515
230 | −178.43412 | 31.79649
231 | −178.39504 | 31.79729
232 | −178.35596 | 31.79775
233 | −178.32396 | 31.79786
234 | −178.28487 | 31.79769
235 | −178.24552 | 31.79717
236 | −178.20645 | 31.79631
237 | −178.16738 | 31.79510
238 | −178.12834 | 31.79355
239 | −178.08931 | 31.79165
240 | −178.05031 | 31.78940
241 | −178.01134 | 31.78682
242 | −177.97241 | 31.78389
243 | −177.93351 | 31.78061
244 | −177.89466 | 31.77699
245 | −177.85585 | 31.77303
246 | −177.81646 | 31.76865
247 | −177.77776 | 31.76401
248 | −177.73912 | 31.75902
249 | −177.70055 | 31.75369
250 | −177.66205 | 31.74802
251 | −177.62362 | 31.74202
252 | −177.58526 | 31.73567
253 | −177.54140 | 31.72800
254 | −177.50321 | 31.72097
255 | −177.46512 | 31.71361
256 | −177.42712 | 31.70592
257 | −177.38921 | 31.69788
258 | −177.35141 | 31.68952
259 | −177.31372 | 31.68082
260 | −177.27613 | 31.67179
261 | −177.23866 | 31.66242
262 | −177.20131 | 31.65273
263 | −177.16094 | 31.64185
264 | −177.12384 | 31.63150
265 | −177.08687 | 31.62082
266 | −177.04995 | 31.60978
267 | −176.99406 | 31.60543
268 | −176.95227 | 31.60174
269 | −176.91351 | 31.59795
270 | −176.87481 | 31.59382
271 | −176.83616 | 31.58934
272 | −176.79756 | 31.58453
273 | −176.73979 | 31.57666
274 | −176.70136 | 31.57100
275 | −176.66300 | 31.56499
276 | −176.60561 | 31.55534
277 | −176.56718 | 31.54844
278 | −176.52911 | 31.54125
279 | −176.49114 | 31.53372
280 | −176.45325 | 31.52586
281 | −176.41282 | 31.51708
282 | −176.37095 | 31.50759
283 | −176.33338 | 31.49873
284 | −176.29414 | 31.48910
285 | −176.23818 | 31.47469
286 | −176.20102 | 31.46467
287 | −176.14552 | 31.44902
288 | −176.10869 | 31.43818
289 | −176.07199 | 31.42701
290 | −176.03543 | 31.41553
291 | −175.99902 | 31.40371
292 | −175.94468 | 31.38539
293 | −175.90865 | 31.37278
294 | −175.87278 | 31.35985
295 | −175.83644 | 31.34637
296 | −175.80089 | 31.33281
297 | −175.76551 | 31.31893
298 | −175.72777 | 31.30370
299 | −175.67361 | 31.30264
300 | −175.62462 | 31.30118
301 | −175.58577 | 31.29962
302 | −175.56300 | 31.29856
303 | −175.50480 | 31.29533
304 | −175.44667 | 31.29132
305 | −175.38861 | 31.28654
306 | −175.33066 | 31.28099
307 | −175.27281 | 31.27467
308 | −175.21509 | 31.26757
309 | −175.15434 | 31.25928
310 | −175.10019 | 31.25117
311 | −175.05021 | 31.24316
312 | −174.99307 | 31.23327
313 | −174.93613 | 31.22261
314 | −174.87938 | 31.21120
315 | −174.82112 | 31.19865
316 | −174.78357 | 31.19012
317 | −174.74613 | 31.18126
318 | −174.69017 | 31.16735
319 | −174.65301 | 31.15766
320 | −174.61598 | 31.14765
321 | −174.57907 | 31.13730
322 | −174.54229 | 31.12663
323 | −174.48737 | 31.11001
324 | −174.43277 | 31.09266
325 | −174.39656 | 31.08069
326 | −174.36049 | 31.06840
327 | −174.32457 | 31.05579
328 | −174.28881 | 31.04287
329 | −174.25322 | 31.02962
330 | −174.21779 | 31.01607
331 | −174.16782 | 30.99630
332 | −174.12317 | 30.97807
333 | −174.08835 | 30.96342
334 | −174.03646 | 30.94087
335 | −174.00210 | 30.92545
336 | −173.95092 | 30.90176
337 | −173.91394 | 30.88410
338 | −173.88027 | 30.86763
339 | −173.83014 | 30.84236
340 | −173.79699 | 30.82515
341 | −173.74828 | 30.79912
342 | −173.71286 | 30.77965
343 | −173.67333 | 30.75735
344 | −173.63202 | 30.73338
345 | −173.60020 | 30.71444
346 | −173.56860 | 30.69522
347 | −173.52165 | 30.66586
348 | −173.49065 | 30.64594
349 | −173.45306 | 30.62120
350 | −173.40817 | 30.59091
351 | −173.37804 | 30.57004
352 | −173.34479 | 30.54651
353 | −173.30046 | 30.51431
354 | −173.25673 | 30.48153
355 | −173.22791 | 30.45935
356 | −173.19936 | 30.43692
357 | −173.15960 | 30.40490
358 | −173.12000 | 30.37227
359 | −173.09241 | 30.34897
360 | −173.06512 | 30.32542
361 | −173.02470 | 30.28965
362 | −172.98494 | 30.25335
363 | −172.95880 | 30.22886
364 | −172.93295 | 30.20413
365 | −172.89474 | 30.16662
366 | −172.85721 | 30.12860
367 | −172.83096 | 30.10131
368 | −172.79458 | 30.06247
369 | −172.77072 | 30.03631
370 | −172.74717 | 30.00995
371 | −172.71244 | 29.97001
372 | −172.67843 | 29.92961
373 | −172.65616 | 29.90243
374 | −172.62336 | 29.86129
375 | −172.60190 | 29.83362
376 | −172.57892 | 29.80334
377 | −172.55812 | 29.77530
378 | −172.52756 | 29.73290
379 | −172.50760 | 29.70441
380 | −172.48798 | 29.67574
381 | −172.46870 | 29.64690
382 | −172.44976 | 29.61789
383 | −172.42200 | 29.57406
384 | −172.40392 | 29.54464
385 | −172.37746 | 29.50021
386 | −172.35178 | 29.45544
387 | −172.33510 | 29.42540
388 | −172.31074 | 29.38007
389 | −172.29495 | 29.34967
390 | −172.27193 | 29.30382
391 | −172.25702 | 29.27308
392 | −172.23535 | 29.22673
393 | −172.22135 | 29.19567
394 | −172.20103 | 29.14885
395 | −172.18794 | 29.11749
396 | −172.18269 | 29.10461
397 | −172.14425 | 29.10857
398 | −172.10644 | 29.11211
399 | −172.06858 | 29.11531
400 | −172.01172 | 29.11948
401 | −171.95480 | 29.12286
402 | −171.91682 | 29.12469
403 | −171.87882 | 29.12618
404 | −171.82179 | 29.12776
405 | −171.78376 | 29.12839
406 | −171.73360 | 29.12869
407 | −171.67655 | 29.12830
408 | −171.63852 | 29.12761
409 | −171.60049 | 29.12658
410 | −171.54349 | 29.12439
411 | −171.50552 | 29.12250
412 | −171.45928 | 29.11977
413 | −171.42136 | 29.11719
414 | −171.38347 | 29.11427
415 | −171.32671 | 29.10925
416 | −171.28892 | 29.10547
417 | −171.25118 | 29.10135
418 | −171.21350 | 29.09689
419 | −171.17551 | 29.09204
420 | −171.13794 | 29.08690
421 | −171.10043 | 29.08142
422 | −171.04430 | 29.07256
423 | −171.00697 | 29.06623
424 | −170.96972 | 29.05956
425 | −170.93255 | 29.05256
426 | −170.89547 | 29.04522
427 | −170.85848 | 29.03755
428 | −170.82159 | 29.02954
429 | −170.78479 | 29.02120
430 | −170.74809 | 29.01253
431 | −170.69325 | 28.99890
432 | −170.65683 | 28.98940
433 | −170.60242 | 28.97453
434 | −170.56630 | 28.96421
435 | −170.53030 | 28.95356
436 | −170.49444 | 28.94259
437 | −170.44089 | 28.92552
438 | −170.40537 | 28.91374
439 | −170.36999 | 28.90164
440 | −170.33476 | 28.88922
441 | −170.29968 | 28.87648
442 | −170.24735 | 28.85678
443 | −170.21266 | 28.84325
444 | −170.16441 | 28.82380
445 | −170.11868 | 28.81843
446 | −170.06241 | 28.81110
447 | −170.00627 | 28.80301
448 | −169.95029 | 28.79415
449 | −169.89448 | 28.78454
450 | −169.85736 | 28.77770
451 | −169.80186 | 28.76683
452 | −169.74655 | 28.75519
453 | −169.69147 | 28.74281
454 | −169.63661 | 28.72968
455 | −169.60017 | 28.72051
456 | −169.54573 | 28.70614
457 | −169.49155 | 28.69103
458 | −169.45559 | 28.68055
459 | −169.40188 | 28.66422
460 | −169.34847 | 28.64716
461 | −169.29538 | 28.62937
462 | −169.24262 | 28.61087
463 | −169.19019 | 28.59165
464 | −169.13811 | 28.57172
465 | −169.08640 | 28.55108
466 | −169.03506 | 28.52974
467 | −169.00106 | 28.51513
468 | −168.95037 | 28.49264
469 | −168.90010 | 28.46945
470 | −168.85025 | 28.44559
471 | −168.81726 | 28.42931
472 | −168.76813 | 28.40432
473 | −168.71946 | 28.37867
474 | −168.67125 | 28.35237
475 | −168.62352 | 28.32541
476 | −168.58344 | 28.30203
477 | −168.53902 | 28.30813
478 | −168.48296 | 28.31510
479 | −168.42677 | 28.32131
480 | −168.37049 | 28.32675
481 | −168.33291 | 28.32995
482 | −168.27648 | 28.33411
483 | −168.21998 | 28.33750
484 | −168.16342 | 28.34011
485 | −168.10683 | 28.34195
486 | −168.05021 | 28.34302
487 | −168.00043 | 28.34332
488 | −167.94380 | 28.34293
489 | −167.88718 | 28.34177
490 | −167.83059 | 28.33984
491 | −167.77404 | 28.33713
492 | −167.73621 | 28.33489
493 | −167.67976 | 28.33089
494 | −167.62339 | 28.32613
495 | −167.56712 | 28.32059
496 | −167.51095 | 28.31429
497 | −167.45490 | 28.30722
498 | −167.39898 | 28.29939
499 | −167.34321 | 28.29079
500 | −167.30612 | 28.28464
501 | −167.25063 | 28.27477
502 | −167.21374 | 28.26778
503 | −167.15856 | 28.25665
504 | −167.10359 | 28.24478
505 | −167.04883 | 28.23215
506 | −166.99432 | 28.21878
507 | −166.94004 | 28.20466
508 | −166.88603 | 28.18981
509 | −166.85017 | 28.17950
510 | −166.81444 | 28.16886
511 | −166.79269 | 28.16221
512 | −166.76001 | 28.15196
513 | −166.72461 | 28.14051
514 | −166.68934 | 28.12874
515 | −166.65422 | 28.11665
516 | −166.61924 | 28.10424
517 | −166.58441 | 28.09152
518 | −166.54974 | 28.07847
519 | −166.51522 | 28.06511
520 | −166.48086 | 28.05144
521 | −166.42964 | 28.03034
522 | −166.39570 | 28.01589
523 | −166.36193 | 28.00113
524 | −166.31162 | 27.97842
525 | −166.27830 | 27.96290
526 | −166.24517 | 27.94707
527 | −166.21223 | 27.93095
528 | −166.17948 | 27.91452
529 | −166.14693 | 27.89780
530 | −166.11458 | 27.88078
531 | −166.06622 | 27.85459
532 | −166.03438 | 27.83684
533 | −166.00275 | 27.81881
534 | −165.97134 | 27.80048
535 | −165.94014 | 27.78187
536 | −165.90917 | 27.76298
537 | −165.87842 | 27.74381
538 | −165.83251 | 27.71439
539 | −165.80234 | 27.69452
540 | −165.77240 | 27.67438
541 | −165.74242 | 27.65378
542 | −165.71296 | 27.63310
543 | −165.68375 | 27.61215
544 | −165.65478 | 27.59094
545 | −165.62607 | 27.56946
546 | −165.59760 | 27.54773
547 | −165.56939 | 27.52573
548 | −165.54144 | 27.50348
549 | −165.50001 | 27.46963
550 | −165.47272 | 27.44675
551 | −165.44570 | 27.42363
552 | −165.41895 | 27.40026
553 | −165.39248 | 27.37664
554 | −165.36628 | 27.35279
555 | −165.34036 | 27.32870
556 | −165.30201 | 27.29213
557 | −165.27680 | 27.26746
558 | −165.25188 | 27.24255
559 | −165.21504 | 27.20478
560 | −165.19085 | 27.17932
561 | −165.16695 | 27.15365
562 | −165.14335 | 27.12775
563 | −165.12006 | 27.10165
564 | −165.09707 | 27.07533
565 | −165.07732 | 27.05226
566 | −165.03132 | 27.03829
567 | −164.99614 | 27.02718
568 | −164.96109 | 27.01574
569 | −164.90877 | 26.99799
570 | −164.85677 | 26.97951
571 | −164.82201 | 26.96670
572 | −164.70700 | 26.92271
573 | −164.68299 | 26.92268
574 | −164.64572 | 26.92233
575 | −164.58983 | 26.92118
576 | −164.55259 | 26.91997
577 | −164.51536 | 26.91843
578 | −164.45955 | 26.91547
579 | −164.40380 | 26.91174
580 | −164.34813 | 26.90724
581 | −164.29254 | 26.90197
582 | −164.25554 | 26.89803
583 | −164.21858 | 26.89375
584 | −164.16325 | 26.88669
585 | −164.10804 | 26.87887
586 | −164.05299 | 26.87029
587 | −164.01637 | 26.86414
588 | −163.97983 | 26.85766
589 | −163.92516 | 26.84731
590 | −163.87068 | 26.83620
591 | −163.81641 | 26.82434
592 | −163.78034 | 26.81602
593 | −163.74438 | 26.80737
594 | −163.69063 | 26.79377
595 | −163.63712 | 26.77943
596 | −163.58387 | 26.76435
597 | −163.54853 | 26.75389
598 | −163.51331 | 26.74311
599 | −163.46071 | 26.72632
600 | −163.40842 | 26.70881
601 | −163.35645 | 26.69058
602 | −163.30480 | 26.67164
603 | −163.27056 | 26.65861
604 | −163.21948 | 26.63848
605 | −163.16876 | 26.61765
606 | −163.13516 | 26.60338
607 | −163.08506 | 26.58138
608 | −163.03536 | 26.55870
609 | −163.00000 | 26.54202
610 | −163.00000 | 24.11409
611 | −164.53740 | 24.39976
612 | −165.58333 | 24.59413
613 | −166.05600 | 24.68197
614 | −166.75000 | 25.17393
615 | −167.32998 | 25.58506
616 | −167.44143 | 25.66407
617 | −167.61200 | 25.78498
618 | −167.80596 | 25.81664
619 | −167.96475 | 25.84257
620 | −170.38404 | 26.23759
621 | −171.41934 | 26.55588
622 | −171.45849 | 26.56791
623 | −171.51400 | 26.58498
624 | −171.56405 | 26.59157
625 | −171.62846 | 26.60005
626 | −173.51320 | 26.84822
627 | −175.00000 | 28.26784
628 | −175.17766 | 28.43748
629 | −175.32900 | 28.58198
630 | −175.57260 | 28.64457
631 | −175.59127 | 28.64937
632 | −177.12157 | 29.04257
633 | −177.20130 | 29.05797
634 | −178.14636 | 29.24060
635 | −178.20545 | 29.24908
636 | −178.26503 | 29.25427
637 | −178.32487 | 29.25614
638 | −178.38473 | 29.25468
639 | −178.44436 | 29.24991
640 | −178.50352 | 29.24183
641 | −178.56197 | 29.23049
642 | −178.61949 | 29.21593
643 | −178.67583 | 29.19820
644 | −178.73077 | 29.17738
645 | −178.78409 | 29.15356
646 | −178.83557 | 29.12682
647 | −178.88501 | 29.09728
648 | −178.93222 | 29.06506
649 | −178.97700 | 29.03028
650 | −179.01917 | 28.99308
651 | −179.05858 | 28.95361
652 | −179.09506 | 28.91204
653 | −179.12848 | 28.86852
654 | −179.15870 | 28.82324
655 | −179.18560 | 28.77636
656 | −179.20909 | 28.72809
657 | −179.22907 | 28.67861
658 | −179.24548 | 28.62811
659 | −179.25824 | 28.57681
660 | −179.26732 | 28.52490
661 | −179.27269 | 28.47258
662 | −179.27400 | 28.43037
663 | −179.27432 | 28.42008
664 | −179.27400 | 28.41208
665 | −179.27222 | 28.36758
666 | −179.26640 | 28.31530
667 | −179.25689 | 28.26345
668 | −179.24374 | 28.21223
669 | −179.22699 | 28.16184
670 | −179.20673 | 28.11247
671 | −179.18302 | 28.06433
672 | −179.15598 | 28.01760
673 | −179.12572 | 27.97246
674 | −179.09234 | 27.92909
675 | −179.05599 | 27.88765
676 | −179.01681 | 27.84832
677 | −178.97496 | 27.81123
678 | −178.93061 | 27.77654
679 | −178.88391 | 27.74438
680 | −178.83507 | 27.71488
681 | −178.78427 | 27.68814
682 | −178.73170 | 27.66428
683 | −178.67758 | 27.64338
684 | −178.62211 | 27.62552
685 | −178.56551 | 27.61078
686 | −178.49843 | 27.59784
687 | −177.55523 | 27.41586
688 | −176.49794 | 27.24611
689 | −175.00000 | 25.83069
690 | −174.41400 | 25.27697
691 | −171.83651 | 24.93729
692 | −170.86958 | 24.62936
693 | −170.83964 | 24.61983
694 | −170.79300 | 24.60497
695 | −170.73999 | 24.59633
696 | −168.38105 | 24.21167
697 | −168.38083 | 24.21163
698 | −168.38072 | 24.21155
699 | −166.79085 | 23.09144
700 | −166.75000 | 23.06265
701 | −166.60000 | 22.95697
702 | −166.38872 | 22.93221
703 | −166.32723 | 22.92501
704 | −165.58333 | 22.83782
705 | −164.86038 | 22.75309
706 | −163.00000 | 22.40727
707 | −163.00000 | 19.23458
708 | −163.02954 | 19.26137
709 | −163.05474 | 19.28472
710 | −163.07970 | 19.30831
711 | −163.10443 | 19.33213
712 | −163.12891 | 19.35619
713 | −163.15314 | 19.38047
714 | −163.18902 | 19.41731
715 | −163.21262 | 19.44214
716 | −163.23597 | 19.46720
717 | −163.25906 | 19.49247
718 | −163.28189 | 19.51796
719 | −163.31564 | 19.55659
720 | −163.33781 | 19.58261
721 | −163.35971 | 19.60883
722 | −163.38134 | 19.63525
723 | −163.41328 | 19.67526
724 | −163.43423 | 19.70218
725 | −163.45489 | 19.72929
726 | −163.47678 | 19.75859
727 | −163.49689 | 19.78608
728 | −163.51671 | 19.81376
729 | −163.54591 | 19.85563
730 | −163.56501 | 19.88376
731 | −163.58383 | 19.91207
732 | −163.60235 | 19.94056
733 | −163.62957 | 19.98361
734 | −163.64735 | 20.01252
735 | −163.66483 | 20.04159
736 | −163.68201 | 20.07082
737 | −163.69888 | 20.10022
738 | −163.71545 | 20.12977
739 | −163.73841 | 20.17193
740 | −163.75664 | 20.18197
741 | −163.78708 | 20.19906
742 | −163.81734 | 20.21644
743 | −163.84743 | 20.23409
744 | −163.87734 | 20.25202
745 | −163.90706 | 20.27023
746 | −163.93659 | 20.28870
747 | −163.95588 | 20.30099
748 | −163.98535 | 20.29532
749 | −164.02014 | 20.28893
750 | −164.07244 | 20.27996
751 | −164.12487 | 20.27171
752 | −164.17742 | 20.26419
753 | −164.23008 | 20.25739
754 | −164.28284 | 20.25133
755 | −164.33569 | 20.24599
756 | −164.38861 | 20.24139
757 | −164.44159 | 20.23752
758 | −164.49463 | 20.23438
759 | −164.54771 | 20.23197
760 | −164.58106 | 20.23084
761 | −164.60571 | 20.23016
762 | −164.65884 | 20.22922
763 | −164.71217 | 20.22902
764 | −164.74760 | 20.22930
765 | −164.78302 | 20.22990
766 | −164.83614 | 20.23141
767 | −164.88922 | 20.23366
768 | −164.92459 | 20.23557
769 | −164.97761 | 20.23904
770 | −165.01292 | 20.24176
771 | −165.04914 | 20.24489
772 | −165.10200 | 20.25007
773 | −165.13720 | 20.25393
774 | −165.18992 | 20.26033
775 | −165.24253 | 20.26745
776 | −165.27754 | 20.27261
777 | −165.31250 | 20.27808
778 | −165.36483 | 20.28690
779 | −165.41702 | 20.29644
780 | −165.45173 | 20.30321
781 | −165.50401 | 20.31402
782 | −165.54798 | 20.32372
783 | −165.60124 | 20.31609
784 | −165.65391 | 20.30930
785 | −165.70669 | 20.30323
786 | −165.75955 | 20.29790
787 | −165.81249 | 20.29329
788 | −165.86549 | 20.28942
789 | −165.91855 | 20.28628
790 | −165.97164 | 20.28388
791 | −166.02477 | 20.28221
792 | −166.07792 | 20.28127
793 | −166.13108 | 20.28107
794 | −166.18423 | 20.28160
795 | −166.23737 | 20.28288
796 | −166.29049 | 20.28488
797 | −166.34357 | 20.28762
798 | −166.36478 | 20.28892
799 | −166.39682 | 20.29110
800 | −166.43214 | 20.29382
801 | −166.48507 | 20.29852
802 | −166.52032 | 20.30205
803 | −166.57311 | 20.30796
804 | −166.61798 | 20.31350
805 | −166.65308 | 20.31816
806 | −166.70563 | 20.32577
807 | −166.74060 | 20.33125
808 | −166.77552 | 20.33705
809 | −166.82777 | 20.34635
810 | −166.87988 | 20.35637
811 | −166.91453 | 20.36345
812 | −166.94911 | 20.37085
813 | −166.99267 | 20.38061
814 | −167.02709 | 20.38865
815 | −167.07857 | 20.40130
816 | −167.11278 | 20.41012
817 | −167.14689 | 20.41926
818 | −167.19433 | 20.43226
819 | −167.22831 | 20.44187
820 | −167.26218 | 20.45180
821 | −167.29596 | 20.46203
822 | −167.32963 | 20.47258
823 | −167.36319 | 20.48344
824 | −167.39664 | 20.49460
825 | −167.44659 | 20.51193
826 | −167.47975 | 20.52386
827 | −167.51278 | 20.53610
828 | −167.54695 | 20.54913
829 | −167.57973 | 20.56197
830 | −167.61238 | 20.57511
831 | −167.64489 | 20.58856
832 | −167.67726 | 20.60230
833 | −167.70949 | 20.61634
834 | −167.74158 | 20.63068
835 | −167.77351 | 20.64532
836 | −167.80530 | 20.66024
837 | −167.83694 | 20.67546
838 | −167.86841 | 20.69097
839 | −167.91533 | 20.71478
840 | −167.94640 | 20.73101
841 | −167.97731 | 20.74752
842 | −168.00804 | 20.76432
843 | −168.03861 | 20.78140
844 | −168.08412 | 20.80755
845 | −168.11424 | 20.82533
846 | −168.14417 | 20.84338
847 | −168.17392 | 20.86172
848 | −168.20348 | 20.88032
849 | −168.24746 | 20.90873
850 | −168.27653 | 20.92801
851 | −168.31977 | 20.95743
852 | −168.36255 | 20.98744
853 | −168.40487 | 21.01804
854 | −168.43282 | 21.03877
855 | −168.47433 | 21.07033
856 | −168.50174 | 21.09169
857 | −168.54244 | 21.12420
858 | −168.58263 | 21.15727
859 | −168.62230 | 21.19089
860 | −168.66145 | 21.22506
861 | −168.68726 | 21.24813
862 | −168.71283 | 21.27145
863 | −168.75073 | 21.30685
864 | −168.77569 | 21.33075
865 | −168.81266 | 21.36701
866 | −168.83700 | 21.39147
867 | −168.87302 | 21.42858
868 | −168.90847 | 21.46618
869 | −168.93178 | 21.49152
870 | −168.96624 | 21.52992
871 | −168.99177 | 21.55913
872 | −169.02276 | 21.59546
873 | −169.04473 | 21.62184
874 | −169.07716 | 21.66178
875 | −169.09844 | 21.68866
876 | −169.12982 | 21.72934
877 | −169.15039 | 21.75669
878 | −169.18071 | 21.79808
879 | −169.20233 | 21.82840
880 | −169.21703 | 21.84743
881 | −169.23883 | 21.85466
882 | −169.27247 | 21.86611
883 | −169.32272 | 21.88387
884 | −169.37269 | 21.90231
885 | −169.42237 | 21.92143
886 | −169.47175 | 21.94122
887 | −169.52083 | 21.96170
888 | −169.56958 | 21.98284
889 | −169.61800 | 22.00464
890 | −169.66609 | 22.02710
891 | −169.71382 | 22.05022
892 | −169.76119 | 22.07399
893 | −169.80819 | 22.09840
894 | −169.85481 | 22.12345
895 | −169.90103 | 22.14914
896 | −169.94686 | 22.17546
897 | −169.97718 | 22.19335
898 | −170.00653 | 22.21103
899 | −170.05123 | 22.20415
900 | −170.08671 | 22.19907
901 | −170.12224 | 22.19431
902 | −170.15783 | 22.18987
903 | −170.19345 | 22.18575
904 | −170.22911 | 22.18196
905 | −170.28268 | 22.17688
906 | −170.31843 | 22.17390
907 | −170.35421 | 22.17125
908 | −170.39002 | 22.16891
909 | −170.42584 | 22.16691
910 | −170.46169 | 22.16523
911 | −170.51549 | 22.16332
912 | −170.55136 | 22.16245
913 | −170.58725 | 22.16191
914 | −170.62314 | 22.16170
915 | −170.65929 | 22.16181
916 | −170.69518 | 22.16224
917 | −170.73106 | 22.16301
918 | −170.76693 | 22.16410
919 | −170.80279 | 22.16551
920 | −170.83863 | 22.16725
921 | −170.89236 | 22.17047
922 | −170.92815 | 22.17302
923 | −170.96391 | 22.17590
924 | −170.99964 | 22.17910
925 | −171.03533 | 22.18263
926 | −171.07099 | 22.18648
927 | −171.12440 | 22.19286
928 | −171.15995 | 22.19751
929 | −171.19545 | 22.20249
930 | −171.23089 | 22.20780
931 | −171.28396 | 22.21635
932 | −171.33689 | 22.22563
933 | −171.38967 | 22.23563
934 | −171.42477 | 22.24269
935 | −171.47727 | 22.25389
936 | −171.52961 | 22.26579
937 | −171.58175 | 22.27841
938 | −171.63369 | 22.29174
939 | −171.68543 | 22.30577
940 | −171.73694 | 22.32050
941 | −171.78823 | 22.33594
942 | −171.83927 | 22.35207
943 | −171.89005 | 22.36889
944 | −171.94057 | 22.38641
945 | −171.99082 | 22.40461
946 | −172.03998 | 22.42318
947 | −172.09233 | 22.42751
948 | −172.12811 | 22.43088
949 | −172.18170 | 22.43653
950 | −172.21738 | 22.44070
951 | −172.25302 | 22.44519
952 | −172.28861 | 22.45001
953 | −172.32414 | 22.45515
954 | −172.37735 | 22.46346
955 | −172.41274 | 22.46941
956 | −172.46572 | 22.47892
957 | −172.50095 | 22.48567
958 | −172.55366 | 22.49638
959 | −172.58872 | 22.50392
960 | −172.64114 | 22.51582
961 | −172.67599 | 22.52415
962 | −172.71075 | 22.53279
963 | −172.76272 | 22.54635
964 | −172.79725 | 22.55578
965 | −172.83168 | 22.56552
966 | −172.86601 | 22.57558
967 | −172.90023 | 22.58594
968 | −172.95136 | 22.60207
969 | −172.98531 | 22.61320
970 | −173.03602 | 22.63048
971 | −173.08645 | 22.64845
972 | −173.11992 | 22.66081
973 | −173.15325 | 22.67347
974 | −173.18646 | 22.68643
975 | −173.23601 | 22.70643
976 | −173.26888 | 22.72014
977 | −173.30160 | 22.73415
978 | −173.34556 | 22.75354
979 | −173.37723 | 22.74830
980 | −173.41277 | 22.74274
981 | −173.44836 | 22.73750
982 | −173.48400 | 22.73258
983 | −173.51970 | 22.72798
984 | −173.55544 | 22.72371
985 | −173.59122 | 22.71976
986 | −173.62704 | 22.71613
987 | −173.66290 | 22.71283
988 | −173.69879 | 22.70985
989 | −173.73470 | 22.70720
990 | −173.77065 | 22.70487
991 | −173.80661 | 22.70286
992 | −173.84260 | 22.70118
993 | −173.87860 | 22.69983
994 | −173.91461 | 22.69880
995 | −173.95063 | 22.69810
996 | −173.98666 | 22.69772
997 | −174.02268 | 22.69767
998 | −174.05871 | 22.69794
999 | −174.09473 | 22.69854
1000 | −174.13075 | 22.69947
1001 | −174.16675 | 22.70072
1002 | −174.20274 | 22.70229
1003 | −174.23871 | 22.70419
1004 | −174.27466 | 22.70642
1005 | −174.31059 | 22.70897
1006 | −174.34649 | 22.71185
1007 | −174.38235 | 22.71505
1008 | −174.41819 | 22.71857
1009 | −174.45398 | 22.72242
1010 | −174.48974 | 22.72659
1011 | −174.52545 | 22.73108
1012 | −174.56111 | 22.73589
1013 | −174.59672 | 22.74103
1014 | −174.63227 | 22.74649
1015 | −174.66777 | 22.75227
1016 | −174.70321 | 22.75837
1017 | −174.73859 | 22.76479
1018 | −174.77389 | 22.77154
1019 | −174.82672 | 22.78224
1020 | −174.86184 | 22.78978
1021 | −174.89689 | 22.79763
1022 | −174.93185 | 22.80580
1023 | −174.96673 | 22.81429
1024 | −175.00151 | 22.82308
1025 | −175.03621 | 22.83220
1026 | −175.07081 | 22.84163
1027 | −175.10531 | 22.85136
1028 | −175.13972 | 22.86141
1029 | −175.17401 | 22.87178
1030 | −175.20820 | 22.88244
1031 | −175.24228 | 22.89342
1032 | −175.27624 | 22.90471
1033 | −175.31009 | 22.91630
1034 | −175.34381 | 22.92820
1035 | −175.37741 | 22.94040
1036 | −175.41089 | 22.95290
1037 | −175.44423 | 22.96571
1038 | −175.47744 | 22.97882
1039 | −175.51051 | 22.99222
1040 | −175.54345 | 23.00593
1041 | −175.57624 | 23.01993
1042 | −175.60888 | 23.03422
1043 | −175.64138 | 23.04881
1044 | −175.67372 | 23.06370
1045 | −175.70591 | 23.07887
1046 | −175.73795 | 23.09434
1047 | −175.76982 | 23.11009
1048 | −175.81731 | 23.13426
1049 | −175.84877 | 23.15073
1050 | −175.88005 | 23.16748
1051 | −175.91116 | 23.18451
1052 | −175.94209 | 23.20183
1053 | −175.98815 | 23.22832
1054 | −176.01862 | 23.24633
1055 | −176.04891 | 23.26461
1056 | −176.09398 | 23.29254
1057 | −176.12379 | 23.31150
1058 | −176.15339 | 23.33073
1059 | −176.18280 | 23.35022
1060 | −176.21200 | 23.36998
1061 | −176.25542 | 23.40011
1062 | −176.28410 | 23.42053
1063 | −176.31256 | 23.44120
1064 | −176.35486 | 23.47268
1065 | −176.38278 | 23.49399
1066 | −176.41048 | 23.51554
1067 | −176.43795 | 23.53735
1068 | −176.46520 | 23.55940
1069 | −176.50563 | 23.59294
1070 | −176.53229 | 23.61560
1071 | −176.55872 | 23.63850
1072 | −176.59790 | 23.67330
1073 | −176.62372 | 23.69679
1074 | −176.66199 | 23.73246
1075 | −176.68719 | 23.75653
1076 | −176.71213 | 23.78082
1077 | −176.73682 | 23.80534
1078 | −176.76125 | 23.83007
1079 | −176.78542 | 23.85503
1080 | −176.80933 | 23.88021
1081 | −176.83297 | 23.90559
1082 | −176.85635 | 23.93119
1083 | −176.87945 | 23.95700
1084 | −176.90229 | 23.98302
1085 | −176.93602 | 24.02243
1086 | −176.96913 | 24.06229
1087 | −176.99085 | 24.08911
1088 | −177.01229 | 24.11613
1089 | −177.03344 | 24.14334
1090 | −177.06462 | 24.18451
1091 | −177.08505 | 24.21218
1092 | −177.10518 | 24.24004
1093 | −177.12502 | 24.26808
1094 | −177.14456 | 24.29630
1095 | −177.17331 | 24.33895
1096 | −177.19209 | 24.36760
1097 | −177.21058 | 24.39642
1098 | −177.22875 | 24.42540
1099 | −177.25544 | 24.46918
1100 | −177.27284 | 24.49856
1101 | −177.28992 | 24.52810
1102 | −177.30670 | 24.55779
1103 | −177.32315 | 24.58763
1104 | −177.33929 | 24.61762
1105 | −177.36249 | 24.66210
1106 | −177.38606 | 24.67081
1107 | −177.41985 | 24.68359
1108 | −177.45352 | 24.69667
1109 | −177.48704 | 24.71005
1110 | −177.53706 | 24.73067
1111 | −177.57023 | 24.74479
1112 | −177.60325 | 24.75920
1113 | −177.63612 | 24.77391
1114 | −177.66883 | 24.78891
1115 | −177.71760 | 24.81195
1116 | −177.74992 | 24.82767
1117 | −177.78206 | 24.84367
1118 | −177.81404 | 24.85996
1119 | −177.83690 | 24.87185
1120 | −177.88667 | 24.87745
1121 | −177.94111 | 24.88429
1122 | −177.97195 | 24.88850
1123 | −177.99642 | 24.89200
1124 | −178.05062 | 24.90028
1125 | −178.10469 | 24.90929
1126 | −178.14066 | 24.91569
1127 | −178.16577 | 24.92034
1128 | −178.21953 | 24.93078
1129 | −178.27313 | 24.94194
1130 | −178.32655 | 24.95380
1131 | −178.37978 | 24.96637
1132 | −178.43281 | 24.97965
1133 | −178.48563 | 24.99363
1134 | −178.53822 | 25.00832
1135 | −178.59058 | 25.02370
1136 | −178.61445 | 25.03096
1137 | −178.64360 | 25.04005
1138 | −178.67821 | 25.05115
1139 | −178.70077 | 25.05859
1140 | −178.72148 | 25.06052
1141 | −178.75794 | 25.06420
1142 | −178.81257 | 25.07031
1143 | −178.86732 | 25.07718
1144 | −178.90360 | 25.08214
1145 | −178.93984 | 25.08742
1146 | −178.98140 | 25.09382
1147 | −179.01755 | 25.09959
1148 | −179.07166 | 25.10883
1149 | −179.10765 | 25.11539
1150 | −179.14357 | 25.12227
1151 | −179.19731 | 25.13318
1152 | −179.25088 | 25.14480
1153 | −179.28649 | 25.15295
1154 | −179.32201 | 25.16140
1155 | −179.35744 | 25.17018
1156 | −179.38198 | 25.17642
1157 | −179.43516 | 25.19048
1158 | −179.47030 | 25.20018
1159 | −179.50534 | 25.21020
1160 | −179.55770 | 25.22581
1161 | −179.60982 | 25.24211
1162 | −179.66168 | 25.25911
1163 | −179.69610 | 25.27081
1164 | −179.73039 | 25.28283
1165 | −179.76456 | 25.29514
1166 | −179.79860 | 25.30776
1167 | −179.83251 | 25.32068
1168 | −179.86628 | 25.33389
1169 | −179.89991 | 25.34741
1170 | −179.93340 | 25.36122
1171 | −179.96674 | 25.37533
1172 | −180.00000 | 25.38976

Appendix C to Subpart W of Part 922—Coordinates for the Midway Atoll Special Management Area

[Coordinates listed in this appendix are unprojected (Geographic) and based on the North American Datum of 1983]

The boundaries for the areas listed in this appendix, unless otherwise described in this rule, begin at Point 1 as indicated in the particular area's coordinate table and continue to each successive point in numerical order until ending at the last point in the table.

Point No. | Longitude | Latitude
1 | −177.31267 | 27.99792
2 | −177.36342 | 27.99124
3 | −177.41762 | 27.99216
4 | −177.47082 | 27.99962
5 | −177.51875 | 28.01516
6 | −177.55393 | 28.03661
7 | −177.59424 | 28.06817
8 | −177.62036 | 28.10572
9 | −177.64395 | 28.14862
10 | −177.65507 | 28.20134
11 | −177.65600 | 28.21430
12 | −177.65028 | 28.23674
13 | −177.65187 | 28.25877
14 | −177.63704 | 28.29735
15 | −177.62519 | 28.31624
16 | −177.60768 | 28.33804
17 | −177.59529 | 28.36997
18 | −177.56544 | 28.40418
19 | −177.52661 | 28.43628
20 | −177.49013 | 28.46044
21 | −177.44568 | 28.47591
22 | −177.42409 | 28.48231
23 | −177.37872 | 28.48480
24 | −177.32412 | 28.48128
25 | −177.26570 | 28.46492
26 | −177.21865 | 28.44274
27 | −177.17255 | 28.41268
28 | −177.13782 | 28.37680
29 | −177.11574 | 28.33244
30 | −177.08945 | 28.26879
31 | −177.08725 | 28.21427
32 | −177.08489 | 28.17927
33 | −177.09363 | 28.15669
34 | −177.10914 | 28.12595
35 | −177.12481 | 28.09780
36 | −177.15060 | 28.06781
37 | −177.18677 | 28.03986
38 | −177.22207 | 28.02105
39 | −177.26492 | 28.00572
40 | −177.31267 | 27.99792

Appendix D to Subpart W of Part 922—Coordinates for the Special Preservation Areas (SPAs)

[Coordinates listed in this appendix are unprojected (Geographic) and based on the North American Datum of 1983]

The boundaries for the areas listed in this appendix, unless otherwise described in this rule, begin at Point 1 as indicated in the particular area's coordinate table and continue to each successive point in numerical order until ending at the last point in the table.

Table 1—Coordinates for Hōlanikū (Kure Atoll) SPA
Point No. | Longitude | Latitude
1 | −178.42982 | 28.39284
2 | −178.43641 | 28.39991
3 | −178.44628 | 28.41516
4 | −178.44829 | 28.43220
5 | −178.44120 | 28.45537
6 | −178.43083 | 28.47814
7 | −178.41324 | 28.49646
8 | −178.40698 | 28.50082
9 | −178.39886 | 28.50648
10 | −178.38081 | 28.51486
11 | −178.35703 | 28.51998
12 | −178.33482 | 28.52195
13 | −178.33480 | 28.52195
14 | −178.33096 | 28.52588
15 | −178.32267 | 28.52960
16 | −178.30753 | 28.54606
17 | −178.29651 | 28.54402
18 | −178.28574 | 28.52279
19 | −178.28205 | 28.50290
20 | −178.28203 | 28.50289
21 | −178.27634 | 28.49938
22 | −178.26090 | 28.48707
23 | −178.25026 | 28.47569
24 | −178.24590 | 28.47103
25 | −178.23869 | 28.45022
26 | −178.23126 | 28.41686
27 | −178.23242 | 28.39706
28 | −178.23826 | 28.37827
29 | −178.24572 | 28.36305
30 | −178.24663 | 28.36228
31 | −178.24665 | 28.36227
32 | −178.23880 | 28.35166
33 | −178.22857 | 28.34386
34 | −178.21418 | 28.34135
35 | −178.21125 | 28.32830
36 | −178.21580 | 28.32098
37 | −178.22682 | 28.31875
38 | −178.23360 | 28.32678
39 | −178.26169 | 28.33216
40 | −178.26256 | 28.34256
41 | −178.26685 | 28.34603
42 | −178.26983 | 28.34386
43 | −178.28608 | 28.33631
44 | −178.31541 | 28.33530
45 | −178.36386 | 28.34022
46 | −178.38109 | 28.34407
47 | −178.40622 | 28.32394
48 | −178.42837 | 28.32125
49 | −178.43274 | 28.36763
50 | −178.42982 | 28.39284

Table 2—Coordinates for Manawai (Pearl and Hermes Atoll) SPA
Point No. | Longitude | Latitude
1 | −176.03652 | 27.75775
2 | −176.04088 | 27.76832
3 | −176.04088 | 27.76832
4 | −176.04830 | 27.77010
5 | −176.06549 | 27.78232
6 | −176.03704 | 27.84094
7 | −176.03441 | 27.85558
8 | −176.03489 | 27.87411
9 | −176.02724 | 27.89274
10 | −176.01285 | 27.89991
11 | −175.98350 | 27.91077
12 | −175.98347 | 27.91080
13 | −175.97662 | 27.91971
14 | −175.96741 | 27.92798
15 | −175.95689 | 27.93510
16 | −175.94636 | 27.93942
17 | −175.93781 | 27.94332
18 | −175.92692 | 27.95035
19 | −175.90613 | 27.96355
20 | −175.88894 | 27.97471
21 | −175.87548 | 27.98165
22 | −175.86046 | 27.98780
23 | −175.83952 | 27.99711
24 | −175.82333 | 28.00466
25 | −175.81383 | 28.00844
26 | −175.80379 | 28.01098
27 | −175.79318 | 28.01152
28 | −175.78174 | 28.01106
29 | −175.77016 | 28.01031
30 | −175.76421 | 28.00935
31 | −175.76418 | 28.00935
32 | −175.76189 | 28.01111
33 | −175.73451 | 28.02165
34 | −175.71502 | 28.00762
35 | −175.70865 | 27.98973
36 | −175.70863 | 27.98971
37 | −175.69833 | 27.98219
38 | −175.69171 | 27.97663
39 | −175.68857 | 27.97399
40 | −175.68160 | 27.96778
41 | −175.67658 | 27.96256
42 | −175.67240 | 27.95558
43 | −175.66795 | 27.94587
44 | −175.66433 | 27.93515
45 | −175.66239 | 27.92393
46 | −175.66156 | 27.91419
47 | −175.66186 | 27.89972
48 | −175.66410 | 27.88349
49 | −175.66915 | 27.86916
50 | −175.67268 | 27.85916
51 | −175.67530 | 27.84825
52 | −175.67894 | 27.83626
53 | −175.68258 | 27.82801
54 | −175.68899 | 27.81801
55 | −175.69097 | 27.81125
56 | −175.69321 | 27.80550
57 | −175.69331 | 27.80524
58 | −175.69713 | 27.79526
59 | −175.70412 | 27.78375
60 | −175.70943 | 27.77649
61 | −175.71351 | 27.77101
62 | −175.71352 | 27.77099
63 | −175.71049 | 27.76347
64 | −175.71993 | 27.75551
65 | −175.72502 | 27.75516
66 | −175.72955 | 27.74921
67 | −175.73541 | 27.74444
68 | −175.74364 | 27.73989
69 | −175.75468 | 27.73513
70 | −175.76640 | 27.73259
71 | −175.77924 | 27.73129
72 | −175.79543 | 27.73023
73 | −175.81639 | 27.73105
74 | −175.82556 | 27.73236
75 | −175.83310 | 27.73358
76 | −175.83756 | 27.73456
77 | −175.84175 | 27.73504
78 | −175.84594 | 27.73228
79 | −175.85277 | 27.72748
80 | −175.86185 | 27.72274
81 | −175.87480 | 27.71713
82 | −175.89491 | 27.70934
83 | −175.91378 | 27.70257
84 | −175.92997 | 27.69926
85 | −175.94532 | 27.69745
86 | −175.95649 | 27.69766
87 | −175.96681 | 27.69937
88 | −175.97685 | 27.70332
89 | −175.98968 | 27.71026
90 | −176.00334 | 27.72044
91 | −176.01701 | 27.73237
92 | −176.02593 | 27.74182
93 | −176.02997 | 27.74680
94 | −176.03178 | 27.74903
95 | −176.03652 | 27.75775

Table 3—Coordinates for Kapou (Lisianski Island) SPA
Point No. | Longitude | Latitude
1 | −173.79069 | 25.94039
2 | −173.79506 | 25.91077
3 | −173.79506 | 25.91077
4 | −173.85089 | 25.87148
5 | −173.89161 | 25.87949
6 | −173.94399 | 25.87998
7 | −174.10879 | 25.96371
8 | −174.12000 | 25.97958
9 | −174.14257 | 26.00021
10 | −174.15729 | 26.04055
11 | −174.15482 | 26.12273
12 | −174.13333 | 26.17497
13 | −174.08554 | 26.21215
14 | −174.05059 | 26.21724
15 | −173.98290 | 26.21243
16 | −173.93333 | 26.18331
17 | −173.89656 | 26.14220
18 | −173.86186 | 26.11938
19 | −173.82229 | 26.08560
20 | −173.79999 | 26.04164
21 | −173.76666 | 26.00831
22 | −173.75210 | 25.98825
23 | −173.75283 | 25.97102
24 | −173.79069 | 25.94039

Table 4—Coordinates for Kamole (Laysan Island) SPA
Point No. | Longitude | Latitude
1 | −171.65000 | 25.71667
2 | −171.66667 | 25.70000
3 | −171.70000 | 25.69167
4 | −171.70833 | 25.70000
5 | −171.73333 | 25.70000
6 | −171.75000 | 25.69167
7 | −171.78333 | 25.69167
8 | −171.81667 | 25.70833
9 | −171.85000 | 25.75833
10 | −171.86667 | 25.79167
11 | −171.87500 | 25.83333
12 | −171.85000 | 25.86667
13 | −171.83333 | 25.88333
14 | −171.80000 | 25.90000
15 | −171.76667 | 25.90000
16 | −171.67500 | 25.88333
17 | −171.62500 | 25.86667
18 | −171.60000 | 25.83333
19 | −171.59167 | 25.79167
20 | −171.60000 | 25.76667
21 | −171.61667 | 25.74167
22 | −171.63333 | 25.72500
23 | −171.65000 | 25.71667

Table 5—Coordinates for Kamokuokamohoali'i (Maro Reef) SPA
Point No. | Longitude | Latitude
1 | −170.51714 | 25.56669
2 | −170.40880 | 25.46669
3 | −170.35047 | 25.37502
4 | −170.40880 | 25.25835
5 | −170.42547 | 25.25002
6 | −170.54214 | 25.25835
7 | −170.59214 | 25.28335
8 | −170.65047 | 25.30002
9 | −170.76714 | 25.31669
10 | −170.80047 | 25.33335
11 | −170.80880 | 25.35835
12 | −170.86714 | 25.39169
13 | −170.89214 | 25.45002
14 | −170.90047 | 25.52502
15 | −170.90047 | 25.55002
16 | −170.87547 | 25.58335
17 | −170.80881 | 25.62502
18 | −170.77547 | 25.63335
19 | −170.70880 | 25.63335
20 | −170.68381 | 25.61669
21 | −170.57547 | 25.59169
22 | −170.51714 | 25.56669

Table 6—Coordinates for 'Ōnūnui and 'Ōnuiki (Gardner Pinnacles) SPA
Point No. | Longitude | Latitude
1 | −167.93207 | 25.06955
2 | −167.92506 | 25.04175
3 | −167.94165 | 25.01326
4 | −167.94166 | 24.94164
5 | −167.92273 | 24.90603
6 | −167.90123 | 24.88174
7 | −167.89166 | 24.84997
8 | −167.89766 | 24.74763
9 | −167.87266 | 24.62908
10 | −167.87360 | 24.59072
11 | −167.86659 | 24.56315
12 | −167.87500 | 24.49164
13 | −167.89063 | 24.44829
14 | −167.90184 | 24.42844
15 | −167.95440 | 24.41115
16 | −167.98968 | 24.41979
17 | −168.00369 | 24.43801
18 | −168.01666 | 24.50831
19 | −168.05000 | 24.57498
20 | −168.08333 | 24.59164
21 | −168.12500 | 24.69997
22 | −168.13333 | 24.77497
23 | −168.15000 | 24.81664
24 | −168.15000 | 24.88331
25 | −168.22500 | 24.94997
26 | −168.26666 | 25.00831
27 | −168.27799 | 25.06540
28 | −168.26794 | 25.09301
29 | −168.25089 | 25.10375
30 | −168.22575 | 25.16587
31 | −168.19632 | 25.18175
32 | −168.14166 | 25.19164
33 | −168.08636 | 25.19273
34 | −168.04128 | 25.17404
35 | −167.98333 | 25.12498
36 | −167.93207 | 25.06955

Table 7—Coordinates for Lalo (French Frigate Shoals) SPA
Point No. | Longitude | Latitude
1 | −165.58333 | 23.99997
2 | −165.58333 | 23.49997
3 | −166.75000 | 23.66664
4 | −166.92817 | 23.68779
5 | −166.92756 | 23.74082
6 | −166.92417 | 24.03651
7 | −166.75227 | 24.03400
8 | −166.75000 | 24.16664
9 | −165.58333 | 23.99997

Table 8—Coordinates for Mokumanamana (Necker) SPA
Point No. | Longitude | Latitude
1 | −164.55178 | 23.64216
2 | −164.53515 | 23.61324
3 | −164.53018 | 23.58826
4 | −164.52734 | 23.55099
5 | −164.50977 | 23.52283
6 | −164.45148 | 23.49085
7 | −164.44165 | 23.48045
8 | −164.39327 | 23.46288
9 | −164.36812 | 23.46322
10 | −164.32711 | 23.44904
11 | −164.30462 | 23.43128
12 | −164.28233 | 23.39686
13 | −164.27062 | 23.35708
14 | −164.25021 | 23.30870
15 | −164.25676 | 23.28970
16 | −164.26716 | 23.27912
17 | −164.27585 | 23.25682
18 | −164.29815 | 23.23537
19 | −164.33671 | 23.23253
20 | −164.36910 | 23.23801
21 | −164.39560 | 23.25619
22 | −164.45702 | 23.26300
23 | −164.47063 | 23.27037
24 | −164.48333 | 23.29164
25 | −164.52500 | 23.30831
26 | −164.59613 | 23.30887
27 | −164.63036 | 23.29942
28 | −164.64112 | 23.30040
29 | −164.63917 | 23.31377
30 | −164.62971 | 23.32387
31 | −164.61895 | 23.32681
32 | −164.62156 | 23.34246
33 | −164.60917 | 23.35387
34 | −164.58863 | 23.40643
35 | −164.57950 | 23.44490
36 | −164.60558 | 23.45599
37 | −164.60917 | 23.46675
38 | −164.62260 | 23.47995
39 | −164.65117 | 23.49002
40 | −164.69597 | 23.49691
41 | −164.73352 | 23.49654
42 | −164.76980 | 23.48444
43 | −164.78209 | 23.50277
44 | −164.79929 | 23.50920
45 | −164.81081 | 23.52337
46 | −164.83255 | 23.53736
47 | −164.84703 | 23.56743
48 | −164.83436 | 23.60088
49 | −164.81981 | 23.61619
50 | −164.80110 | 23.62243
51 | −164.76840 | 23.62148
52 | −164.73854 | 23.63112
53 | −164.68789 | 23.65058
54 | −164.62458 | 23.66325
55 | −164.57582 | 23.65644
56 | −164.55178 | 23.64216

Table 9—Coordinates for Nihoa Island SPA
Point No. | Longitude | Latitude
1 | −161.97131 | 23.09961
2 | −161.97057 | 23.10037
3 | −161.96981 | 23.10112
4 | −161.96904 | 23.10185
5 | −161.96825 | 23.10258
6 | −161.96745 | 23.10329
7 | −161.96663 | 23.10399
8 | −161.96580 | 23.10468
9 | −161.96495 | 23.10535
10 | −161.96409 | 23.10602
11 | −161.96322 | 23.10667
12 | −161.96234 | 23.10731
13 | −161.96144 | 23.10793
14 | −161.96053 | 23.10854
15 | −161.95961 | 23.10914
16 | −161.95867 | 23.10972
17 | −161.95773 | 23.11029
18 | −161.95677 | 23.11085
19 | −161.95580 | 23.11139
20 | −161.95482 | 23.11191
21 | −161.95383 | 23.11242
22 | −161.95283 | 23.11292
23 | −161.95182 | 23.11340
24 | −161.95080 | 23.11387
25 | −161.94977 | 23.11432
26 | −161.94874 | 23.11475
27 | −161.94769 | 23.11517
28 | −161.94664 | 23.11558
29 | −161.94557 | 23.11597
30 | −161.94450 | 23.11634
31 | −161.94342 | 23.11670
32 | −161.94234 | 23.11704
33 | −161.94125 | 23.11736
34 | −161.94015 | 23.11767
35 | −161.93905 | 23.11796
36 | −161.93794 | 23.11824
37 | −161.93682 | 23.11850
38 | −161.93570 | 23.11874
39 | −161.93458 | 23.11897
40 | −161.93345 | 23.11917
41 | −161.93232 | 23.11937
42 | −161.93118 | 23.11954
43 | −161.93004 | 23.11970
44 | −161.92890 | 23.11984
45 | −161.92775 | 23.11996
46 | −161.92661 | 23.12007
47 | −161.92546 | 23.12016
48 | −161.92431 | 23.12023
49 | −161.92315 | 23.12029
50 | −161.92200 | 23.12032
51 | −161.92085 | 23.12035
52 | −161.91969 | 23.12035
53 | −161.91854 | 23.12034
54 | −161.91739 | 23.12030
55 | −161.91624 | 23.12026
56 | −161.91509 | 23.12019
57 | −161.91394 | 23.12011
58 | −161.91279 | 23.12001
59 | −161.91164 | 23.11989
60 | −161.91050 | 23.11976
61 | −161.90936 | 23.11961
62 | −161.90823 | 23.11944
63 | −161.90709 | 23.11925
64 | −161.90597 | 23.11905
65 | −161.90484 | 23.11883
66 | −161.90372 | 23.11860
67 | −161.90261 | 23.11835
68 | −161.90150 | 23.11808
69 | −161.90040 | 23.11779
70 | −161.89930 | 23.11749
71 | −161.89821 | 23.11717
72 | −161.89713 | 23.11684
73 | −161.89605 | 23.11649
74 | −161.89520 | 23.11619
75 | −161.89498 | 23.11612
76 | −161.89401 | 23.11577
77 | −161.89392 | 23.11574
78 | −161.89287 | 23.11534
79 | −161.89182 | 23.11493
80 | −161.89079 | 23.11450
81 | −161.88976 | 23.11405
82 | −161.88874 | 23.11359
83 | −161.88774 | 23.11311
84 | −161.88674 | 23.11262
85 | −161.88575 | 23.11212
86 | −161.88477 | 23.11160
87 | −161.88381 | 23.11107
88 | −161.88285 | 23.11052
89 | −161.88191 | 23.10995
90 | −161.88097 | 23.10938
91 | −161.88005 | 23.10878
92 | −161.87915 | 23.10818
93 | −161.87825 | 23.10756
94 | −161.87737 | 23.10693
95 | −161.87650 | 23.10628
96 | −161.87564 | 23.10563
97 | −161.87480 | 23.10495
98 | −161.87397 | 23.10427
99 | −161.87316 | 23.10358
100 | −161.87236 | 23.10287
101 | −161.87157 | 23.10215
102 | −161.87080 | 23.10142
103 | −161.87004 | 23.10067
104 | −161.86930 | 23.09992
105 | −161.86858 | 23.09916
106 | −161.86787 | 23.09838
107 | −161.86750 | 23.09796
108 | −161.86718 | 23.09759
109 | −161.86650 | 23.09679
110 | −161.86584 | 23.09599
111 | −161.86520 | 23.09517
112 | −161.86457 | 23.09435
113 | −161.86396 | 23.09351
114 | −161.86337 | 23.09267
115 | −161.86279 | 23.09181
116 | −161.86224 | 23.09095
117 | −161.86170 | 23.09008
118 | −161.86117 | 23.08920
119 | −161.86067 | 23.08832
120 | −161.86018 | 23.08742
121 | −161.85972 | 23.08653
122 | −161.85927 | 23.08562
123 | −161.85884 | 23.08470
124 | −161.85842 | 23.08378
125 | −161.85803 | 23.08286
126 | −161.85766 | 23.08193
127 | −161.85730 | 23.08099
128 | −161.85697 | 23.08004
129 | −161.85665 | 23.07910
130 | −161.85635 | 23.07814
131 | −161.85608 | 23.07719
132 | −161.85582 | 23.07622
133 | −161.85558 | 23.07526
134 | −161.85536 | 23.07429
135 | −161.85516 | 23.07332
136 | −161.85499 | 23.07235
137 | −161.85483 | 23.07137
138 | −161.85469 | 23.07039
139 | −161.85457 | 23.06941
140 | −161.85447 | 23.06843
141 | −161.85439 | 23.06744
142 | −161.85433 | 23.06645
143 | −161.85429 | 23.06547
144 | −161.85428 | 23.06448
145 | −161.85428 | 23.06349
146 | −161.85430 | 23.06251
147 | −161.85434 | 23.06152
148 | −161.85440 | 23.06053
149 | −161.85449 | 23.05955
150 | −161.85459 | 23.05857
151 | −161.85471 | 23.05758
152 | −161.85485 | 23.05660
153 | −161.85502 | 23.05563
154 | −161.85520 | 23.05465
155 | −161.85540 | 23.05367
156 | −161.85562 | 23.05271
157 | −161.85586 | 23.05174
158 | −161.85612 | 23.05078
159 | −161.85641 | 23.04982
160 | −161.85671 | 23.04887
161 | −161.85703 | 23.04791
162 | −161.85736 | 23.04697
163 | −161.85772 | 23.04603
164 | −161.85810 | 23.04510
165 | −161.85850 | 23.04417
166 | −161.85891 | 23.04324
167 | −161.85935 | 23.04233
168 | −161.85980 | 23.04142
169 | −161.86027 | 23.04051
170 | −161.86076 | 23.03962
171 | −161.86126 | 23.03873
172 | −161.86179 | 23.03785
173 | −161.86233 | 23.03698
174 | −161.86289 | 23.03611
175 | −161.86347 | 23.03525
176 | −161.86407 | 23.03440
177 | −161.86468 | 23.03357
178 | −161.86531 | 23.03274
179 | −161.86596 | 23.03191
180 | −161.86662 | 23.03110
181 | −161.86730 | 23.03031
182 | −161.86800 | 23.02951
183 | −161.86871 | 23.02873
184 | −161.86943 | 23.02796
185 | −161.87018 | 23.02720
186 | −161.87094 | 23.02646
187 | −161.87171 | 23.02572
188 | −161.87250 | 23.02500
189 | −161.87330 | 23.02428
190 | −161.87412 | 23.02358
191 | −161.87495 | 23.02290
192 | −161.87579 | 23.02222
193 | −161.87665 | 23.02156
194 | −161.87752 | 23.02091
195 | −161.87841 | 23.02027
196 | −161.87931 | 23.01965
197 | −161.88022 | 23.01903
198 | −161.88114 | 23.01844
199 | −161.88207 | 23.01786
200 | −161.88302 | 23.01729
201 | −161.88398 | 23.01673
202 | −161.88494 | 23.01619
203 | −161.88592 | 23.01567
204 | −161.88691 | 23.01515
205 | −161.88791 | 23.01466
206 | −161.88892 | 23.01417
207 | −161.88994 | 23.01371
208 | −161.89097 | 23.01326
209 | −161.89201 | 23.01282
210 | −161.89306 | 23.01240
211 | −161.89411 | 23.01200
212 | −161.89517 | 23.01161
213 | −161.89624 | 23.01123
214 | −161.89732 | 23.01088
215 | −161.89841 | 23.01054
216 | −161.89950 | 23.01021
217 | −161.90059 | 23.00990
218 | −161.90170 | 23.00961
219 | −161.90281 | 23.00934
220 | −161.90392 | 23.00908
221 | −161.90504 | 23.00884
222 | −161.90617 | 23.00861
223 | −161.90730 | 23.00840
224 | −161.90843 | 23.00821
225 | −161.90875 | 23.00816
226 | −161.90956 | 23.00803
227 | −161.91070 | 23.00788
228 | −161.91185 | 23.00774
229 | −161.91299 | 23.00761
230 | −161.91366 | 23.00755
231 | −161.91414 | 23.00751
232 | −161.91529 | 23.00742
233 | −161.91644 | 23.00734
234 | −161.91759 | 23.00729
235 | −161.91874 | 23.00725
236 | −161.91990 | 23.00723
237 | −161.92105 | 23.00723
238 | −161.92221 | 23.00724
239 | −161.92336 | 23.00727
240 | −161.92336 | 23.00727
241 | −161.92451 | 23.00732
242 | −161.92566 | 23.00738
243 | −161.92681 | 23.00747
244 | −161.92796 | 23.00757
245 | −161.92910 | 23.00768
246 | −161.93024 | 23.00782
247 | −161.93138 | 23.00797
248 | −161.93252 | 23.00814
249 | −161.93365 | 23.00832
250 | −161.93478 | 23.00852
251 | −161.93590 | 23.00874
252 | −161.93702 | 23.00898
253 | −161.93814 | 23.00923
254 | −161.93924 | 23.00950
255 | −161.94035 | 23.00978
256 | −161.94144 | 23.01008
257 | −161.94253 | 23.01040
258 | −161.94362 | 23.01074
259 | −161.94469 | 23.01109
260 | −161.94576 | 23.01146
261 | −161.94682 | 23.01184
262 | −161.94788 | 23.01224
263 | −161.94892 | 23.01265
264 | −161.94996 | 23.01308
265 | −161.95098 | 23.01352
266 | −161.95200 | 23.01399
267 | −161.95301 | 23.01446
268 | −161.95401 | 23.01495
269 | −161.95500 | 23.01546
270 | −161.95597 | 23.01598
271 | −161.95694 | 23.01651
272 | −161.95790 | 23.01706
273 | −161.95884 | 23.01762
274 | −161.95977 | 23.01820
275 | −161.96069 | 23.01879
276 | −161.96160 | 23.01940
277 | −161.96172 | 23.01948
278 | −161.96189 | 23.01960
279 | −161.96250 | 23.02001
280 | −161.96338 | 23.02065
281 | −161.96425 | 23.02129
282 | −161.96510 | 23.02195
283 | −161.96595 | 23.02262
284 | −161.96677 | 23.02330
285 | −161.96759 | 23.02400
286 | −161.96839 | 23.02471
287 | −161.96917 | 23.02543
288 | −161.96995 | 23.02616
289 | −161.97070 | 23.02690
290 | −161.97144 | 23.02765
291 | −161.97217 | 23.02842
292 | −161.97287 | 23.02920
293 | −161.97357 | 23.02998
294 | −161.97424 | 23.03078
295 | −161.97490 | 23.03159
296 | −161.97555 | 23.03240
297 | −161.97617 | 23.03323
298 | −161.97678 | 23.03406
299 | −161.97738 | 23.03491
300 | −161.97795 | 23.03576
301 | −161.97851 | 23.03662
302 | −161.97905 | 23.03749
303 | −161.97957 | 23.03837
304 | −161.98008 | 23.03926
305 | −161.98056 | 23.04015
306 | −161.98103 | 23.04105
307 | −161.98148 | 23.04196
308 | −161.98191 | 23.04287
309 | −161.98232 | 23.04379
310 | −161.98271 | 23.04472
311 | −161.98309 | 23.04565
312 | −161.98344 | 23.04659
313 | −161.98378 | 23.04753
314 | −161.98409 | 23.04848
315 | −161.98439 | 23.04943
316 | −161.98467 | 23.05039
317 | −161.98493 | 23.05135
318 | −161.98516 | 23.05232
319 | −161.98538 | 23.05329
320 | −161.98558 | 23.05426
321 | −161.98576 | 23.05523
322 | −161.98592 | 23.05621
323 | −161.98606 | 23.05719
324 | −161.98618 | 23.05817
325 | −161.98628 | 23.05915
326 | −161.98635 | 23.06013
327 | −161.98641 | 23.06112
328 | −161.98645 | 23.06211
329 | −161.98647 | 23.06309
330 | −161.98647 | 23.06408
331 | −161.98645 | 23.06507
332 | −161.98640 | 23.06606
333 | −161.98634 | 23.06704
334 | −161.98626 | 23.06803
335 | −161.98616 | 23.06901
336 | −161.98603 | 23.06999
337 | −161.98589 | 23.07097
338 | −161.98573 | 23.07195
339 | −161.98555 | 23.07293
340 | −161.98535 | 23.07390
341 | −161.98512 | 23.07487
342 | −161.98488 | 23.07583
343 | −161.98462 | 23.07680
344 | −161.98434 | 23.07776
345 | −161.98404 | 23.07871
346 | −161.98372 | 23.07966
347 | −161.98338 | 23.08061
348 | −161.98302 | 23.08155
349 | −161.98265 | 23.08248
350 | −161.98225 | 23.08341
351 | −161.98183 | 23.08433
352 | −161.98140 | 23.08525
353 | −161.98095 | 23.08616
354 | −161.98048 | 23.08706
355 | −161.97999 | 23.08796
356 | −161.97948 | 23.08885
357 | −161.97896 | 23.08973
358 | −161.97841 | 23.09060
359 | −161.97785 | 23.09147
360 | −161.97727 | 23.09232
361 | −161.97668 | 23.09317
362 | −161.97606 | 23.09401
363 | −161.97543 | 23.09484
364 | −161.97479 | 23.09566
365 | −161.97413 | 23.09647
366 | −161.97345 | 23.09727
367 | −161.97275 | 23.09806
368 | −161.97204 | 23.09884
369 | −161.97131 | 23.09961

Appendix E to Subpart W of Part 922—Coordinates for the Ship Reporting Area

[Coordinates listed in this appendix are unprojected (Geographic) and based on the North American Datum of 1983]

The Reporting Area Outer Boundary is defined by the following geographic coordinates and description as outlined in IMO Resolution MSC.279(85) Appendix 1—Outer Boundary adopted on 1 December 2008 that superseded and amended IMO Resolution MEPC.171(57) adopted on 4 April 2008.

The outer boundary of the CORALSHIPREP reporting area consists of lines connecting the following geographical positions:

Starting at (1) 29° 24′.21 N, 178° 06′.45 W;

A rhumb line to (2) 29° 12′.16 N, 177° 04′.25 W;

Then a rhumb line to (3) 28° 43′.78 N, 175° 13′.76 W;

Then a rhumb line to (4) 27° 00′.28 N, 173° 25′.37 W;

Then a rhumb line to (5) 26° 44′.85 N, 171° 28′.22 W;

Then a rhumb line to (6) 26° 23′.95 N, 170° 20′.25 W;

Then a rhumb line to (7) 25° 56′.49 N, 167° 32′.03 W;

Then a rhumb line to (8) 24° 50′.23 N, 165° 58′.56 W;

Then a rhumb line to (9) 24° 02′.61 N, 161° 42′.30 W;

Then an arc with a 60.25 nm radius centered at (21) 23° 03′.61 N, 161° 55′.22 W;

To a point (10) 22° 04′.59 N, 162° 08′.14 W;

Then a rhumb line to (11) 22° 35′.32 N, 164° 53′.46 W;

Then a rhumb line to (12) 22° 47′.86 N, 166° 40′.44 W;

Then a rhumb line to (13) 24° 03′.30 N, 168° 27′.53 W;

Then a rhumb line to (14) 24° 26′.59 N, 170° 50′.37 W;

Then a rhumb line to (15) 24° 46′.49 N, 171° 52′.87 W;

Then a rhumb line to (16) 25° 07′.23 N, 174° 30′.23 W;

Then a rhumb line to (17) 27° 05′.50 N, 176° 35′.40 W;

Then a rhumb line to (18) 27° 15′.11 N, 177° 35′.26 W;

Then a rhumb line to (19) 27° 26′.10 N, 178° 32′.23 W;

Then an arc with a 60.17 nm radius centered at (20) 28° 25′.23 N, 178° 19′.51 W;

Then to point (1) 29° 24′.21 N, 178° 06′.45 W.

The boundaries for the Inner Reporting Areas listed in this appendix, unless otherwise described in this rule, begin at Point 1 as indicated in the particular area's coordinate table and continue to each successive point in numerical order until ending at the last point in the table.

Table 1—Coordinates of the Inner Reporting Area Boundary Around Hōlanikū (Kure Atoll), Kuaihelani (Midway Atoll), Manawai (Pearl and Hermes Atoll) Area To Be Avoided (ATBA)
Point No. | Longitude | Latitude
1 | −175.78700 | 27.01217
2 | −175.87900 | 27.01133
3 | −175.96933 | 27.01817
4 | −176.05883 | 27.03317
5 | −176.14683 | 27.05567
6 | −176.23183 | 27.08533
7 | −176.31317 | 27.12283
8 | −176.39000 | 27.16633
9 | −176.46233 | 27.21700
10 | −176.47833 | 27.22950
11 | −176.49783 | 27.24600
12 | −177.55517 | 27.41583
13 | −178.49833 | 27.59783
14 | −178.56550 | 27.61067
15 | −178.62200 | 27.62550
16 | −178.67750 | 27.64333
17 | −178.73167 | 27.66417
18 | −178.78417 | 27.68800
19 | −178.83500 | 27.71483
20 | −178.88383 | 27.74433
21 | −178.93050 | 27.77650
22 | −178.97483 | 27.81117
23 | −179.01667 | 27.84817
24 | −179.05650 | 27.88700
25 | −179.09350 | 27.92817
26 | −179.12683 | 27.97150
27 | −179.15783 | 28.01683
28 | −179.18500 | 28.06350
29 | −179.20883 | 28.11183
30 | −179.22917 | 28.16117
31 | −179.24583 | 28.21167
32 | −179.25900 | 28.26300
33 | −179.26850 | 28.31517
34 | −179.27417 | 28.36733
35 | −179.27600 | 28.41200
36 | −179.27617 | 28.42000
37 | −179.27600 | 28.43017
38 | −179.27400 | 28.47250
39 | −179.26833 | 28.52483
40 | −179.25900 | 28.57683
41 | −179.24583 | 28.62817
42 | −179.22900 | 28.67850
43 | −179.20900 | 28.72800
44 | −179.18550 | 28.77633
45 | −179.15867 | 28.82317
46 | −179.12833 | 28.86850
47 | −179.09500 | 28.91200
48 | −179.05850 | 28.95350
49 | −179.01917 | 28.99300
50 | −178.97700 | 29.03017
51 | −178.93217 | 29.06500
52 | −178.88500 | 29.09717
53 | −178.83550 | 29.12667
54 | −178.78400 | 29.15350
55 | −178.73067 | 29.17733
56 | −178.67567 | 29.19817
57 | −178.61933 | 29.21583
58 | −178.56183 | 29.23033
59 | −178.50350 | 29.24167
60 | −178.44433 | 29.24983
61 | −178.38467 | 29.25467
62 | −178.32483 | 29.25600
63 | −178.26500 | 29.25417
64 | −178.20533 | 29.24900
65 | −178.14633 | 29.24050
66 | −177.20117 | 29.05783
67 | −177.12150 | 29.04250
68 | −175.59117 | 28.64933
69 | −175.57250 | 28.64450
70 | −175.32900 | 28.58183
71 | −175.17750 | 28.43733
72 | −175.14917 | 28.41017
73 | −175.15067 | 28.40883
74 | −175.08183 | 28.33483
75 | −175.03200 | 28.26750
76 | −174.98883 | 28.19633
77 | −174.95383 | 28.12150
78 | −174.92800 | 28.04383
79 | −174.91033 | 27.96400
80 | −174.90083 | 27.88350
81 | −174.90083 | 27.80200
82 | −174.91033 | 27.72133
83 | −174.92850 | 27.64133
84 | −174.95533 | 27.56350
85 | −174.99050 | 27.48833
86 | −175.03383 | 27.41667
87 | −175.08450 | 27.34883
88 | −175.14317 | 27.28633
89 | −175.20783 | 27.22883
90 | −175.27783 | 27.17650
91 | −175.35417 | 27.13133
92 | −175.43483 | 27.09283
93 | −175.51917 | 27.06100
94 | −175.60667 | 27.03700
95 | −175.69633 | 27.02150
96 | −175.78700 | 27.01217

Table 2—Coordinates for the Inner Reporting Area Boundary Around ‘Õnũnui and ‘Õnuiki (Gardner Pinnacles), Lalo (French Frigate Shoals), Mokumanamana (Necker) ATBA
Point No. | Longitude | Latitude
1 | −168.00150 | 25.83633
2 | −167.87767 | 25.82733
3 | −167.87750 | 25.82833
4 | −167.80583 | 25.81650
5 | −167.61200 | 25.78483
6 | −167.44133 | 25.66400
7 | −167.32983 | 25.58500
8 | −166.75000 | 25.17383
9 | −166.05600 | 24.68183
10 | −165.58317 | 24.59400
11 | −164.51867 | 24.39633
12 | −164.51900 | 24.39317
13 | −164.49567 | 24.38850
14 | −164.40867 | 24.36417
15 | −164.32317 | 24.33500
16 | −164.24267 | 24.29583
17 | −164.16617 | 24.24983
18 | −164.09483 | 24.19767
19 | −164.03000 | 24.13833
20 | −163.97050 | 24.07467
21 | −163.92033 | 24.00450
22 | −163.87650 | 23.93083
23 | −163.84267 | 23.85283
24 | −163.81633 | 23.77217
25 | −163.79983 | 23.68950
26 | −163.79267 | 23.60567
27 | −163.79333 | 23.52117
28 | −163.80467 | 23.43783
29 | −163.82500 | 23.35567
30 | −163.85233 | 23.27550
31 | −163.89117 | 23.19933
32 | −163.93583 | 23.12567
33 | −163.98967 | 23.05767
34 | −164.05017 | 22.99417
35 | −164.11833 | 22.93783
36 | −164.19150 | 22.88700
37 | −164.26967 | 22.84333
38 | −164.35267 | 22.80800
39 | −164.43800 | 22.77883
40 | −164.52667 | 22.75817
41 | −164.61717 | 22.74717
42 | −164.70850 | 22.74417
43 | −164.79983 | 22.74867
44 | −164.82533 | 22.75183
45 | −164.85800 | 22.75650
46 | −164.85883 | 22.75283
47 | −165.58317 | 22.83767
48 | −166.32717 | 22.92500
49 | −166.38867 | 22.93217
50 | −166.60000 | 22.95683
51 | −166.75000 | 23.06250
52 | −166.79083 | 23.09133
53 | −168.38100 | 24.21167
54 | −168.37967 | 24.21467
55 | −168.45467 | 24.26750
56 | −168.52767 | 24.31917
57 | −168.59917 | 24.37117
58 | −168.66567 | 24.42850
59 | −168.72583 | 24.49183
60 | −168.77717 | 24.56117
61 | −168.82150 | 24.63433
62 | −168.85767 | 24.71133
63 | −168.88533 | 24.79083
64 | −168.90467 | 24.87233
65 | −168.91367 | 24.95533
66 | −168.91583 | 25.03867
67 | −168.90717 | 25.12167
68 | −168.88867 | 25.20317
69 | −168.86267 | 25.28317
70 | −168.82667 | 25.35950
71 | −168.78217 | 25.43233
72 | −168.73100 | 25.50150
73 | −168.67367 | 25.56483
74 | −168.60867 | 25.62283
75 | −168.53733 | 25.67483
76 | −168.46133 | 25.72067
77 | −168.38033 | 25.75950
78 | −168.29600 | 25.79050
79 | −168.20783 | 25.81317
80 | −168.11817 | 25.82867
81 | −168.02700 | 25.83517
82 | −168.00150 | 25.83633

Table 3—Coordinates for Inner Reporting Area Boundary Around the Kapou (Lisianski Island), Kamole (Laysan Island), Kamokuokamohoali‘i (Maro Reef), Raita Bank ATBA
Point No. | Longitude | Latitude
1 | −173.56150 | 26.85217
2 | −173.51450 | 26.84583
3 | −173.51317 | 26.84817
4 | −171.62833 | 26.60000
5 | −171.56400 | 26.59150
6 | −171.51400 | 26.58500
7 | −171.45833 | 26.56783
8 | −171.41933 | 26.55583
9 | −170.38400 | 26.23767
10 | −169.81600 | 26.14483
11 | −169.81717 | 26.13933
12 | −169.76383 | 26.12700
13 | −169.67617 | 26.10050
14 | −169.59400 | 26.06617
15 | −169.51517 | 26.02517
16 | −169.44083 | 25.97750
17 | −169.37233 | 25.92200
18 | −169.31000 | 25.86117
19 | −169.25317 | 25.79633
20 | −169.20567 | 25.72567
21 | −169.16550 | 25.65083
22 | −169.13467 | 25.57283
23 | −169.11267 | 25.49233
24 | −169.09883 | 25.41017
25 | −169.09400 | 25.32717
26 | −169.09883 | 25.24417
27 | −169.11100 | 25.16150
28 | −169.13367 | 25.08083
29 | −169.16600 | 25.00283
30 | −169.20583 | 24.92767
31 | −169.25233 | 24.85583
32 | −169.30800 | 24.78950
33 | −169.37033 | 24.72817
34 | −169.43850 | 24.67233
35 | −169.51300 | 24.62367
36 | −169.59400 | 24.58333
37 | −169.67767 | 24.55033
38 | −169.76467 | 24.52233
39 | −169.85133 | 24.50517
40 | −169.94217 | 24.49467
41 | −170.03017 | 24.49267
42 | −170.07617 | 24.49350
43 | −170.73983 | 24.59617
44 | −170.79300 | 24.60483
45 | −170.83950 | 24.61967
46 | −170.86950 | 24.62933
47 | −171.83650 | 24.93717
48 | −174.41400 | 25.27683
49 | −174.64083 | 25.49267
50 | −174.70050 | 25.55467
51 | −174.75333 | 25.62217
52 | −174.79733 | 25.69467
53 | −174.83417 | 25.77050
54 | −174.86283 | 25.84883
55 | −174.88183 | 25.93000
56 | −174.89117 | 26.01183
57 | −174.89350 | 26.09450
58 | −174.88450 | 26.17650
59 | −174.86800 | 26.25767
60 | −174.84283 | 26.33667
61 | −174.80733 | 26.41250
62 | −174.76567 | 26.48583
63 | −174.71600 | 26.55433
64 | −174.65817 | 26.61850
65 | −174.59383 | 26.67667
66 | −174.52383 | 26.72917
67 | −174.44783 | 26.77483
68 | −174.36817 | 26.81500
69 | −174.28383 | 26.84650
70 | −174.19650 | 26.87000
71 | −174.10717 | 26.88683
72 | −174.01633 | 26.89567
73 | −173.92467 | 26.89567
74 | −173.83367 | 26.88817
75 | −173.74300 | 26.87600
76 | −173.65233 | 26.86417
77 | −173.56150 | 26.85217

Table 4—Coordinates for the Inner Reporting Area Boundary Around Nihoa ATBA
Point No. | Longitude | Latitude
1 | −161.78483 | 23.88033
2 | −161.74450 | 23.87317
3 | −161.74233 | 23.88033
4 | −161.68667 | 23.86833
5 | −161.63200 | 23.85300
6 | −161.57850 | 23.83467
7 | −161.52633 | 23.81317
8 | −161.47583 | 23.78883
9 | −161.42700 | 23.76150
10 | −161.38017 | 23.73133
11 | −161.33550 | 23.69867
12 | −161.29333 | 23.66333
13 | −161.25350 | 23.62567
14 | −161.21650 | 23.58567
15 | −161.18217 | 23.54367
16 | −161.15083 | 23.49983
17 | −161.12250 | 23.45417
18 | −161.09750 | 23.40700
19 | −161.07567 | 23.35850
20 | −161.05717 | 23.30867
21 | −161.04217 | 23.25800
22 | −161.03067 | 23.20650
23 | −161.02250 | 23.15450
24 | −161.01817 | 23.10217
25 | −161.01717 | 23.04950
26 | −161.01983 | 22.99700
27 | −161.02617 | 22.94483
28 | −161.03583 | 22.89300
29 | −161.04917 | 22.84183
30 | −161.06583 | 22.79167
31 | −161.08583 | 22.74250
32 | −161.10900 | 22.69450
33 | −161.13550 | 22.64800
34 | −161.16500 | 22.60317
35 | −161.19750 | 22.56017
36 | −161.23283 | 22.51900
37 | −161.27083 | 22.48017
38 | −161.31150 | 22.44350
39 | −161.35433 | 22.40933
40 | −161.39950 | 22.37767
41 | −161.44667 | 22.34867
42 | −161.49567 | 22.32250
43 | −161.54633 | 22.29917
44 | −161.59833 | 22.27883
45 | −161.65167 | 22.26167
46 | −161.70617 | 22.24750
47 | −161.76133 | 22.23667
48 | −161.81717 | 22.22883
49 | −161.87350 | 22.22450
50 | −161.93000 | 22.22333
51 | −161.98633 | 22.22550
52 | −162.04250 | 22.23083
53 | −162.09083 | 22.23850
54 | −162.09817 | 22.23950
55 | −162.11467 | 22.24317
56 | −162.20300 | 22.26450
57 | −162.28850 | 22.29500
58 | −162.37000 | 22.33283
59 | −162.44733 | 22.37883
60 | −162.51917 | 22.43133
61 | −162.58483 | 22.49017
62 | −162.64350 | 22.55467
63 | −162.69533 | 22.62450
64 | −162.73900 | 22.69883
65 | −162.77450 | 22.77717
66 | −162.80083 | 22.85800
67 | −162.81817 | 22.94100
68 | −162.82633 | 23.02500
69 | −162.82483 | 23.10967
70 | −162.81483 | 23.19350
71 | −162.79500 | 23.27617
72 | −162.76633 | 23.35600
73 | −162.72917 | 23.43367
74 | −162.68350 | 23.50667
75 | −162.63050 | 23.57517
76 | −162.56967 | 23.63767
77 | −162.50300 | 23.69483
78 | −162.42983 | 23.74533
79 | −162.35183 | 23.78933
80 | −162.26933 | 23.82583
81 | −162.18317 | 23.85400
82 | −162.09383 | 23.87400
83 | −162.00417 | 23.88567
84 | −161.91250 | 23.88933
85 | −161.82133 | 23.88483
86 | −161.78483 | 23.88033

Appendix F to Subpart W of Part 922—IMO Standard Reporting Format and Data Syntax for Ship Reporting System

Telegraphy | Function: System identifier | Information required: CORAL SHIPREP // | Example field text: CORAL SHIPREP //
A | Ship | Vessel name/call sign/flag/IMO number/Federal documentation or State registration number if applicable // | A/OCEAN VOYAGER/C5FU8/BAHAMAS/IMO 9359165/.
B | Date, time (UTC), and month of entry | A 6-digit group giving day of month (first two digits), hours and minutes (last four digits) in coordinated universal time, suffixed by the letter Z (indicating time in UTC), and three letters indicating month // | B/271107Z DEC//.
C | Position | A 4-digit group giving latitude in degrees and minutes, suffixed with the letter N (indicating north), followed by a single /, and a five-digit group giving longitude in degrees and minutes, suffixed with the letter W (indicating west) // [Report in the World Geodetic System 1984 Datum (WGS-84)] | C/2728N/17356W//.
E | True course | 3-digit number indicating true course // | E/180//.
F | Speed in knots and tenths | 3-digit group indicating knots decimal tenths // | F/20.5//.
I | Destination and estimated time of arrival | Name of port city/country/estimated arrival date and time group expressed as in (B) // | I/SEATTLE/USA/311230Z DEC//.
L | Intended route through the re- porting area | Route information should be reported as a direct rhumbline (RL) course through the reporting area and intended speed (expressed as in E and F) or a series of waypoints (WP). Each waypoint entry should be reported as latitude and longitude, expressed as in (C), and intended speed be- tween waypoints (as in F) // (Note: As many “L” lines as needed may be used to describe the vessel's intended route.) | L/RL/215/20.5// -OR- L/WP/2734N/17352W/20.5// L/WP/2641N/17413W/20.5// L/WP/2605N/17530W/20.5//.
O | Vessel draft in meters | Maximum present static draft reported in meters decimal centimeters // | O/11.50//.
P | Categories of Hazardous Cargoes * | Classification Code (e.g., IMDG, IBC, IGC, INF) / and all corresponding Categories of Hazardous Cargoes (delimited by commas) // Note: If necessary, use a separate “P” line for each type of Classification Code | P/IMDG/1.4G,2.1,2.2,2.3, 3,4.1,6.1,8,9//.
Q | Defects or deficiencies ** | Brief details of defects, damage, deficiencies or limitations that restrict maneuverability or impair normal navigation // (If none, enter the number zero.) | Q/Include details as required//.
R | Pollution incident or goods lost overboard ** | Description of pollution incident or goods lost overboard with- in the Monument, the Reporting Area, or the U.S. Exclusive Economic Zone// (If none, enter the number zero.) | R/0//.
T | Contact information of ship's agent or owner | Name/address/and phone number of ship's agent or owner // | T/JOHN DOE/GENERIC SHIPPING COMPANY INC, 6101 ACME ROAD, ROOM 123, CITY, STATE, COUNTRY 12345/123-123-1234//.
U | Ship size (length overall and gross tonnage) and type | Length overall reported in meters decimal centimeters/number of gross tons/type of ship (e.g., bulk carrier, chemical tanker, oil tanker, gas tanker, container, general cargo, fishing vessel, research, passenger, OBO, RORO) // | U/294.14/54592/CONTAINER SHIP//.
W | Persons | Total number of persons on board // | W/15//.
Table Notes:
* Categories of hazardous cargoes means goods classified in the International Maritime Dangerous Goods (IMDG) Code; substances classified in chapter 17 of the International Code for the Construction and Equipment of Ships Carrying Dangerous Chemicals in Bulk (IBC Code) and chapter 19 of the International Code for the Construction and Equipment of Ships Carrying Liquefied Gases in Bulk (IGC Code); oils as defined in MARPOL Annex I; noxious liquid substances as defined in MARPOL Annex II; harmful substances as defined in MARPOL Annex III; and radioactive materials specified in the Code for the Safe Carriage of the Irradiated Nuclear Fuel, Plutonium and High-Level Radioactive Wastes in Flasks on Board Ships (INF Code).
** In accordance with the provisions of the MARPOL Convention, ships must report information relating to defects, damage, deficiencies or other limitations as well as, if necessary, information relating to pollution incidents or loss of cargo. Safety related reports must be provided to CORAL SHIPREP without delay should a ship suffer damage, failure or breakdown affecting the safety of the ship (Item Q), or if a ship makes a marked deviation from a route, course or speed previously advised (Item L). Pollution or cargo lost overboard must be reported without delay (Item R).

[FR Doc. 2024-30576 Filed 1-15-25; 8:45 am]

BILLING CODE 3510-NK-P